DEPARTMENT OF DEFENSE

Department of the Army

32 CFR Part 578

RIN 0702-AA41

Decorations, Medals, Ribbons, & Similar Devices

AGENCY: Department of Army, DOD.

ACTION: Final rule.

SUMMARY: The Department of the Army is revising our rule concerning the regulation that prescribes policy, criteria, and administrative instructions concerning individual military awards. This rule finalizes the proposed rule that was published in the Federal Register on November 2, 2005.

DATES: Effective Date: May 5, 2006.

ADDRESSES: U.S. Army Human Resources Command, Military Awards Branch, ATTN: AHRC-PDO-PA, 200 Stovall Street, Alexandria, VA 22332-0471.

FOR FURTHER INFORMATION CONTACT: Ms. Denise Harris, U.S. Army Human Resources Command, Military Awards Branch at (703)325-9171.

SUPPLEMENTARY INFORMATION:

A. Background

In the November 2, 2005, issue of the Federal Register (70 FR 66602), the Department of the Army issued a proposed rule to revise 32 CFR part 578. This final rule incorporates laws enacted and policies approved by AR 600-8-22, Military Awards, in October 1990. The Department of the Army received a response from one commenter, requesting that the Army implement a policy to create a medal to accompany a Department of Defense certificate. The commenter was informed that the Army does not govern the certificate in question, and therefore cannot create a medal to accompany the certificate. The commenter was also advised to submit a written request for creation of a new medal to the Department of Defense.

B. Regulatory Flexibility Act

This rule has been reviewed under the Regulatory Flexibility Act, 5 U.S.C. 601-612, which requires the preparation of a regulatory flexibility analysis for any regulation that will have a significant economic impact on a substantial number of small entities (i.e., small businesses and small governments). The Department of the Army has determined that this rule will have no significant economic impact on small entities.

C. Paperwork Reduction Act

The Paperwork Reduction Act does not apply, because the rule does not impose any information collection requirements that require the approval of the Office of Management and Budget under 44 U.S.C. 3501, et seq.

D. Executive Order 12866

According to the criteria listed in section 3(f) of Executive Order 12866, HQ, U.S. Army Human Resources Command has determined that the proposed rule is not a significant regulatory action. As such, the proposed rule is not subject to Office of Management and Budget review under section 6(a)(3) of the Executive Order.

E. Eric Porter,
Brigadier General, United States Army, The Adjutant General.

List of Subjects in 32 CFR Part 578

Decorations, Medals, Awards, Military personnel.

For the reasons stated in the preamble, the Department of the Army is revising 32 CFR part 578 to read as follows:

PART 578—DECORATIONS, MEDALS, RIBBONS, & SIMILAR DEVICES

General

Sec.
578.1 Purpose.
578.2 Explanation of terms.
578.3 Display sets of award elements and the Medal of Honor.
578.4 U.S. Military decorations.
578.5 Award recommendations.
578.6 Wartime criteria.
578.7 Peacetime criteria.
578.8 General rules.
578.9 Medal of Honor.
578.10 Distinguished Service Cross.
578.11 Distinguished Service Medal.
578.12 Silver Star.
578.13 Legion of Merit.
578.14 Distinguished Flying Cross.
578.15 Soldier's Medal.
578.16 Bronze Star Medal.
578.17 Purple Heart.
578.18 Meritorious Service Medal.
578.19 Air Medal.
578.20 Army Commendation Medal.
578.21 Army Achievement Medal.
578.22 Prisoner of War Medal.
578.23 National Defense Service Medal.
567.24 Antarctica Service Medal.
578.25 Armed Forces Expeditionary Medal.
578.26 Vietnam Service Medal.
578.27 Southwest Asia Service Medal.
578.28 Kosovo Campaign Medal.
578.29 Afghanistan Campaign Medal.
578.30 Iraq Campaign Medal.
578.31 Global War on Terrorism Expeditionary Medal.
578.32 Global War on Terrorism Service Medal.
578.33 Korean Defense Service Medal.
578.34 Armed Forces Service Medal.
578.35 Humanitarian Service Medal.
578.36 Military Outstanding Volunteer Service Medal.
578.37 Army Good Conduct Medal.
578.38 Army Reserve Components Achievement Medal.
578.39 Army Reserve Components Overseas Training Ribbon.
578.40 Overseas Service Ribbon.
578.41 Army Service Ribbon.
578.42 Noncommissioned Officer Professional Development Ribbon.
578.43 Armed Forces Reserve Medal.
578.44 Korean Service Medal.
578.45 Medal of Humane Action.
578.46 Army of Occupation Medal.
578.47 World War II Victory Medal.
578.48 European-African-Middle Eastern Campaign Medal.
578.49 Asiatic-Pacific Campaign Medal.
578.50 American Campaign Medal.
578.51 Women's Army Corps Service Medal.
578.52 American Defense Service Medal.
578.53 Army of Occupation of Germany Medal.
578.54 World War I Victory Medal.
578.55 Service medals and ribbons no longer available for issue.
578.56 United States Unit Awards.
578.57 Presidential Unit Citation.
578.58 Valorous Unit Award.
578.59 Meritorious Unit Commendation.
578.60 Army Superior Unit Award.
578.61 Appurtenances to military decorations.
578.62 Service ribbons.
578.63 Lapel buttons.
578.64 Miniature decorations.
578.65 Supply, service and requisition of medals and badges.
578.66 Original issue or replacement.
578.67 Manufacture, sale and illegal possession.
578.68 Badges and tabs; general.
578.69 Combat Infantryman Badge.
578.70 Combat Medical Badge.
578.71 Combat Action Badge.
578.72 Expert Infantryman Badge.
578.73 Expert Field Medical Badge.
578.74 Parachutist badges.
578.75 Parachutist Badge-Basic.
578.76 Senior Parachutist Badge.
578.77 Master Parachutist Badge.
578.78 Parachute Rigger Badge.
578.79 Military Free Fall Parachutist Badge.
578.80 Army Aviator Badges.
578.81 Flight Surgeon Badges.
578.82 Diver Badges.
578.83 Special Operations Diver Badge.
578.84 Explosive Ordnance Disposal Badges.
578.85 Explosive Ordnance Disposal Badge-Basic.
578.86 Senior Explosive Ordnance Disposal Badge.
578.87 Master Explosive Ordnance Disposal Badge.
578.88 Pathfinder Badge.
578.89 Air Assault Badge.
578.90 Aviation Badges.
578.91 Aviation Badge-Basic.
578.92 Senior Aviation Badge.
578.93 Master Aviation Badge.
578.94 Driver and Mechanic Badge.
578.95 Glider Badge (Rescinded).
578.96 Nuclear Reactor Operator Badge (Rescinded).
578.97 Marksmanship Qualification Badge.
578.98 Ranger Tab.
578.99 Special Forces Tab.
578.100 Sapper Tab.
578.101 Physical Fitness Badge.
578.102 U.S. Civilian Marksmanship Program.
578.103 President's Hundred Tab.
578.104 Identification Badges.
578.105 Presidential Service Badge and Certificate.
578.106 Vice Presidential Service Badge and Certificate.
578.107 Office of the Secretary of Defense Identification Badge.
578.108 Joint Chiefs of Staff Identification Badge.
578.109 Army Staff Identification Badge.
578.110 Guard, Tomb of the Unknown Soldier Identification Badge.
578.111 Army ROTC Nurse Cadet Program Identification Badge.
578.112 Drill Sergeant Identification Badge.
578.113 U.S. Army Recruiter Identification Badge.
578.114 Career Counselor Badge.
578.115 Army National Guard Recruiting and Retention Identification Badges.
578.116 U.S. Army Reserve Recruiter Identification Badge.
578.117 Foreign and International Decorations and Awards to U.S. Army Personnel—General.
578.118 Individual foreign decorations.
578.119 Foreign unit decorations.
578.120 Foreign badges.
578.121 United Nations Service Medal.
578.122 Inter-American Defense Board Medal.
578.123 Philippine Defense Ribbon.
578.124 Philippine Liberation Ribbon.
578.125 Philippine Independence Ribbon.
578.126 United Nations Medal.
578.127 North Atlantic Treaty Organization (NATO) Medal.
578.128 Multinational Force and Observers Medal.
578.129 Republic of Vietnam Campaign Medal.
578.130 Kuwait Liberation Medal—Saudi Arabia.
578.131 Kuwait Liberation Medal—Kuwait.
578.132 Republic of Korea War Service Medal.
578.133 Certificates for decorations.
578.134 Certificate of Achievement.
578.135 Certificate of appreciation to employers.
578.136 Certificates for badges.
578.137 Cold War Recognition Certificate.

Authority: Sec. 3012, Pub. L. 84-1028, 70A Stat. 157; 10 U.S.C. 3013.

§ 578.1 Purpose.

The primary purpose of the awards program is to provide tangible evidence of public recognition for acts of valor and for exceptional service or achievement. Medals constitute one of the principal forms for such evidence; in the United States Army, medals are of the following categories:

(a) Military decorations are awarded on a restricted individual basis in recognition of and as a reward for heroic, extraordinary, outstanding, and meritorious acts, achievements, and services; and such visible evidence of recognition is cherished by recipients. Decorations are primarily intended to recognize acts, achievements, and services in time of war.

(b) The Army Good Conduct Medal is awarded in recognition of exemplary behavior, efficiency, and fidelity during enlisted status in active Federal military service.

(c) Service medals are awarded generally in recognition of honorable performance of duty during designated campaigns or conflicts. Award of decorations, and to a lesser degree, award of the Army Good Conduct Medal and of service medals, provide a potent incentive to greater effort, and are instrumental in building and maintaining morale.

§ 578.2 Explanation of terms.

The following definitions are furnished for clarity and uniformity in the determination and award of decorations:

(a) Above and beyond the call of duty. Exercise of a voluntary course of action, the omission of which would not justly subject the individual to censure for failure in the performance of duty. It usually includes the acceptance of existing danger or extraordinary responsibilities with praiseworthy fortitude and exemplary courage. In its highest degrees it involves the voluntary acceptance of additional danger and risk of life.

(b) Active Federal military service. The term “active Federal military service” means all periods of active duty, Active Guard Reserve (AGR) service and, except for service creditable for the Armed Forces Reserve Medal, excludes periods of active duty for training (ADT) and full-time training duty (FTTD). Service as a cadet at the United States Military Academy is considered to be active duty for the purposes of military awards and decorations.

(c) Active Guard Reserve. Army National Guard of the U.S. (ARNGUS) and U.S. Army Reserve (USAR) personnel serving on active duty (AD) under 10 U.S.C. and Army National Guard personnel serving on full-time National Guard duty (FTNGD) under 32 U.S.C. These personnel are on FTNGD or AD (other than training) for 180 days or more for the purpose of organizing, administering, recruiting, instructing, or training the Reserve Components and are paid from National Guard Personnel, Army or Reserve Personnel Army appropriations.

(d) Area of operation. The foreign territory upon which troops have actually landed or are present and specifically deployed for the direct support of the designated military operation; adjacent water areas in which ships are operating, patrolling, or providing direct support of operations; and the airspace above and adjacent to the area in which operations are being conducted.

(e) Award. Recognition given to individuals or units for certain acts or services, or badges, accolades, emblems, citations, commendations, streamers, and silver bands. Also an adjectival term used to identify administrative functions relating to recognition (for example, awards boards, award recommendations, and so forth).

(f) Award precondition. Any eligibility criterion not specified by this regulation which must be met before awarding a decoration.

(g) Biographical sketch. Identification of an individual that includes as a minimum: Full name, Social Security Number (SSN), date and place of birth, marital status, education, and military service.

(h) Bravery. Quality or state showing courage; level of conduct which is expected of professional Army soldiers.

(i) Combat heroism. Act or acts of heroism by an individual engaged in actual conflict with an armed enemy, or in military operations which involve exposure to personal hazards, due to direct enemy action or the imminence of such action.

(j) Combat zone. The region where fighting is going on; the forward area of the theater of operations where combat troops are actively engaged. It extends from the frontline to the front of the communications zone.

(k) Decoration. Distinctively designed mark of honor denoting heroism or meritorious/outstanding service/achievement for individuals and units.

(l) Direct participation. “Hands-on” activity at the site, or sites, of the military act or operation. The individual must be physically present at the designated location, having contributed to and influenced the action.

(m) Direct support. Services being supplied the combat forces in the area of operations by ground units, ships, and aircraft providing supplies and equipment to the forces concerned, provided it involves actually entering the designated area; and ships and aircraft providing fire, patrol, guard, reconnaissance, or other military support.

(n) Distinguished himself or herself by. A person to have distinguished himself or herself must, by praiseworthy accomplishment, be set apart from other persons in the same or similar circumstances. Determination of this distinction requires careful consideration of exactly what is or was expected as the ordinary, routine, or customary behavior and accomplishment for individuals of like rank and experience for the circumstances involved.

(o) Duty of great responsibility. Duty which, by virtue of the position held, carries the ultimate responsibility for the successful operation of a major command, activity, agency, installation, or project. The discharge of such duty must involve the acceptance and fulfillment of the obligation so as to greatly benefit the interests of the United States.

(p) Duty of responsibility. Duty, which by virtue of the positions held, carries a high degree of the responsibility for the successful operation of a major command, activity, agency, installation, or project, or which requires the exercise of judgment and decision affecting plans, policies, operations, or the lives and well being of others.

(q) Extraordinary heroism. Act or acts of heroism or gallantry involving the risk of life. Minimum level of valorous performance in combat consistent with a recommendation for the Distinguished Service Cross.

(r) Foreign Decoration. Any order, device, medal, badge, insignia, emblem or award, tendered by or received from a foreign government.

(s) Foreign government. Includes any unit of a foreign governmental authority, including any foreign national, State, local and municipal Government; any international or multinational organization whose membership is composed of any unit of foreign government described above; and any agent or representative of any such unit or organization while acting as such.

(t) Gallantry and intrepidity at the risk of life. Fearless spontaneous conduct at the certain risk of life, above and beyond the call of duty, which clearly sets the soldier apart from all other comrades. Minimum level of valorous performance in combat consistent with a recommendation for the Medal of Honor.

(u) Gallantry in action. Spirited and conspicuous acts of heroism and courage. Minimum level of valorous performance in combat consistent with a recommendation for the Silver Star.

(v) Heroism. Extreme courage demonstrated in attaining a noble end. Varying levels of documented heroic actions are necessary to substantiate recommendations for the Bronze Star Medal with “V,” Air Medal with “V,” and the Army Commendation Medal with “V.”

(w) In connection with military operations against an armed enemy. This phrase covers all military operations including combat, support, and supply which have a direct bearing on the outcome of an engagement or engagements against armed opposition. To perform duty or to accomplish an act of achievement in connection with military operations against an armed enemy, the individual must have been subjected either to personal hazard as a result of direct enemy action, or the imminence of such action, or must have had the conditions under which his duty or accomplishment took place complicated by enemy action or the imminence of enemy action.

(x) Key individual. A person who is occupying a position that is indispensable to an organization, activity, or project.

(y) Medal. A term used to—

(1) Include the three categories of awards, namely: Decorations, Army Good Conduct Medal, and service medals.

(2) Refer to the distinctive physical device of metal and ribbon which constitutes the tangible evidence of an award.

(z) Meritorious Achievement. An act which is well above the expected performance of duty. The act should be an exceptional accomplishment with a definite beginning and ending date. The length of time is not a primary consideration; however, speed of accomplishment of an important task can be a factor in determining the value of an act.

(aa) Meritorious Service. Service which is distinguished by a succession of outstanding acts of achievement over a sustained period of time. Individual performance must exceed that expected by virtue of grade and experience, based on accomplishments during an entire tour of duty.

(bb) Military merit. Demonstrated conduct or character deserving of recognition.

(cc) Officer. Except where expressly indicated otherwise, the word “officer” means “commissioned or warrant officer.”

(dd) Operation. A military action, or the carrying out of a strategic, tactical, service, training, or administrative military mission; the process of carrying on combat including movement, supply, attack, defense, and maneuvers needed to gain the objectives of any battle or campaign.

(ee) Outstanding or unusually meritorious performance. Performance of duty determined by the employing component to have contributed to an unusually significant degree toward the furtherance of good relations between the United States and the foreign government tendering the decoration. This requires that the service be of national significance to the foreign government and that it be performed under exceptionally difficult, extraordinary, or hazardous conditions.

(ff) Peacetime criteria. (1) In a period when the United States is not engaged in the prosecution of a formal declared war.

(2) Applied outside a combat zone when the United States is engaged in military operations against an armed enemy, but is not prosecuting a formally declared war, except that in the communications zone those individuals whose duties are in connection with military operations against an armed enemy may be considered under wartime criteria.

(3) A period in specified areas where U.S. troops are engaged in military operations involving conflict with an opposing foreign force or while serving with friendly foreign forces engaged in an armed conflict against an opposing armed force in which the United States is not a belligerent party.

(gg) Primary next of kin. Primary next of kin are, in order of precedence, surviving spouse, eldest child, father or mother, eldest brother or sister, or eldest grandchild.

(hh) Reserve Components of the Army. The Army National Guard of the United States and the U.S. Army Reserve.

(ii) U.S. Individual Army decorations. U.S. Individual Army decorations are the Medal of Honor, Distinguished Service Cross, Distinguished Service Medal, Silver Star, Legion of Merit, Distinguished Flying Cross, Soldier's Medal, Bronze Star Medal, Purple Heart, Meritorious Service Medal, Air Medal, Army Commendation Medal, and the Army Achievement Medal.

(jj) U.S. unit decorations. U.S. unit decorations are the Presidential Unit Citation, Valorous Unit Award, Meritorious Unit Commendation, and Army Superior Unit Award.

(kk) Valor. Heroism performed under combat conditions.

(ll) Wartime criteria. (1) A period of formally declared war and for 1 year after the cessation of hostilities.

(2) A period of military operations against an armed enemy and for 1 year after cessation of hostilities. Only those individuals actually in the combat zone or those in the communications zone whose duties involve direct control or support of combat operations are to be considered under wartime criteria.

(3) A period of national emergency declared by the President or by the Congress.

§ 578.3 Display sets of award elements and the Medal of Honor.

(a) Government agencies. Upon approval by the Secretary of the Army, samples of military decorations may be furnished, without charge, for one display at the headquarters of each Army and higher field commander, in the offices of the chiefs of governmental agencies not under military jurisdiction where opportunity for the public to view the display is assured, and in each office of Headquarters, Department of the Army (HQDA) with activities that include matters pertaining to decorations.

(b) Civilian institutions. Upon approval by the Secretary of the Army, samples of military decorations may be furnished, at cost price, to museums, libraries, and to national headquarters of historical, numismatic, and military societies; and to institutions of such public nature as will assure an opportunity for the public to view the exhibits under circumstances beneficial to the Army. All decorations furnished to civilian institutions for exhibition purposes will be engraved with the words, “For Exhibition Purposes only.”

(c) Requests. Letter requests for decorations for exhibit or display will be made to Commander, U.S. Army Human Resources Command (USA HRC), ATTN: AHRC-PDO-PA, 200 Stovall Street, Alexandria, VA 22332-0471.

(d) Display. Service medals for service prior to World War II will not be provided for display purposes since only minimum essential quantities are available for issue to authorized recipients.

(e) Purchase of medals. Except for the Medal of Honor, all other decorations, service medals, and ribbons can be purchased from private vendors who have been issued a certificate of authority by the Institute of Heraldry. A list of certified vendors can be obtained from HQ, USA HRC (see § 578.3 (c)).

(f) Display sets of the Medal of Honor. Upon written requests, The Adjutant General of the Army can approve issue of a display Medal of Honor to government agencies (defined in paragraphs (a) and (b) of this section). Adequate security arrangement must be provided for the medal so that it will not be lost through vandalism or theft. Maximum exposure of the medal to the public must be ensured, on a free of charge basis, under circumstances beneficial to the Army.

§ 578.4 U.S. Military decorations.

To whom awarded, see Table 1 below.

Table 1
Decorations listed in order of precedence | Awarded for:: Heroism | Awarded for:: Achievement or service | Awarded to:: Military: United States | Awarded to:: Military: Foreign | Awarded to:: Civilian: United States | Awarded to:: Civilian: Foreign
Medal of Honor | Combat | n/a | War ¹ | n/a | n/a | n/a.
Distinguished Service Cross | Combat | n/a | War | War | n/a | n/a.
Distinguished Service Medal | War | War & Peace | War & Peace | War & Peace | War ² | War.²
Silver Star | Combat | n/a | War | War | War ² | War.²
Legion of Merit | n/a | War & Peace | War & Peace | War & Peace ⁵ | n/a | n/a.
Distinguished Flying Cross | Combat Noncombat | War & Peace ⁴ | War & Peace | War | n/a | n/a.
Soldier's Medal | Noncombat | n/a | War & Peace ⁴ | War & Peace ⁴ | n/a | n/a.
Bronze Star Medal | Combat ³ | War & Peace ⁴ | War & Peace ⁴ | War & Peace ⁴ | n/a | n/a.
Purple Heart | For wounds received as the result of hostile action | n/a | War & Peace ⁷,⁸ | n/a | n/a | n/a.
Meritorious Service Medal | n/a | Peace & War ⁹ | Peace | Peace | n/a | n/a.
Air Medal | Combat ³ Noncombat | War & Peace ⁴ | War & Peace ⁴ | War | War ² | War.²
Army Commendation Medal | Combat ³ Noncombat | War Peace | War & Peace ⁶ | War & Peace ⁶ | n/a | n/a.
Army Achievement Medal | n/a | Peace & War ⁶, ⁹ | Peace ⁶ | Peace ⁶ | n/a | n/a.
Notes:
¹ The Medal of Honor is awarded only to U.S. military personnel.
² Under limited circumstances. Recommendations will be forwarded to HQ, USA HRC for processing.
³ Awarded with Bronze “V” Device for valor in combat.
⁴ Awarded for peacetime when no formal war has been declared but the U.S. is engaged in military operations against an armed enemy.
⁵ Awarded to foreign military personnel in one of four degrees.
⁶ Not awarded to general officers.
⁷ Awarded to military personnel wounded by terrorists or while members of a peacekeeping force.
⁸ Approval authority is the Secretary of the Army.
⁹ Authorized for award in a combat theater for non-combat meritorious service and achievement.

§ 578.5 Award recommendations.

(a) It is the responsibility and privilege of any individual having personal knowledge of an act, achievement, or service believed to warrant the award of a decoration to submit a recommendation for consideration. It is usually desirable that the intended recipient not be informed of a pending recommending or given an implied promise of an award prior to final approval and clearance. This is especially true when the intended recipient is a foreigner.

(b) The Department of the Army (DA) Form 638 (Recommendation for Award) will be used to initiate, process and approve award recommendations of all U.S. Army individual decorations, to include valor and heroism decorations.

(c) Narrative description of meritorious service or achievement for awards of the Meritorious Service Medal (MSM), Army Commendation Medal (ARCOM), and Army Achievement Medal (AAM) will be limited to bullet format in the space allowed on the DA Form 638. Bullet format or narratives may be used for the Legion of Merit (LM). Narratives are required for all other awards and will be added as an addendum to the recommendation. Narrative should be prepared on 8½ by 11-inch bond paper and is limited to one double-spaced typewritten page except for recommendations of the Distinguished Service Medal and above. Narratives for valor must contain a description of the following elements: Terrain and weather of the area in which the action took place; enemy conditions, to include morale, proximity, firepower, casualties and situation prior to, during and after the act; the effect of the act on the enemy; the action of comrades in the immediate vicinity of the act and the degree of their participation in the act; if the act occurred in aerial flight, the type and position of the aircraft and the individual's crew position; the degree to which the act was voluntary; the degree to which the act was outstanding and exceeded what was normally expected of the individual; all unusual circumstances; and overall effects or results of the act.

(d) Heroism award recommendations will contain statements of eyewitnesses, preferably in the form of certificates, affidavits, or sworn statements; extracts from official records; sketches; maps; diagrams; photographs; and so forth, which support and amplify stated facts for the heroism award.

(e) Recommendations will be forwarded through command channels to the commander authorized to approve or disapprove it. Each intermediate commander/supervisor will recommend approval or disapproval, and cite specific reasons whenever disapproval is recommended.

(f) Except for the provisions of 10 U.S.C. 1130 outlined in paragraph (g) of this section and lost awards, each recommendation for an award of a military decoration must be entered administratively into military channels within 2 years of the act, achievement, or service to be honored. Submission into military channels is defined as “signed by the initiating official and endorsed by a higher official in the chain of command.”

(g) Pursuant to 10 U.S.C. 1130, a Member of Congress can request consideration of a proposal for the award or presentation of decoration (or the upgrading of a decoration), either for an individual or unit, that is not otherwise authorized to be presented or awarded due to limitations established by law or policy. Based upon such review, the Secretary of the Army shall make a determination as to the merits of approving the award or presentation of the decoration and other determinations necessary to comply with congressional reporting under 10 U.S.C. 1130.

§ 578.6 Wartime criteria.

Wartime criteria, by whom awarded. The Medal of Honor is awarded only by the President. Other decorations are awarded by the President, the Secretary of Defense, and the Secretary of the Army. When wartime conditions erupt, authority to further delegate decorations approval authority will be requested from the Secretary of the Army. Initial delegation will be requested consistent with the award approval authority outlined in Table 2 below.

Table 2
Delegation of Award Approval—Wartime Criteria
The primary purpose of this table is to outline the various awards and decorations approval authorities for use during the immediate stages of Army combat operations. Once delegated, this authority is reviewed every 30, 60, or 90 days during combat operations to determine if further delegation is expedient and justified. Wartime delegation is withdrawn from approval authorities upon redeployment of the unit. This table is not absolute and is subject to change as necessary by the Secretary of the Army. Award approval levels outlined in Table 3 are applicable to Table 2.
Awards | Approval authority | May further delegate | Awarded to
Medal of Honor | President of the United States | N/A | U.S. military personnel.
DSC & all lesser decorations | Secretary of the Army or others as designated by the Secretary of the Army | N/A | a. U.S. Army Active and Reserve Component personnel. b. U.S. Navy, Marine Corps, Air Force, and Coast Guard personnel with concurrence of the appropriate Service Secretary.
DSC, SS, LM, DFC and SM | CG of a U.S. Army Force (Serving in the rank of General) (See note 1) | MG and BG commanders (BG must be serving in MG position), commanders of separate units, may award the BSM, AM, and ARCOM (See note 2) | U.S. Army personnel and members of the other armed services and members of the armed forces of forces of friendly foreign nations in the ranks comparable to the grade of O-6 (COL) or lower provided concurrence is obtained from that Service or foreign government.
BSM, AM, ARCOM | Senior Army Commander and commanders of a separate force serving in the rank of LTG (see note 1) | MG and BG (serving in MG positions) commanders of separate units, may award the BSM, AM and ARCOM (see note 2) | U.S. Army personnel and members of the armed forces of friendly foreign nations in the ranks comparable to the grade of 0-6 (COL) and below, provided concurrence is obtained from that Service or foreign government.
PH | CG of any separate unit and Hospital commanders receiving casualties | To any field grade commander who has orders issuing authority | Member of the Army and member of other Services provided concurrence is obtained from that Service.
PUC, VUA, MUC | As provided in § 578-57; § 578-58 and § 578-59 | Not further delegated | U.S. units and foreign allied units (see § 578-57; § 578-58; and § 578-59.
Campaign Participation Credit | Senior Army Commander serving in the rank of LTG or higher | Not further delegated | Only to eligible U.S. Army units and RC units called to active duty.
Assault landing Credit | Senior Army Commander serving in the rank of LTG or higher | Not further delegated | Only to eligible U.S. Army units and RC units called to Active duty. (DA General Orders Issued)
Combat Badges | Commanding General of any separate unit | To any field grade commander who has orders issuing authority | See § 578.69, § 578.70, § 578.71, § 578.72, § 578-74, § 578-79, § 578-84 and § 578-99 for specific elgibility requirements for combat requirements for combat badges. See also Table 9 on who may be awarded these badges.
Notes:
1. The senior Army commander (SAC) upon arrival in the theater of operations, or as soon thereafter as practical, will submit a request to CFR, USA HRC (see § 578.3(c)), requesting this delegation be activated.
2. Authority to approve award of the ARCOM under wartime criteria may be delegated to Colonel level commanders.

§ 578.7 Peacetime criteria.

Peacetime criteria, by whom awarded. Awards for peacetime service are made by the President, the Secretary of Defense, and the Secretary of the Army. When peacetime criteria apply, authority to award decorations is automatically delegated as shown in Table 3 below.

Table 3
Delegation of award approving authority-peacetime criteria: Commanders and principal HQDA agency officials | Delegation of award approving authority-peacetime criteria: May award | Delegation of award approving authority-peacetime criteria: To
Chief of Staff, U.S. Army | DSM and all less decorations | All U.S. Army personnel and personnel of other Services (see note 2).
General | LM, MSM, ARCOM, and AAM | 1. U.S. Army personnel. 2. U.S. Navy, Marine Corps, and Air Force Personnel below brigadier general attached to their organizations (see note 2).
Lieutenant General | LM | 1. U.S. Army personnel upon retirement or for posthumous awards only (except general grade officers).
| MSM, ARCOM, and AAM | 2. U.S. Army personnel assigned and attached for duty to their command or agency. 3. U.S. Navy, Marine Corps, and Air Force Personnel below brigadier general attached to their organizations (see note 2).
Major General | LM (see note 1) | 1. U.S. Army personnel assigned and attached for duty to their command or agency.
| MSM, ARCOM, and AAM | 2. U.S. Navy, Marine Corps, and Air Force Personnel below brigadier general attached to their organizations (see note 2).
Brigadier General | MSM, ARCOM, and AAM | 1. U.S. Army personnel assigned and attached for duty to their command or agency. 2. U.S. Navy, Marine Corps, and Air Force Personnel below brigadier general attached to their organizations (see note 2).
Colonel | ARCOM, AAM | 1. U.S. Army personnel assigned and attached for duty to their command or agency. 2. U.S. Navy, Marine Corps, and Air Force Personnel below brigadier general attached to their organizations (see note 2).
Lieutenant Colonel | AAM | 1. U.S. Army personnel assigned and attached for duty to their command. 2. U.S. Navy, Marine Corps, and Air Force Personnel below brigadier general attached to their organizations (see note 2).

Table 3—Continued
Delegation of award approving authority-peacetime criteria: Project Managers Program Managers, Product Managers, and Program Executive Officers | Delegation of award approving authority-peacetime criteria: May award | Delegation of award approving authority-peacetime criteria: To
Major Generals and civilian equivalent Senior Executive Service (SES) | MSM, ARCOM and AAM | Service members assigned to their projects (see note 2).
Brigadier Generals and civilian equivalent SES | MSM, ARCOM and AAM | Service members assigned to their projects (see note 2).
Colonels and civilian equivalent General Schedule (GS) 15 | ARCOM and AAM | Service members assigned to their projects (see note 2).
Lieutenant Colonels | AAM | Service members assigned to their projects (see note 2).
Notes:
1. Major Army commanders and officials of principal HQDA agencies in the grade of Major General have authority to approve awards of the Legion of Merit, to retiring and deceased persons, other than general officers, assigned to their commands or agencies.
2. See paragraph 1-36, AR 600-8-22 for instructions on awarding Army decorations to members of the other U.S. Services.

§ 578.8 General rules.

(a) Awards for civilian service. Awards for DA civilians are governed by Army Regulation (AR) 672-20, Incentive Awards. AR 672-20 provides implementing instructions for incentive awards, honorary awards and devices, awards from nonfederal organizations, and medals for public service.

(b) Posthumous awards. Awards may be made following the death of the person being honored in the same manner as they are made for a living person except that the orders and citation will indicate that the award is being made posthumously. The engraved medal and certificate will not contain the word posthumous. Orders announcing the award, together with the certificate, medal, citation and related documents will be forwarded to the appropriate commander for presentation. Eligible classes of next of kin are listed in the order of their precedence in § 578.2 (gg).

(c) Interim awards and awards of a lesser decoration. (1) To ensure that a deserving act, achievement, or service receives recognition, the appropriate authority may promptly award a suitable lesser military decoration pending final action on a recommendation for a higher award, except for retiring U.S. Army general officers. When a higher award is approved, the approving authority will revoke the interim award in the same orders published for the higher award. The decoration will be returned by the recipient, unless the higher award is approved posthumously, in which case the next of kin will be permitted to retain both awards.

(2) The authority taking final action may award the decoration recommended, award a lesser decoration (or consider the interim award as adequate recognition), or in the absence of an interim award, disapprove award of any decoration.

(d) Duplication of awards. (1) Only one decoration will be awarded to an individual or unit for the same act, achievement, or period of meritorious service.

(2) The award of a decoration in recognition of a single act of heroism or meritorious achievement does not preclude an award for meritorious service at the termination of an assignment. Recommendations for award of a decoration for meritorious service will not refer to acts of heroism or meritorious achievements, which have been previously recognized by award or decoration.

(3) Continuation of the same or similar type service already recognized by an award for meritorious service or achievement will not be the basis for a second award. If appropriate, an award may be made to include the extended period of service by superseding the earlier award, or the award previously made be amended to incorporate the extended period of service.

(e) Conversion of awards. Awards of certain decorations (Silver Star, Bronze Star Medal, Purple Heart, and Army Commendation Medal) on the basis of existing letters, certificates, and/or orders, as hereinafter authorized will be made only upon letter application of the individuals concerned to the National Personnel Records Center (NPRC), 9700 Page Avenue, St. Louis, MO 63132-5100 (Soldiers who retired or were discharged on or after October 1, 2002 should send their requests to the Commander, U.S. Army Human Resources Command, St. Louis, ATTN: AHRC-CC-B, 1 Reserve Way, St. Louis, MO 63132-5200).

(f) Character of service. No decoration shall be awarded or presented to any individual whose entire service subsequent to the time of the distinguished act, achievement, or service shall not have been honorable. The Act of July 9, 1918 (40 Stat. 871) as amended (10 U.S.C. 1409); the Act of July 2, 1926 (44 Stat. 789), as amended (10 U.S.C. 1429).

(g) Time limitations. (1) Except for the provisions of 10 U.S.C. 1130 and lost awards addressed below, each recommendation for an award of a military decoration must be entered administratively into military channels within 2 years of the act, achievement, or service to be honored. Submission into military channels is defined as “signed by the initiating official and endorsed by a higher official in the chain of command.”

(2) Pursuant to 10 U.S.C. 1130, a Member of Congress can request consideration of a proposal for the award or presentation of decoration (or the upgrading of a decoration), either for an individual or unit, that is not otherwise authorized to be presented or awarded due to limitations established by law or policy. Based upon such review, the Secretary of the Army shall make a determination as to the merits of approving the award or presentation of the decoration and other determinations necessary to comply with congressional reporting under 10 U.S.C. 1130.

(3) To be fully effective, an award must be timely. Undue delay in submitting a recommendation may preclude its consideration. It is highly desirable that a recommendation be placed in military channels and acted upon as quickly as possible. If circumstances preclude submission of a completely documented recommendation, it is best to submit it as soon as possible and note that additional data will be submitted later. However, to ensure prompt recognition, interim awards should be considered and are encouraged as addressed above.

(4) No military decoration, except the Purple Heart and exceptions for decorations approved under 10 U.S.C. 1130, will be awarded more than 3 years after the act or period of service to be honored.

(5) These time limitations do not apply to retroactive and conversion awards made in confirmation of recognition of previously issued orders, letters, or certificates or in exchange of decorations hereinafter authorized.

(6) In cases where it can be conclusively proven that formal submission of a recommendation for award was not made within the time limitations indicated above, because either the person recommending or the person being recommended was in a prisoner of war (POW), missing in action (MIA) or in a medically incapacitated status, award of the Silver Star or lesser decorations may be approved without regard to elapsed time since the act, achievement, or service occurred, that is to be honored.

(7) If the Secretary of the Army determines that a statement setting forth the distinguished act, achievement, or service, and a recommendation for official recommendation recognition was made and supported by sufficient evidence within 2 years after the distinguished service, and that no award was made because the statement was lost, or through inadvertence the recommendation was not acted upon; he or she may, within 2 years after the date of the determination, award any appropriate military decoration. In each case, the following will be provided:

(i) Conclusive evidence of the formal submission of the recommendation into military channels.

(ii) Conclusive evidence of the loss of the recommendation or the failure to act on the recommendation through inadvertence.

(iii) A copy of the original recommendation, or its substantive equivalent. As a minimum, the recommendation should be accompanied by statements, certificates, or affidavits corroborating the events or services involved. It is emphasized that the proponent must provide Commander, USA HRC (see § 578.3(c)), with adequate information for Secretarial evaluation of the deed or service to determine if an award is to be made. The person signing a reconstructed award recommendation must be identified clearly in terms of his or her official relationship to the intended recipient at the time of the act or during the period of service to be recognized.

(h) U.S. awards to foreign military personnel. (1) It is the Department of Defense (DOD) policy to recognize individual acts of heroism, extraordinary achievement or meritorious achievement on the part of service members of friendly foreign nations when such acts have been of significant benefit to the United States or materially contributed to the successful prosecution of a military campaign by Armed Forces of the United States. Such acts or achievement shall be recognized through the award of an individual U.S. decoration.

(2) U.S. campaign and service medals shall not be awarded to members of foreign military establishments.

(3) Foreign military personnel in ranks comparable to the grade of 0-6 and below, at the time the act was performed and at the time the decoration is presented, may be awarded the following decorations: Silver Star; Distinguished Flying Cross; Bronze Star Medal; or the Air Medal for valorous acts in actual combat in direct support of military operation; the Soldier's Medal, for heroic acts in direct support of operations, but not involving actual combat; and the Legion of Merit (see § 578.13 for the Legion of Merit to foreign military personnel).

(i) Announcement of awards. (1) Decorations and the Army Good Conduct Medal.

(i) Awards made by the President, the Secretary of Defense, and the Secretary of the Army will be announced in DA General Orders (DAGO).

(ii) Awards of decorations and the Army Good Conduct Medal made by principal HQDA officials will be announced in permanent orders.

(iii) Awards of decorations and the Army Good Conduct Medal made according to delegated authority will be announced in permanent orders by the commanders authorized to make the awards.

(2) Service medals and service ribbons. Service medals and service ribbons are administratively awarded to individuals who meet the qualifying criteria. Orders are not required.

(3) Badges. Permanent awards of badges, except basic marksmanship qualification badges, identification badges, and the Physical Fitness Badge will be announced in permanent orders by commanders authorized to make the award or permanent orders of HQDA.

(j) Engraving of awards. The grade, name, and organization of the awardee are engraved on the reverse of the Medal of Honor. The name only of the awardee is engraved on the reverse side of every other decoration, the POW Medal and the Army Good Conduct Medal. Normally engraving will be accomplished prior to presentation. When this is impracticable, the awardee will be informed that he or she may mail the decoration or Army Good Conduct Medal to the Commander, U.S. Army TACOM, Clothing and Heraldry Product Support Integration Directorate (PSID), P.O. Box 57997, Philadelphia, PA 19111-7997, for engraving at Government expense.

(k) Presentation of decorations. (1) The Medal of Honor is usually presented to living awardees by the President of the United States at the White House. Posthumous presentation to the next of kin normally is made in Washington, DC by the President or his or her personal representative.

(2) Other U.S. military decorations will be presented with an appropriate air of formality and with fitting ceremony.

(3) Foreign decorations will not be presented by members of the U.S. Army to designated recipients whether awardees or next of kin.

(4) Conversion awards, service medals, and service ribbons usually are not presented with formal ceremony. However, such presentation may be made at the discretion of the local commander.

(5) Whenever practical, badges will be presented to military personnel in a formal ceremony as provided in Field Manual (FM) 3-21.5. Presentations should be made as promptly as practical following announcement of awards, and when possible, in the presence of the troops with whom the recipients were serving at the time of the qualification.

(6) Presentation of the Army Good Conduct Medal to military personnel may be made at troop formations. (See FM 3-21.5.) Ceremonies will not be conducted to present the Army Good Conduct Medal to former military personnel or next of kin.

(7) The Army Lapel Button will be formally presented at troop formations or other suitable ceremonies. The U.S. Army Retired Lapel Button will be presented at an appropriate ceremony prior to their departure for retirement. These buttons may be presented to a separating soldier at the same time as the Army Good Conduct Medal and any other approved decoration.

(l) Act of presentation. In the act of presentation, a decoration may be pinned on the clothing of the awardee whether in uniform or civilian clothing or on the next-of-kin in the case of a presentation following the recipient's death; however, this will not be construed as authority to wear the decoration for any person other than the individual honored. As an alternative to pinning the decoration, especially on next-of-kin, it may be handed to the recipient in an opened decoration container.

§ 578.9 Medal of Honor.

(a) Criteria. The Medal of Honor (10 U.S.C. 3741) was established by Joint Resolution of Congress, July 12, 1962 (amended by Act of July 9, 1918 and Act of July 25, 1963) is awarded by the President in the name of Congress to a person who, while a member of the Army, distinguished himself or herself conspicuously by gallantry and intrepidity at the risk of his life above and beyond the call of duty while engaged in an action against an enemy of the United States; while engaged in military operations involving conflict with an opposing foreign force; or while serving with friendly foreign forces engaged in an armed conflict against an opposing armed force in which the United States is not a belligerent party. The deed performed must have been one of personal bravery or self-sacrifice so conspicuous as to clearly distinguish the individual above his comrades and must have involved risk of life. Incontestable proof of the performance of the service will be exacted and each recommendation for the award of this decoration will be considered on the standard of extraordinary merit. Eligibility is limited to members of the Army of the United States in active Federal military service.

(b) Description. A gold-finished bronze star, one point down, 1 9/16 inches in diameter with rays terminating in trefoils, surrounded by a laurel wreath in green enamel, suspended by two links from a bar bearing the inscription “Valor” and surmounted by an eagle grasping laurel leaves in one claw and arrows in the other. In the center of the star is the head of Minerva surrounded by the inscription “United States of America.” Each ray of the star bears an oak leaf in green enamel. On the reverse of the bar are stamped the words “The Congress To.” The medal is suspended by a hook to a ring fastened behind the eagle. The hook is attached to a light-blue moired silk neckband, 1 3/16 inches in width and 21¾ inches in length, behind a square pad in the center made of the ribbon with the corners turned in. On the ribbon bar are 13 white stars arranged in the form of a triple chevron, consisting of two chevrons of 5 stars and one chevron of 3 stars. A hexagonal rosette of light-blue ribbon ½ inch circumscribing diameter, with a fan-shaped ribbon insert showing white stars, is included for wear on civilian clothing.

(c) Medal of Honor Roll. The Medal of Honor Roll was established by Act of Congress, April 27, 1916, as amended by 38 U.S.C. 1562. It provides that each Medal of Honor awardee may have his or her name entered on the Medal of Honor Roll. Each person whose name is placed on the Medal of Honor Roll is certified to the Veterans Administration as being entitled to receive a special pension of $1000 per month for life, if the person desires. Payment will be made by the Veterans Administration beginning as of the date of application thereof (38 U.S.C. 1562). The payment of this special pension is in addition to, and does not deprive the pensioner of any other pension, benefit, right, or privilege to which he or she is or may thereafter be entitled. The awardee will submit a DD Form 1369 (Application for Enrollment on the Medal of Honor Roll and for the Pension Authorized by the Act of Congress) to have his or her name placed on the Medal of Honor Roll and to receive the special pension. The application will bear the full personal signature of the awardee, or in cases where the awardee cannot sign due to disability or incapacity, the signature of the awardee's legally designated representative, and be forwarded to Commander, USA HRC (see § 578.3(c)). Applicant will receive a DD Form 1370A (Certificate of Enrollment on the Medal of Honor Roll).

(d) Additional benefits. (1) Supplemental uniform allowance. Enlisted recipients of the Medal of Honor are entitled to a supplemental uniform allowance. (See AR 700-84.)

(2) Air transportation for Medal of Honor awardees. (See DOD Regulation 4515.13-R.)

(3) Commissary privileges for Medal of Honor recipients and their eligible family members. (See AR 600-8-14.)

(4) Identification cards for Medal of Honor recipients and their eligible family members. (See AR 600-8-14.)

(5) Admission to U.S. Service Academies. Children of Medal of Honor awardees, otherwise qualified, are not subject to quota requirements for admission to any of the U.S. Service Academies. (See U.S. Service Academies annual catalogs.)

(6) Exchange privileges for Medal of Honor recipients and their eligible family members. (See AR 600-8-14.)

(7) Burial honors for Medal of Honor recipients are identical to those who become deceased while on active duty. (See AR 600-8-1 and AR 600-25.)

§ 578.10 Distinguished Service Cross.

(a) Criteria. The Distinguished Service Cross was established by Act of Congress July 9, 1918 (amended by Act of July 25, 1963), 10 U.S.C. 3742. It is awarded to a person who, while serving in any capacity with the Army, distinguishes himself or herself by extraordinary heroism not justifying the award of a Medal of Honor while engaged in an action against an enemy of the United States; while engaged in military operations involving conflict with an opposing force, or while serving with friendly foreign forces engaged in an armed conflict against an opposing Armed Force in which the United States is not a belligerent party. The act or acts of heroism must have been so notable and have involved risk of life so extraordinary as to set the individual apart from his comrades.

(b) Description. A cross of bronze 2 inches in height and 1 13/16 inches in width with an eagle on the center and a scroll below the eagle bearing the inscription “For Valor.” On the reverse, the center of the cross is circled by a wreath. The cross is suspended by a ring from moired silk ribbon, 1⅜ inches in length and 1⅜ inches in width, composed of a band of red (⅛-inch), white (1/16-inch), blue (1-inch), white (1/16-inch), and red (⅛-inch). (Sec. 3742, 70A Stat. 215; 10 U.S.C. 3742)

§ 578.11 Distinguished Service Medal.

(a) Criteria. (1) The Distinguished Service Medal was established by Act of Congress on July 9, 1918 (10 U.S.C. 3743). It is awarded to any person who, while serving in any capacity with the U.S. Army, has distinguished himself or herself by exceptionally meritorious service to the Government in a duty of great responsibility. The performance must be such as to merit recognition for service which is clearly exceptional. Exceptional performance of normal duty will not alone justify an award of this decoration.

(2) For service not related to actual war the term “duty of great responsibility” applies to a narrower range of positions than in time of war and requires evidence of conspicuously significant achievement. However, justification of the award may accrue by virtue of exceptionally meritorious service in a succession of high positions of great importance.

(3) Awards may be made to persons other than members of the Armed Forces of the United States for wartime services only, and then only under exceptional circumstances with the express approval of the President, in each case.

(b) Description. The coat of arms of the United States in bronze surrounded by a circle of dark-blue enamel 1½ inches in diameter, bearing the inscription “For Distinguished Service MCMXVIII.” On the reverse, a blank scroll upon a trophy of flags and weapons. The medal is suspended by a bar from a moired silk ribbon, 1⅜ inches in length and 1⅜ inches in width, composed of a bank of scarlet (⅝-inch), a stripe of dark-blue (1/16-inch), a band of white (⅝-inch), a stripe of dark-blue (1/16-inch), and a band of scarlet (5/16-inch). (Sec. 3743, 70A Stat. 216; 10 U.S.C. 3743).

§ 578.12 Silver Star.

(a) Criteria. The Silver Star was established by Act of Congress July 9, 1918 (amended by Act of July 25, 1963, 10 U.S.C. 3746). It is awarded to a person who, while serving in any capacity with the U.S. Army, is cited for gallantry in action against an enemy of the United States while engaged in military operations involving conflict with an opposing foreign force, or while serving with friendly foreign forces engaged in an armed conflict against an opposing armed force in which the United States is not a belligerent party. The required gallantry, while of lesser degree than that required for the Distinguished Service Cross, must nevertheless have been performed with marked distinction. It is also awarded upon letter application to Commander, USA HRC (see § 578.3(c)), to those individuals who, while serving in any capacity with the U.S. Army, received a citation for gallantry in action in World War I published in orders issued by a headquarters commanded by a general officer.

(b) Description. A bronze star 1½ inches in circumscribing diameter. In the center thereof is a 3/16-inch diameter raised silver star, the center lines of all rays of both stars coinciding. The reverse has the inscription “For Gallantry in Action.” The star is suspended by a rectangular-shaped metal loop with corners rounded from a moired silk ribbon 1⅜ inches in length and 1⅜ inches in width, composed of stripes of blue (3/32-inch), white (3/64-inch), blue (7/32-inch), white (7/32-inch), red (7/32-inch), white (7/32-inch), blue (7/32-inch), white (3/64-inch), and blue (3/32-inch). (Sec. 3746, 70A Stat. 216; 10 U.S.C. 3746)

§ 578.13 Legion of Merit.

The Legion of Merit was established by Act of Congress July 20, 1942 (10 U.S.C. 1121). It is awarded to any member of the Armed Forces of the United States or of a friendly foreign nation who has distinguished himself or herself by exceptionally meritorious conduct in the performance of outstanding services and achievement.

(a) Criteria for members of Armed Forces of the United States. The performance must have been such as to merit recognition of key individuals for service rendered in a clearly exceptional manner. Performance of duties normal to the grade, branch, specialty, or assignment, and experience of an individual is not an adequate basis for this award.

(b) For service not related to actual war, the term “key individuals” applies to a narrower range of positions than in time of war and requires evidence of significant achievement. In peacetime, service should be in the nature of a special requirement or of an extremely difficult duty performed in an unprecedented and clearly exceptional manner. However, justification of the award may accrue by virtue of exceptionally meritorious service in a succession of important positions.

(c) Awards will be made without reference to degree.

(d) Criteria for members of the Armed Forces of foreign nations. The LM in the degrees described below, may be awarded to foreign military personnel who distinguish themselves by “exceptional meritorious conduct in performance of outstanding service” to the United States in accordance with Executive Order (E.O.) 9260.

(e) The LM awarded to members of the Armed Forces of foreign nations is awarded in the following degrees:

(1) Chief Commander: A domed five-pointed American white star plaque of heraldic form bordered in purplish-red enamel 2 15/16 inches circumscribing diameter with 13 white stars on a blue field emerging from a circle of clouds; backing the star, a laurel wreath with pierced, crossed arrows pointing outward between each arm of the star and the wreath. The reverse is engraved with the words “United States of America.”

(2) Commander: A five-pointed American white star of heraldic form bordered in purplish-red enamel 2¼-inches circumscribing diameter with 13 white stars on a blue field emerging from a circle of clouds; backing the star, a laurel wreath with pierced, crossed arrows pointing outward between each arm of the star and the wreath. A bronze wreath connects an oval suspension ring to a neck ribbon. The reverse of the five-pointed star is enameled in white bordered in purplish-red enamel; in the center is a disk surrounded by the words “Annuit Coeptis” and “MDCCLXXXII,” and on the scroll are the words “United States of America.” The moired silk neck ribbon is 21¼ inches in length and 1 15/16 inches in width composed of a bank of purplish-red (1 13/16-inches) with edges of white (1/16-inch).

(3) Officer: A five-pointed American white star of heraldic form bordered in purplish-red enamel 1⅞-inches circumscribing diameter with 13 white stars on a blue field emerging from a circle of clouds; backing the star, a laurel wreath with modeled, crossed arrows pointing outward between each arm of the star and the wreath, and an all-bronze device of the same design as the pendant ¾ inch in diameter on the center of the suspension ribbon. On the reverse is a disk surrounded by the words “Annuit Coeptis” and “MDCCLXXXII,” and on the scroll are the words “United States of America.” The pendant is suspended by a moired silk ribbon 1⅞ inches in length and 1⅜ inches in width, composed of a bank of purplish-red (1¼-inches) with edges of white (1/16-inch).

(4) Legionnaire: Same as prescribed in paragraph (e)(3) of this section, except the all-bronze device is not worn on the ribbon. (Sec. 1121, 70A Stat. 88; 10 U.S.C. 1121, E.O. 9260, October 29, 1942, 7 FR 8819, 3 CFR, 1943 Cum. Supp.)

§ 578.14 Distinguished Flying Cross.

(a) Criteria. The Distinguished Flying Cross was established by Act of Congress July 2, 1926, (10 U.S.C. 3749). It is awarded to any person who, while serving in any capacity with the Army of the United States, distinguished himself or herself by heroism or extraordinary achievement while participating in aerial flight. The performance of the act of heroism must be evidenced by voluntary action above and beyond the call of duty. The extraordinary achievement must have resulted in an accomplishment so exceptional and outstanding as to clearly set the individual apart from his comrades, or from other persons in similar circumstances. Awards will be made only to recognize single acts of heroism or extraordinary achievement and will not be made in recognition of sustained operational activities against an armed enemy.

(b) Description. On a bronze 1½-inch cross pattee, a four-bladed propeller 1 11/16 inches across the blades; in the reentrant angles, rays forming a 1-inch square. The cross is suspended by a plain, straight link from a moired silk ribbon 1⅜ inches in length and 1⅜ inches in width, composed of stripes of blue (7/64-inch), white (9/64-inch), blue (11/32-inch), white (3/64-inch), red (3/32-inch), white (3/64-inch), blue (11/32-inch), white (9/64-inch), and blue (7/64-inch). (Sec. 3749, 70A Stat. 217; 10 U.S.C. 3749, E.O. 4601, March 1, 1927, as amended by E.O. 7786, January 8, 1938, 3 FR 39.)

§ 578.15 Soldier's Medal.

(a) Criteria. The Soldier's Medal was established by Act of Congress July 2, 1926 (10 U.S.C. 3750). It is awarded to any person of the Armed Forces of the United States or of a friendly foreign nation who, while serving in any capacity with the Army of the United States, including Reserve Component soldiers not serving in a duty status, as defined in 10 U.S.C. 101(d), at the time of the heroic act, who distinguished himself or herself by heroism not involving actual conflict with an enemy. The same degree of heroism is required as that for an award of the Distinguished Flying Cross. The performance must have involved personal hazard or danger and the voluntary risk of life under conditions not involving conflict with an armed enemy. Awards will not be made solely on the basis of having saved a life.

(b) Description. On a 1⅜-inch bronze octagon, an eagle displayed, standing on a fasces, between two groups of stars of six and seven, above the group of six a spray of leaves. On the reverse is a shield paly of 13 pieces on the chief, the letters “U.S.” supported by sprays of laurel and oak, around the upper edge the inscription “Soldier's Medal,” and across the face the words “For Valor.” The medal is suspended by a rectangular-shaped metal loop with corners rounded from a moired silk ribbon 1⅜ inches in length and 1⅜ inches in width, composed of two outside stripes of blue (⅜-inch), the center containing 13 white and red stripes of equal width (7 white and 6 red). (Sec. 3750, 70A Stat. 217; 10 U.S.C. 3750.)

§ 578.16 Bronze Star Medal.

(a) Criteria. The Bronze Star Medal was established by Executive Order 9419, February 4, 1944 (superseded by E.O. 11046, August 24, 1962 and amended by 10 U.S.C. 1133). It is awarded to any person who, while serving in any capacity in or with the Army of the United States after December 7, 1941, distinguished himself or herself by heroic or meritorious achievement or service, not involving participation in aerial flight, in connection with military operations against an armed enemy; or while engaged in military operations involving conflict with an opposing armed force in which the United States is not a belligerent party. Per 10 U.S.C. 1133, award of the Bronze Star Medal is limited to members of the Armed Forces of the United States who receive imminent danger pay.

(1) Heroism. Awards may be made for acts of heroism, performed under circumstances described above, which are of lesser degree than required for the award of the Silver Star.

(2) Meritorious achievement and service. Awards may be made to recognize single acts of merit and meritorious service. The lesser degree than that required for the award of the LM, must nevertheless have been meritorious and accomplished with distinction.

(3) Awards may be made, by letter application to NPRC, 9700 Page Avenue, St. Louis, MO 63132-5100 (Soldiers who retired or were discharged after October 1, 2002 should send their requests to the Commander, U.S. Army Human Resources Command, St. Louis, ATTN: AHRC-CC-B, 1 Reserve Way, St. Louis, MO 63132-5200), enclosing documentary evidence, if possible, to each member of the Armed Forces of the United States who, after December 6,1941, has been cited in orders or awarded a certificate for exemplary conduct in ground combat against an armed enemy between December 7, 1941 and September 2, 1945, inclusive, or whose meritorious achievement has been otherwise confirmed by documents executed prior to July 1, 1947. For this purpose, an award of the Combat Infantryman Badge or Medical Badge is considered as a citation in orders. Documents executed since August 4, 1944 in connection with recommendations for the award of decorations of higher degree than the Bronze Star Medal will not be used to establish a basis for the award under this paragraph.

(4) Upon letter application, award of the Bronze Star Medal may be made to eligible soldiers who participated in the Philippine Islands Campaign between December 7, 1941 to May 10, 1942. Performance of duty must have been on the island of Luzon or the Harbor Defenses in Corregidor and Bataan. Only soldiers who were awarded the Distinguished Unit Citation (redesignated the Presidential Unit Citation on November 3, 1966) may be awarded this decoration. Letter application should be sent to NPRC (see paragraph (a)(3) of this section).

(b) Description. A bronze star 1½ inches in circumscribing diameter. In the center thereof is a 3/16-inch diameter raised bronze star, the center line of all rays of both stars coinciding. The reverse has the inscription “Heroic or Meritorious Achievement.” The star is suspended by a rectangular-shaped loop with corners rounded from a moired silk ribbon 1⅜ inches in length and 1⅜ inches in width, composed of stripes of white (1/32-inch), red (9/16-inch), white (1/32-inch), blue (⅛-inch), white (1/32-inch), red (9/16-inch), and white (1/32-inch). A bronze block letter “V” ¼ inch in height with serifs at the top of the members is worn on the suspension and service ribbons of the Bronze Star Medal to denote an award made for heroism (valor). Not more than one “V” device will be worn. When one or more oak-leaf clusters appear on the same ribbon the “V” device is worn on the wearer's right. (E.O. 9419, February 4, 1944, 9 FR 1495)

§ 578.17 Purple Heart.

(a) Criteria. The Purple Heart was established by General George Washington at Newburgh, New York, on August 7, 1782, during the Revolutionary War. It was reestablished by the President of the United States per War Department General Orders (WDGO) 3, 1932 and is currently awarded pursuant to Executive Order 11016, April 25, 1962; Executive Order 12464, February 23, 1984; Public Law 98-525, October 19, 1984. Public Law 103-160, November 30, 1993; Public Law 104-106, February 10, 1996; and Public Law 105-85, November 18, 1997. It is awarded in the name of the President of the United States to any member of the Armed Forces of the United States who, while serving under competent authority in any capacity with one of the U.S. Armed Services after April 5, 1917 who has been wounded or killed, or who has died or may hereafter die after being wounded:

(1) In any action against an enemy of the United States.

(2) In any action with an opposing armed force of a foreign country in which the Armed Forces of the United States are or have been engaged.

(3) While serving with friendly foreign forces engaged in an armed conflict against an opposing armed force in which the United States is not a belligerent party.

(4) As a result of an act of any such enemy of opposing armed forces.

(5) As the result of an act of any hostile foreign force.

(6) After March 28, 1973, as a result of an international terrorist attack against the United States or a foreign nation friendly to the United States, recognized as such an attack by the Secretary of Army, or jointly by the Secretaries of the separate armed services concerned if persons from more than one service are wounded in the attack.

(7) After March 28, 1973, as a result of military operations while serving outside the territory of the United States as part of a peacekeeping force.

(b) While clearly an individual decoration, the Purple Heart differs from all other decorations in that an individual is not “recommended” for the decoration; rather he or she is entitled to it upon meeting specific criteria.

(1) A Purple Heart is authorized for the first wound suffered under conditions indicated above, but for each subsequent award an Oak Leaf Cluster will be awarded to be worn on the medal or ribbon. Not more than one award will be made for more than one wound or injury received at the same instant or from the same missile, force, explosion, or agent.

(2) A wound is defined as an injury to any part of the body from an outside force or agent sustained under one or more of the conditions listed above. A physical lesion is not required, however, the wound for which the award is made must have required treatment by a medical officer and records of medical treatment for wounds or injuries received in action must have been made a matter of official record.

(3) When contemplating an award of this decoration, the key issue that commanders must take into consideration is the degree to which the enemy caused the injury. The fact that the proposed recipient was participating in direct or indirect combat operations is a necessary prerequisite, but is not sole justification for award.

(4) Examples of enemy-related injuries which clearly justify award of the Purple Heart are as follows:

(i) Injury caused by enemy bullet, shrapnel, or other projectile created by enemy action.

(ii) Injury caused by enemy placed mine or trap.

(iii) Injury caused by enemy released chemical, biological, or nuclear agent.

(iv) Injury caused by vehicle or aircraft accident resulting from enemy fire.

(v) Concussion injuries caused as a result of enemy generated explosions.

(5) Examples of injuries or wounds which clearly do not qualify for award of the Purple Heart are as follows:

(i) Frostbite or trench foot injuries.

(ii) Heat stroke.

(iii) Food poisoning not caused by enemy agents.

(iv) Chemical, biological, or nuclear agents not released by the enemy.

(v) Battle fatigue.

(vi) Disease not directly caused by enemy agents.

(vii) Accidents, to include explosive, aircraft, vehicular, and other accidental wounding not related to or caused by enemy action.

(viii) Self-inflicted wounds, except when in the heat of battle, and not involving gross negligence.

(ix) Post traumatic stress disorders.

(x) Jump injuries not caused by enemy action.

(6) It is not intended that such a strict interpretation of the requirement for the wound or injury to be caused by direct result of hostile action be taken that it would preclude the award being made to deserving personnel. Commanders must also take into consideration the circumstances surrounding an injury, even if it appears to meet the criteria. Note the following examples:

(i) In a case such as an individual injured while making a parachute landing from an aircraft that had been brought down by enemy fire; or, an individual injured as a result of a vehicle accident caused by enemy fire, the decision will be made in favor of the individual and the award will be made.

(ii) Individuals injured as a result of their own negligence; for example, driving or walking through an unauthorized area known to have been mined or placed off limits or searching for or picking up unexploded munitions as war souvenirs, will not be awarded the Purple Heart as they clearly were not injured as a result of enemy action, but rather by their own negligence.

(7) Members killed or wounded in action by friendly fire, 10 U.S.C. 1129.

(i) For purposes of award of the Purple Heart, the Secretary of the Army shall treat a member of the Armed Forces described in paragraph (a) of this section in the same manner as a member who is killed or wounded in action as the result of an act of an enemy of the United States.

(ii) A member described in this subsection is a member who is killed or wounded in action by weapon fire while directly engaged in armed conflict, other than as the result of an act of an enemy of the United States, unless (in the case of a wound) the wound is the result of willful misconduct of the member.

(iii) This section applies to members of the Armed Forces who are killed or wounded on or after December 7, 1941. In the case of a member killed or wounded, as described in paragraph (b) of this section, on or after December 7, 1941 and before November 30, 1993, the Secretary of the Army shall award the Purple Heart under provisions of paragraph (a) of this section in each case which is known to the Secretary before such date or for which an application is made to the Secretary in such manner as the Secretary requires.

(c) A Purple Heart will be issued to the next of kin of each person entitled to a posthumous award. Issue will be made automatically by the CG, USA HRC, upon receiving a report of death indicating entitlement.

(d) Upon written application to NPRC (see § 578.16(a)(3)) award may be made to any member of the Army, who during World War I, was awarded a Meritorious Service Citation Certificate signed by the Commander in Chief, American Expeditionary Forces, or who was authorized to wear wound chevrons. Posthumous awards to personnel who were killed or died of wounds after April 5, 1917 will be made to the appropriate next of kin upon application to the CG, USA HRC (see § 578.3(c) for address).

(e) Any member of the Army who was awarded the Purple Heart for meritorious achievement or service, as opposed to wounds received in action, between December 7, 1941 and September 22, 1943, may apply for award of an appropriate decoration instead of the Purple Heart.

(f) For those who became Prisoners of War during World War II, the Korean War and after April 25, 1962, the Purple Heart will be awarded to individuals wounded while prisoners of foreign forces, upon submission by the individual to the Department of the U.S. Army of an affidavit that is supported by a statement from a witness, if this is possible. Documentation and inquiries should be directed to Commander, USA HRC (see § 578.3(c) for address).

(g) Any member of the U.S. Army who believes that he or she is eligible for the Purple Heart, but through unusual circumstances no award was made, may submit an application through military channels, to Commander, USA HRC (see § 578.3(c) for address). Application will include complete documentation, to include evidence of medical treatment, pertaining to the wound.

(h) Description. On a purple heart within a bronze border, a profile head in relief of General George Washington in military uniform. Above the heart is a shield of General Washington's coat of arms between two sprays of leaves in green enamel. On the reserve below the shield and leaves without enamel is a raised bronze heart with the inscription “For Military Merit.” The entire device is 1 11/16 inches in length. The medal is suspended by a rectangular-shaped loop with corners rounded from a moired silk ribbon 1⅜ inches in length and 1⅜ inches in width consisting of a purple (pansy) center with white edges (⅛-inch).

§ 578.18 Meritorious Service Medal.

(a) Criteria. The Meritorious Service Medal was established by Executive Order 11448, January 16, 1969 as amended by Executive Order 12312, July 2, 1981. It is awarded to any member of the Armed Forces of the United States or to any member of the Armed Forces of a friendly foreign nation who, has distinguished himself or herself by outstanding meritorious achievement or service under the following circumstances:

(1) After January 16, 1969, for meritorious service or achievement while serving in a non-combat area.

(2) On or after September 11, 2001, for outstanding non-combat meritorious achievement or service in a non-combat or combat area.

(b) Description. A Bronze medal, 1½ inches in diameter overall, consisting of six rays issuant from the upper three points of a five-pointed star with beveled edges and containing two smaller stars defined by incised outlines; in front of the lower part of the star an eagle with wings upraised standing upon two upward curving branches of laurel tied with a ribbon between the feet of the eagle. The reverse has the encircled inscriptions “UNITED STATES OF AMERICA” and “MERITORIOUS SERVICE”. The moired ribbon is 1⅜ inches wide and consists of the following stripes: ⅛ inch Crimson 67112; ¼ inch White 67101; center ⅝ inch Crimson; ¼ inch White; and ⅛ inch Crimson.

§ 578.19 Air Medal.

(a) Criteria. The Air Medal was established by Executive Order 9158, May 11, 1942 as amended by Executive Order 9242-A, September 11, 1942. It is awarded to any person who, while serving in any capacity in or with the U.S. Army, has distinguished himself or herself by meritorious achievement while participating in aerial flight. Awards may be made to recognize single acts of merit or heroism, or for meritorious service as described.

(1) Awards may be made for acts of heroism in connection with military operations against an armed enemy or while engaged in military operations involving conflict with an opposing armed force in which the United States is not a belligerent party, which are of a lesser degree than required for award of the Distinguished Flying Cross.

(2) Awards may be made for single acts of meritorious achievement, involving superior airmanship, which are of a lesser degree than required for award of the Distinguished Flying Cross, but nevertheless were accomplished with distinction beyond that normally expected.

(3) Awards for meritorious service may be made for sustained distinction in the performance of duties involving regular and frequent participation in aerial flight for a period of at least 6 months. In this regard, accumulation of a specified number of hours and missions will not serve as the basis for award of the Air Medal. Criteria in § 578.19(a)(1), concerning conditions of conflict are applicable to award of the Air Medal for meritorious service.

(4) Award of the Air Medal is primarily intended to recognize those personnel who are on current crewmember or non-crewmember flying status which requires them to participate in aerial flight on a regular and frequent basis in the performance of their primary duties. However, it may also be awarded to certain other individuals whose combat duties require regular and frequent flying in other than a passenger status, or individuals who perform a particularly noteworthy act while performing the function of a crewmember, but who are not on flying status as prescribed in AR 600-106. These individuals must make a discernible contribution to the operational land combat mission or to the mission of the aircraft in flight. Examples of personnel whose combat duties require them to fly include those in the attack elements of units involved in air-land assaults against an armed enemy and those directly involved in airborne command and control of combat operations. Involvement in such activities, normally at the brigade/group level and below, serves only to establish eligibility for award of the Air Medal; the degree of heroism, meritorious achievement or exemplary service determines who should receive the award. Awards will not be made to individuals who use air transportation solely for the purpose of moving from point to point in a combat zone.

(5) Numerals, starting with 2 will be used to denote second and subsequent awards of the Air Medal.

(b) Description. A bronze compass rose 1 11/16-inches circumscribing diameter suspended by the pointer and charged with an eagle volant carrying two lightning flashes in its talons. The points of the compass rose on the reverse are modeled with the central portion plain. The medal is suspended from a moired silk ribbon 1⅜ inches in length and 1⅜ inches in width, composed of a band of ultramarine blue (⅛-inch), a band of golden orange (¼-inch), a band of ultramarine blue (⅝-inch), a band of golden orange (¼-inch), and a band of ultramarine blue (⅛-inch), by a ring engaging the pointer. (E.O. 9158, May 11, 1942, 7 FR 3541, as amended by E.O. 9242A, September 11, 1942, 7 FR 7874).

§ 578.20 Army Commendation Medal.

(a) Criteria. The Army Commendation Medal (ARCOM) was established by War Department (WD) Circular 377, on December 18, 1945 (amended in DAGO 10, March 31, 1960). It is awarded to any members of the Armed Forces of the United States who, while serving in any capacity with the Army after December 6, 1941, distinguishes himself or herself by an act of heroism, extraordinary achievement, or meritorious service. Award may be made to a member of the Armed Forces of a friendly foreign nation who, after June 1, 1962, distinguishes himself or herself by an act of heroism, extraordinary achievement, or meritorious service, which has been of mutual benefit to a friendly nation and the United States.

(1) Awards of the ARCOM may be made for acts of valor performed under circumstances described above which are of lesser degree than required for award of the Bronze Star Medal. These acts may involve aerial flight.

(2) An award of the ARCOM may be made for acts of non-combat related heroism, which do not meet the requirements for an award of the Soldier's Medal.

(3) The ARCOM will not be awarded to general officers.

(4) Awards of the ARCOM may be made on letter application to NPRC (see § 578.16(a)(3) for address), to any individual commended after December 6, 1941 and before January 1, 1946 in a letter, certificate, or order of commendation, as distinguished from letter of appreciation, signed by an officer in the grade or position of a major general or higher. Awards of the Army Commendation Ribbon and of the Commendation Ribbon with Metal Pendant are re-designated by DAGO 10, March 31, 1960, as awards of the ARCOM, without amendments of certificates or of orders previously issued.

(5) The Commander, Eighth U.S. Army is authorized to award the Army Commendation Medal for meritorious service to Korean Augmentation to U.S. Army (KATUSA) personnel.

(b) Description. On a 1⅜-inch bronze hexagon, one point up, an American bald eagle with wings displayed horizontally grasping three crossed arrows and bearing on its breast a shield paly of 13 pieces and a chief. On the reverse between the words “For Military” and “Merit” a panel, all above a sprig of laurel. A moired silk ribbon 1⅜ inches in length and 1⅜ inches in width, composed of stripes of white (3/32-inch), green (25/64-inch), white (1/32-inch), green (1/16-inch), white (1/32-inch), green (1/16-inch), white (1/32-inch), green (1/16-inch), white (1/32-inch), green (1/16-inch), white (1/32-inch), green (25/64-inch), and white (3/32-inch).

§ 578.21 Army Achievement Medal.

(a) Criteria. The Army Achievement Medal (AAM) was established by the Secretary of the Army, April 10, 1981. It is awarded to any member of the Armed Forces of the United States, or to any member of the Armed Forces of a friendly foreign nation, who while serving in any capacity with the Army distinguished himself or herself by meritorious service or achievement of a lesser degree than required for award of the Army Commendation Medal under the following circumstances:

(1) After August 1, 1981, for meritorious service or achievement while serving in a non-combat area.

(2) On or after September 11, 2001, for non-combat meritorious achievement or service.

(b) The AAM will not be awarded to general officers.

(c) Description. A Bronze octagonal medal, 1½ inches in diameter, with one angle at the top centered. On the obverse is a design consisting of the elements of the DA plaque and the date “1775” at the bottom. On the reverse, in three lines, are the words “FOR MILITARY ACHIEVEMENT” above a space for inscription and below there are two slips of laurel. The moired ribbon is 1⅜ inches wide and consists of the following stripes: ⅛ inch Green 67129; 1/16 inch White 67101; ⅛ inch Green; 1/16 inch White; 9/32 inch Ultramarine Blue 67118; center 1/16 inch White; 9/32 inch Ultramarine Blue; 1/16 inch White; ⅛ inch Green; 1/16 inch White; and ⅛ inch Green.

§ 578.22 Prisoner of War Medal.

(a) Criteria. The POW Medal is authorized by Public Law 99-145, 10 U.S.C. 1128, November 8, 1985, as amended by 10 U.S.C. 1128, November 29, 1989. It is authorized for any person who, while serving in any capacity with the U.S. Armed Forces, was taken prisoner and held captive after April 5, 1917.

(1) The POW Medal is to be issued only to those U.S. military personnel and other personnel granted creditable U.S. military service, who were taken prisoner and held captive—

(i) While engaged in an action against an enemy of the United States.

(ii) While engaged in military operations involving conflict with an opposing foreign force.

(iii) While serving with friendly forces engaged in an armed conflict against an opposing force in which the United States is not a belligerent party.

(iv) By foreign armed forces that are hostile to the United States, under circumstances which the Secretary concerned finds to have been comparable to those under which persons have generally been held captive by enemy armed forces during periods of armed conflict.

(2) U.S. and foreign civilians who have been credited with U.S. military service which encompasses the period of captivity are also eligible for the medal. The Secretary of Defense authorized on January 27, 1990, the POW Medal for the Philippine Commonwealth Army and Recognized Guerrilla Unit Veterans who were held captive between December 7, 1941, and September 26, 1945. DD Form 2510-1 (Prisoner of War Medal Application/Information-Philippine Commonwealth Army and Recognized Guerrilla Veterans) was developed as the application for Filipino Veterans who fit this category.

(3) For purposes of this medal, past armed conflicts are defined as World War I, World War II, Korean War, Vietnam Conflict, Grenada, Panama, Persian Gulf War, and Somalia. Hostages of terrorists and persons detained by governments with which the United States is not engaged actively in armed conflict are not eligible for the medal.

(4) Any person convicted of misconduct or a criminal charge by a U.S. military tribunal, or who receives a less than honorable discharge based upon actions while a prisoner of war, or whose conduct was not in accord with the Code of Conduct, and whose actions are documented by U.S. military records is ineligible for the medal. The Secretary of the Army is the authority for deciding eligibility in such cases.

(5) No more than one POW Medal will be awarded. For subsequent award of the medal, service stars will be awarded and worn on the suspension and service ribbon of the medal. A period of captivity terminates on return to U.S. military control. Escapees who do not return to U.S. military control and are recaptured by an enemy do not begin a new period of captivity for subsequent award of the POW Medal. (Service stars are described in § 578.61.)

(6) The POW Medal may be awarded posthumously.

(7) The primary next of kin of eligible prisoners of war who die in captivity may be issued the POW Medal regardless of the length of stay in captivity.

(8) Personnel officially classified as Missing in Action (MIA) are not eligible for award of the POW Medal. The POW Medal will only be awarded when the individual's prisoner of war status has been officially confirmed and recognized as such by the DA. Likewise, the return of remains, in and of itself, does not constitute evidence of confirmed prisoner of war status.

(b) Award of the POW Medal to active military personnel, veterans, retirees and their next of kin—(1) Active Military Personnel. Award of the POW Medal to military personnel in an active war will be processed by the Commander, USA HRC (see § 578.3 (c)), after coordination with the Repatriation and Family Affairs Division.

(2) Veterans, retirees and their next of kin. All requests for the POW Medal will be initiated by eligible former POWs, or their next of kin, using a personal letter or DD Form 2510 (Prisoner of War Medal Application/ Information). Applications should be forwarded to the NPRC (see § 578.16(a)(3) for address).

(c) Description. A purple heart within a Gold border, 1⅜ inches wide, containing a profile of General George Washington. Above the heart appears a shield of the Washington Coat of Arms (a White shield with two Red bars and three Red stars in chief) between sprays of Green leaves. The reverse consists of a raised Bronze heart with the words “FOR MILITARY MERIT” below the coat of arms and leaves. The ribbon is 1⅜ inches wide and consists of the following stripes: ⅛ inch White 67101; 1⅛ inches Purple 67115; and ⅛ inch White 67101.

§ 578.23 National Defense Service Medal.

(a) Criteria. The National Defense Service Medal (NDSM) was established by Executive Order 10448, April 22, 1953, as amended by Executive Order 11265, January 11, 1966 and Executive Order 12776, October 18, 1991. It is awarded for honorable active service for any period between June 27, 1950 and July 27, 1954, both dates inclusive; between January 1, 1961 and August 14, 1974, both dates inclusive; between August 2, 1990 and November 30, 1995, both dates inclusive; and from September 11, 2001 to a date to be determined.

(1) For the purpose of this award, the following persons will not be considered as performing active service:

(i) Army National Guard and U.S. Army Reserve forces personnel on short tours of duty to fulfill training obligations under an inactive duty training program.

(ii) Any service member on temporary duty or temporary active duty to serve on boards, courts, commissions, and like organizations.

(iii) Any service member on active duty for the sole purpose of undergoing a physical examination.

(2) In addition to the conditions listed above, Executive Order 12776 extended award of the NDSM to all members of the Army National Guard and United States Army Reserve who were part of the selected Reserve in good standing during the period August 2, 1990 to November 30, 1995. During this period, soldiers in the following categories will not be considered eligible:

(i) Any soldier of the Individual Ready Reserve, Inactive National Guard or the standby or retired Reserve whose active duty service was for the sole purpose of undergoing a physical examination.

(ii) Any soldier of the Individual Ready Reserve, Inactive National Guard or the standby or retired reserve whose active duty service was for training only, or to serve on boards, courts, commissions and like organizations.

(3) On March 28, 2003, the President signed an amendment to Executive Order 10448 that extends the eligibility criteria for award of the NDSM to members of the selected Reserve of the Armed Forces of the United States in good standing during the period beginning September 11, 2001 to a date to be determined to be eligible for award of the NDSM.

(4) Any member of the Army National Guard or U.S. Army Reserve who, after December 31, 1960, becomes eligible for the award of the Armed Forces Expeditionary Medal or the Vietnam Service Medal, is also eligible for award of the NDSM. The NDSM may be awarded to members of the Reserve Component who are ordered to Federal active duty regardless of the duration (except for categories listed above).

(5) To signify receipt of a second or subsequent award of the NDSM, a service star will be worn on the service ribbon by U.S. Army personnel so qualified. Second or third award of the NDSM is authorized for soldiers who served in one or more of the three time periods as listed in paragraph (a) of this section. It is not authorized for soldiers who met the criteria in one time period, left active duty and returned during the same period of eligibility. (Service stars are described in § 578.61)

(6) Cadets of the U.S. Military Academy are eligible for the NDSM, during any of the inclusive periods listed above, upon completion of the swearing-in ceremonies as a cadet.

(7) The NDSM may be awarded posthumously.

(b) Description. On a Bronze medal, 1¼ inches in diameter, an eagle displayed with inverted wings standing on a sword and palm branch, all beneath the inscription “NATIONAL DEFENSE”. On the reverse is a shield taken from the Coat of Arms of the United States with an open wreath below it, the right side of oak leaves and the left side of laurel leaves. The ribbon is 1⅜ inches wide and consists of the following stripes: 7/16 inch Scarlet 67111; 1/32 inch White 67101; 1/32 inch Old Glory Blue 67178; 1/32 inch White; 1/32 inch Scarlet; center ¼inch Golden Yellow 67104; 1/32 inch Scarlet; 1/32 inch White; 1/32 inch Old Glory Blue; 1/32 inch White; and 7/16 inch Scarlet.

§ 578.24 Antarctica Service Medal.

(a) Criteria. The Antarctica Service Medal (ASM) was established by Public Law 86-600 (DA Bulletin. 3, 1960). It is awarded to any person who, after January 2, 1946 and before a date to be announced, meets any of the following qualifications:

(1) Any member of the Armed Forces of the United States or civilian citizen, national, or resident alien of the United States who, is a member of a direct support or exploratory operation in Antarctica.

(2) Any member of the Armed Forces of the United States or civilian citizen, national, or resident alien of the United States who participates in or has participated in a foreign Antarctic expedition in Antarctica in coordination with a United States expedition and who is or was under the sponsorship and approval of competent U.S. Government authority.

(3) Any member of the Armed Forces of the United States who participates in or has participated in flights as a member of the crew of an aircraft flying to or from the Antarctic continent in support of operations in Antarctica.

(4) Any member of the Armed Forces of the United States or civilian citizen, national, or resident alien of the United States who serves or has served on a U.S. ship operating south of latitude 60 degrees S. in support of U.S. programs in Antarctica.

(5) Any person, including citizens of foreign nations, not fulfilling any above qualification, but who participates in or has participated in a United States expedition in Antarctica at the invitation of a participating United States Agency. In such case, the award will be made by the Secretary of the Department under whose cognizance the expedition falls provided the commander of the military support force as senior U.S. representative in Antarctica considers that the individual has performed outstanding and exceptional service and shared the hardship and hazards of the expedition.

(b) Personnel who remain on the Antarctic Continent during the winter months will be eligible to wear a clasp or a disc as described below:

(1) A clasp with the words “Wintered Over” on the suspension ribbon of the medal:

(2) A 5/16 inch diameter disc with an outline of the Antarctic continent inscribed thereon fastened to the bar ribbon representing the medal.

(3) The appurtenances in paragraphs (b)(1) and (2) of this section are awarded in bronze for the first winter, in gold for the second winter and in silver for personnel who “winter over” three or more times.

(c) Subsequent to June 1, 1973, minimum time limits for the award are 30 days under competent orders to duty at sea or ashore, south of latitude 60 degrees S. Each day of duty under competent orders at any outlying station on the Antarctic continent will count as 2 days when determining award eligibility. Effective July 1, 1987, flight crews of aircraft providing logistics support from outside the Antarctic area may qualify for the award after 15 missions (one flight in and out during any 24-hour period equals one mission). Days need not be consecutive.

(d) No person is authorized to receive more than one award of the ASM. Not more than one clasp or disc will be worn on the ribbon. Antarctica is defined as the area south of latitude 60 degrees S. The ASM takes precedence immediately after the Korean Service Medal.

(e) Description. The medal is bronze, 1¼ inches in diameter, with a view of a polar landscape and the standing figure in Antarctica clothing facing to the front between the horizontally placed words “ANTARCTICA” on the figure's right and “SERVICE” on the figure's left. On the reverse is a polar projection with geodesic lines of the continent of Antarctica across which are the horizontally placed words “COURAGE”, “SACRIFICE”, and “DEVOTION”, all within a circular decorative border of penguins and marine life. The Suspension Ribbon Clasp: On a metal clasp, 1¼ inches in width and ¼ inch in height, inscribed with the words “WINTERED OVER” in raised letters within a 1/32 inch rim. The metal color of the clasp is Bronze for the first winter, Gold for the second winter and Silver for the third winter. The Service Ribbon Attachment: On a metal disc, 5/16 inch in diameter, a superimposed delineation of the Antarctica continent. The metal color of the ribbon attachment is Bronze for the first winter, Gold for the second winter and Silver for the third winter. The ribbon is 1⅜ inches wide and consists of a 3/16 inch Black stripe on each edge and graded from a White stripe in the center to a Pale Blue, Light Blue, Greenish Blue, and Medium Blue.

§ 578.25 Armed Forces Expeditionary Medal.

(a) Criteria. The Armed Forces Expeditionary Medal (AFEM) was established by Executive Order 10977, dated December 4, 1961 (DA Bulletin. 1, 1962) and Executive Order 11231, July 8, 1965. This medal is authorized for:

(1) U.S. military operations.

(2) U.S. operations in direct support of the United Nations.

(3) U.S. operations of assistance for friendly foreign nations.

(b) Requirements. The AFEM is awarded for services after July 1, 1958, meeting the following qualifications:

(1) Personnel must be a bona fide member of a unit and engaged in the operation, or meet one or more of the following criteria:

(i) Have served not less than 30 consecutive days in the area of operations.

(ii) Be engaged in direct support of the operation for 30 consecutive days or 60 nonconsecutive days, provided this support involves entering the area of operations. The qualifying criteria for non-unit direct support personnel in Grenada is 6 consecutive days or 12 non-consecutive days.

(iii) Serve for the full period where an operation is of less than 30 days duration.

(iv) Be engaged in actual combat, or duty which is equally as hazardous as combat, during the operation with armed opposition, regardless of time in the area.

(v) Participate as a regularly assigned crewmember of an aircraft flying into, out of, within, or over the area in support of the military operation.

(2) If the criteria above have not been fulfilled the individual must be recommended, or attached to a unit recommended, by the chief of a service or the commander of a unified or specified command for award of the medal. Such recommendations may be made to the Joint Chiefs of Staff (JCS) for duty of such value to the operation as to warrant particular recognition.

(c) The designated U.S. military operations, areas, and dates are provided in Table 4 below:

Table 4
Area | Dates | Explanation
Quemoy and Matsu Islands | August 23, 1956 to June 1, 1963 |
Lebanon | July 1, 1958 to November 1, 1958 |
Taiwan Straits | August 23, 1958 to January 1, 1959 |
Berlin | August 14, 1961 to June 1, 1963 |
Cuba | October 24, 1962 to June 1, 1963 |
Congo | November 23 to 27, 1964 |
Dominican Republic | April 28, 1965 to September 21, 1966 |
Korea | October 1, 1966 to June 30, 1974 |
Cambodia—Operation EAGLE PULL | April 11 to 13, 1975 | Evacuation of Cambodia.
Vietnam—Operation FREQUENT WIND | April 29 to 30, 1975 | Evacuation of Vietnam (see § 578.26(e) for conversion of AFEM to VSM).
Mayaguez Operation | May 15, 1975 |
Grenada—Operation URGENT FURY | October 23, 1983 to November 21, 1983 | The qualifying criteria for non-unit direct support personnel in Grenada is 6 consecutive days or 12 nonconsecutive days.
Libya—Operation ELDORADO CANYON | April 12, 1986 to April 17, 1986 |
Panama—Operation JUST CAUSE | December 20, 1989 to January 31, 1990 |
Haiti—Operation UPHOLD DEMOCRACY | September 16, 1994 to March 31, 1995 |

(d) Designated U.S. operations in direct support of the United Nations are provided in Table 5 below:

Table 5
Area | Dates | Explanation
Congo | July 14, 1960 to September 1, 1962
Somalia—Operations RESTORE HOPE and UNITED SHIELD | December 5, 1992 to March 31, 1995
Former Republic of Yugoslavia—Operations JOINT ENDEAVOR and JOINT GUARD | June 1, 1992 to June 20, 1998 | Only for participants deployed in Bosnia-Herzegovina and Croatia.
Former Republic of Yugoslavia—Operation JOINT FORGE | June 21, 1998 to a date to be determined

(e) Designated U.S. operations of assistance for a friendly foreign nation are provided in Table 6 below:

Table 6
Area | Dates | Explanation
Vietnam | July 1, 1958 to July 3, 1965
Laos | April 19, 1961 to October 7, 1962
Cambodia | March 29, 1973 to August 15, 1973
Thailand | March, 29 1973 to August 15, 1973 | Only those in direct support of Cambodia operations.
El Salvador | January 1, 1981 to February 1, 1992
Lebanon | June 1, 1983 to December 1, 1987
Persian Gulf—Operation EARNEST WILL | July 24, 1987 (the date of the Bridgeton incident) to August 1, 1990 | The area of operations is the area from 20 degrees north latitude northward to 30 degrees, 30 minutes, north latitude and from 46 degrees, 36 minutes, east longitude eastward to 63 degrees east longitude. These geographical limits include the Persian Gulf, Bahrain, Kuwait, the Gulf of Oman and most of Saudi Arabia.
Southwest Asia:
—Operation SOUTHERN WATCH | December 1, 1995 to a date to be determined
—Maritime Intercept Operation | December 1, 1995 to a date to be determined
—Vigilant Sentinel | December 1, 1995 to February 15, 1997
—Operation NORTHERN WATCH | January 1, 1997 to a date to be determined
—Operation DESERT THUNDER | November 11, 1998 to December 22, 1998
—Operation DESERT FOX | December 16, 1998 to December 22, 1998
—Operation DESERT SPRING | December 31, 1998 to a date to be determined

(f) One bronze service star is worn to denote subsequent award of the AFEM. To be eligible for additional awards, service must be rendered in more than one of the designated areas and dates specified in paragraphs (c), (d), and (e) of this section. No two awards will be made for service in the same designated area.

(g) Arrowhead Device. The arrowhead device is a bronze replica of an Indian arrowhead ¼-inch high. It denotes participation in a combat parachute jump, helicopter assault landing, combat glider landing, or amphibious assault landing, while assigned or attached as a member of an organized force carrying out an assigned tactical mission. A soldier must actually exit the aircraft or watercraft, as appropriate, to receive assault landing credit. Individual assault credit is tied directly to the combat assault credit decision for the unit to which the soldier is attached or assigned at the time of the assault. It is worn on the service and suspension ribbons of the AFEM when the unit is credited with assault landing credit. Only one arrowhead device will be worn on the ribbon.

(h) Description. The medal is bronze, 1¼ inches in diameter, an eagle, with wings addorsed and inverted, standing on a sword loosened in its scabbard, and super-imposed on a radiant compass rose of eight points, all within the circumscription “ARMED FORCES” above and “EXPEDITIONARY SERVICE” below with a sprig of laurel on each side. On the reverse is the shield from the United States Coat of Arms above two laurel branches separated by a bullet, all within the circumscription “UNITED STATES OF AMERICA”. The ribbon is 1 ⅜ inches wide and consists of the following stripes: 3/32 inch Green 67129; 3/32 inch Golden Yellow 67104; 3/32 inch Spicebrown 67196; 3/32 inch Black 67138; 7/32 inch Bluebird 67117; 1/16 inch Ultramarine Blue 67118; 1/16 inch White 67101; 1/16 inch Scarlet; 7/32 inch Bluebird; 3/32 inch Black; 3/32 inch Spicebrown; 3/32 inch Golden Yellow; and 3/32 inch Green.

§ 578.26 Vietnam Service Medal.

(a) Criteria. The Vietnam Service Medal (VSM) was established by Executive Order 11231, July 8, 1965. It is awarded to all members of the Armed Forces of the United States serving in Vietnam and contiguous waters or airspace thereover, after July 3, 1965 through March 28, 1973. Members of the Armed Forces of the United States in Thailand, Laos, or Cambodia, or the airspace thereover, during the same period and serving in direct support of operations in Vietnam are also eligible for this award.

(b) Qualifications: To qualify for award of the VSM an individual must meet one of the following qualifications:

(1) Be attached to or regularly serve for 1 or more days with an organization participating in or directly supporting military operations.

(2) Be attached to or regularly serve for 1 or more days abroad a Naval vessel directly supporting military operations.

(3) Actually participate as a crewmember in one or more aerial flights into airspace above Vietnam and contiguous waters directly supporting military operations.

(4) Serve on temporary duty for 30 consecutive days or 60 nonconsecutive days in Vietnam or contiguous areas, except that time limit may be waived for personnel participating in actual combat operations.

(c) No person will be entitled to more than one award of the VSM.

(d) Individuals qualified for the AFEM for reason of service in Vietnam between July 1, 1958 and July 3, 1965 (inclusive) shall remain qualified for that medal. Upon request (unit personnel officer) any such individual may be awarded the VSM instead of the AFEM. In such instances, the AFEM will be deleted from the list of authorized medals in personnel records. No person will be entitled to both awards for Vietnam service.

(e) Service members who earned the AFEM for Operation FREQUENT WIND between April 29-30, 1975, may elect to receive the Vietnam Service Medal instead of the AFEM. No service member may be issued both medals for service in Vietnam.

(f) Vietnam and contiguous waters, as used herein, is defined as an area which includes Vietnam and the water adjacent thereto within the following specified limits: From a point on the East Coast of Vietnam at the juncture of Vietnam with China southeastward to 21 degrees N. latitude, 108 degrees; 15′E. longitude; thence, southward to 18 degrees; N. latitude, 108 degrees; 15′ E. longitude; thence southeastward to 17 degrees 30′ N. latitude, 111 degrees E. longitude; thence southward to 11 degrees N. latitude; 111 degrees E. longitude; thence southwestward to 7 degrees N. latitude, 105 degrees E. longitude; thence westward to 7 degrees N. latitude, 103 degrees; E. longitude; thence northward to 9 degrees 30′ N. latitude, 103 degrees E. longitude, thence northeastward to 10 degrees 15′ N. latitude, 104 degrees 27′ E. longitude; thence northward to a point on the West Coast of Vietnam at the juncture of Vietnam with Cambodia.

(g) The VSM may be awarded posthumously.

(h) The boundaries of the Vietnam combat zone for campaign participation credit are as defined in paragraph (d) of this section.

(i) One bronze service star is authorized for each campaign under the following conditions:

(1) Assigned or attached to and present for duty with a unit during the period in which it participated in combat.

(2) Under orders in the combat zone and in addition meets any of the following requirements:

(i) Awarded a combat decoration.

(ii) Furnished a certificate by a commanding general of a corps, higher unit, or independent force that he actually participated in combat.

(iii) Served at a normal post of duty (as contrasted to occupying the status of an inspector, observer, or visitor).

(iv) Aboard a vessel other than in a passenger status and furnished a certificate by the home port commander of the vessel that he served in the combat zone.

(3) Was an evadee or escapee in the combat zone or recovered from a prisoner-of-war status in the combat zone during the time limitations of the campaign. Prisoners of war will not be accorded credit for the time spent in confinement or while otherwise in restraint under enemy control.

(j) Description. The medal is Bronze, 1¼ inches in diameter, an oriental dragon behind a grove of bamboo trees above the inscription “REPUBLIC OF VIETNAM SERVICE.” On the reverse, a crossbow surmounted a by a torch above the arched inscription “UNITED STATES OF AMERICA”. The ribbon is 1 ⅜ inches wide and consists of the following stripes: ⅛ inch Primitive Green 67188; 5/16 inch Air Force Yellow 67103; 1/16 inch Old Glory Red 67156; 5/32 inch Air Force Yellow; center 1/16 inch Old Glory Red; 5/32 inch Air Force Yellow; 1/16 inch Old Glory Red; 5/16 inch Air Force Yellow; and ⅛ inch Primitive Green.

(k) The Vietnam campaigns are provided in Table 7 below:

Table 7
Campaigns | Inclusive dates | Streamer inscription
Vietnam Advisory Campaign | March 15, 1962 to March 7, 1965 | Vietnam Advisory 1962-1965.
Vietnam Defense Campaign | March 8, 1965 to December 24, 1965 | Vietnam Defense 1965.
Vietnam Counteroffensive | December 25, 1965 to June 30, 1966 | Vietnam Counteroffensive 1965-1966.
Vietnam Counteroffensive Phase II | July 1, 1966 to May 31, 1967 (see footnote below) | Vietnam Phase II 1966, 1967.
Vietnam Counteroffensive Phase III | June 1, 1967 to January 29, 1968 | Vietnam Counteroffensive, Phase III, 1967-1968.
Tet Counteroffensive | January 30, 1967 to April 1, 1968 | Tet Counteroffensive 1968.
Vietnam Counteroffensive Phase IV | April 2, 1968 to June 30, 1968 | Vietnam Counteroffensive, Phase IV 1968.
Vietnam Counteroffensive Phase V | July 1, 1968 to November 1, 1968 | Vietnam Counteroffensive, Phase V 1968.
Vietnam Counteroffensive Phase VI | November 2, 1968 to February 22, 1969 | Vietnam Counteroffensive, Phase VI 1968-1969.
Tet 69 Counteroffensive | February 23, 1969 to June 8, 1969 | Tet 69/Counteroffensive, 1969.
Vietnam Summer-Fall 1969 | June 9, 1969 to October 31, 1969 | Vietnam Summer-Fall 1969.
Vietnam Winter-Spring 1970 | November 1, 1969 to April 30, 1970 | Vietnam Winter-Spring 1970.
Sanctuary Counteroffensive | May 1, 1970 to June 30, 1970 | Sanctuary Counteroffensive 1970.
Vietnam Counteroffensive Phase VII | July 1, 1970 to June 30, 1971 | Vietnam Counteroffensive, Phase VII, 1970-1971.
Consolidation I | July 1, 1971 to November 30, 1971 | Consolidation I 1971.
Consolidation II | December 1, 1971 to March 29, 1972 | Consolidation II 1971-1972.
Vietnam Cease-Fire | March 30, 1972 to January 28, 1973 | Vietnam Cease-Fire 1972-1973.
Footnote: Arrowhead device authorized only for members of the 173d Airborne Brigade who actually participated in the landing in the vicinity of Katum, Republic of Vietnam, between the hours of 0800-0907, inclusive on February 27, 1967. A bronze service star affixed to the Parachutist Badge is authorized for members of the 173d Airborne Brigade for participation in combat parachute jump on February 22, 1967 per Department of the Army General Orders 18, 1979.

§ 578.27 Southwest Asia Service Medal.

(a) The Southwest Asia Service Medal (SWASM) was established by Executive Order 12754, March 12, 1991. It is awarded to all members of the Armed Forces of the United States serving in Southwest Asia and contiguous waters or airspace thereover, on or after August 2, 1990 to November 30, 1995. Southwest Asia and contiguous waters, as used herein, is defined as an area which includes the Persian Gulf, Red Sea, Gulf of Oman, Gulf of Aden, that portion of the Arabian Sea that lies north of 10 degrees N. latitude and west of 68 degrees E. longitude, as well as the total land areas of Iraq, Kuwait, Saudi Arabia, Oman, Bahrain, Qatar, and United Arab Emirates.

(b) Members of the Armed Forces of the United States serving in Israel, Egypt, Turkey, Syria, and Jordan (including the airspace and territorial waters) between January 17, 1991 and April 11, 1991, will also be eligible for this award. Members serving in these countries must have been under the command and control of U.S. Central Command or directly supporting military operations in the combat theater.

(c) To be eligible, a service member must meet one or more of the following criteria:

(1) Be attached to or regularly serving for one or more days with an organization participating in ground or shore (military) operations.

(2) Be attached to or regularly serving for one or more days aboard a naval vessel directly supporting military operations.

(3) Be actually participating as a crew member in one or more aerial flights directly supporting military operations in the areas designated in paragraphs (a) and (b) of this section.

(4) Be serving on temporary duty for 30 consecutive days or 60 nonconsecutive days. These time limitations may be waived for people participating in actual combat operations.

(d) The SWASM may be awarded posthumously to any person who lost his or her life while, or as a direct result of, participating in Operation DESERT SHIELD or Operation DESERT STORM without regard to the length of such service, if otherwise eligible.

(e) One bronze service star will be worn on the suspension and service ribbon of the SWASM for participation in each designated campaign. Service stars are described in § 578.61. The designated campaigns for Southwest Asia are provided in Table 8 below:

Table 8
Campaign | Inclusive dates | Streamer inscription
Defense of Saudi Arabia | August 2, 1990 to January 16, 1991 | Defense of Saudi Arabia 1990-1991.
Liberation and Defense of Kuwait | January 17, 1991 to April 11, 1991 | Liberation and Defense of Kuwait 1991.
Southwest Asia Cease-Fire | April 12, 1991 to November 30, 1995 | Southwest Asia Cease-Fire, 1991-1995.

(f) See AR 670-20 for the Civilian Service in Southwest Asia Medal.

(g) Description. The medal is Bronze 1¼ inches wide, with the words “SOUTHWEST ASIA SERVICE” across the center background. Above the center is a desert scene with a tank, armored personnel carrier, helicopter and camels with the rising sun in the background. Below the center is a seascape with ship, tanker, aircraft and clouds in the background. On the reverse, is an upraised sword entwined with a palm frond and “UNITED STATES OF AMERICA” around the edge. The ribbon is 1⅜ inches wide and consists of the following stripes: 1/16 inch Black 67138; ⅛ inch Chamois 67142; 1/16 inch Old Glory Blue 67178; 1/16 inch White 67101; 1/16 inch Old Glory Red 67156; 3/16 inch Chamois; 3/32 inch Myrtle Green 67190; center 1/16 inch Black; 3/32 inch Myrtle Green; 3/16 inch Chamois; 1/16 inch Old Glory Red; 1/16 inch White; 1/16 inch Old Glory Blue; ⅛ inch Chamois; and 1/16 inch Black.

§ 578.28 Kosovo Campaign Medal.

(a) Criteria. The Kosovo Campaign Medal (KCM) was established by Executive Order 13154, May 3, 2000. It is awarded to members of the Armed Forces of the United States who, after March 24, 1999, meet the following criteria:

(1) Participated in or served in direct support of Kosovo Operation(s): ALLIED FORCE; JOINT GUARDIAN; ALLIEDHARBOUR; SUSTAIN HOPE/SHINING HOPE; NOBLE ANVIL; or Kosovo TASK FORCE(S): HAWK, SABER; or HUNTER within the Kosovo Air Campaign or Kosovo Defense Campaign areas of eligibility.

(i) Kosovo Air Campaign. The Kosovo Air Campaign began on March 24, 1999 and ended on June 10, 1999. The area of eligibility for the Air Campaign includes the total land area and air space of Serbia (including Kosovo), Montenegro, Albania, Macedonia, Bosnia, Croatia, Hungary, Romania, Greece, Bulgaria, Italy and Slovenia; and the waters and air space of the Adriatic and Ionian Sea north of the 39th North latitude.

(ii) Kosovo Defense Campaign. The Kosovo Defense Campaign began on June 11, 1999 to a date to be determined. The area of eligibility for the Defense Campaign includes the total land area and air space of Serbia (including Kosovo), Montenegro, Albania, Macedonia, and the waters and air space of the Adriatic Seas within 12 nautical miles of the Montenegro, Albania, and Croatia coastlines south of 42 degrees and 52 minutes North latitude.

(2) Service members must be bona fide members of a unit participating in or be engaged in direct support of the operation for 30 consecutive days in the area of eligibility or for 60 nonconsecutive days provided this support involves entering the operations area of eligibility for meet one or more of the following criteria:

(i) Be engaged in actual combat, or duty that is equally as hazardous as combat duty, during the operation with armed opposition, regardless of time in the area of eligibility;

(ii) While participating in the operation, regardless of time, is wounded or injured and requires medical evacuation from the area of eligibility.

(iii) While participating as a regularly assigned aircrew member flying sorties into, out of, within, or over the area of eligibility in direct support of the military operations.

(b) The KCM may be awarded posthumously to any person who lost his or life without regard to the length of such service.

(c) One bronze service star will be worn on the suspension and service ribbon of the KCM for participation in each campaign (Kosovo Air Campaign and Kosovo Defense Campaign). Qualification for a second bronze service star requires meeting the criteria for both campaigns. The 30 consecutive or 60 nonconsecutive days that begin during the Air Campaign and continues into the Defense Campaign entitles a member to only one bronze service star.

(d) Description. The medal is bronze, 1⅜ inches in diameter, with the stylized wreath of grain, reflecting the agricultural domination of the area and its economy, symbolizes the basic human rights while highlighting the desire of all for peace, safety and prosperity. The rocky terrain, fertile valley, and mountain pass refer to the Dinartic Alps and the Campaign Theater of operations. The sunrise denotes the dawning of a new age of unity and hope; the right to forge a future of freedom, progress and harmony, thus fulfilling the goal of the Alliance. On the reverse an outline of the Yugoslavian Province of Kosovo, denoting the area of conflict, is combined with a NATO star and highlighted compass cardinal points, signifying the Alliance participants who stabilized the region and provided massive relief. The inscription “IN DEFENSE OF HUMANITY” reinforces the objective of the action. The ribbon is 1⅜ inches in width. It is composed of the following vertical stripes: 15/32 inches Old Glory Blue 67178; 7/64 inch Scarlet 67111; 5/32 inch White 67101; 7/64 inch Old Glory Blue 67178; 15/32 inch Scarlet 67111.

§ 578.29 Afghanistan Campaign Medal.

(a) The Afghanistan Campaign Medal is authorized by Public Law 108-234, May 28, 2004 and Executive Order 13363, November 29, 2004. It is authorized for award to individuals who served in direct support of Operation ENDURING FREEDOM. The area of eligibility encompasses all land area of the country of Afghanistan and all air spaces above the land. The period of eligibility is on or after October 24, 2001 to a future date to be determined by the Secretary of Defense or the cessation of Operation ENDURING FREEDOM.

(b) Criteria. Service members qualified for the Global War on Terrorism Expeditionary Medal by reasons of service between October 24, 2001 and February 28, 2005, in an area for which the Afghanistan Campaign Medal was subsequently authorized, shall remain qualified for that medal. Upon application, any such service member may be awarded the Afghanistan Campaign Medal in lieu of the Global War on Terrorism Expeditionary Medal for such service. No service member shall be entitled to both medals for the same act, achievement or period of service.

(c) General. Service members must have been assigned, attached, or mobilized to units operating in the area of eligibility for 30 consecutive days or for 60 non-consecutive days or meet one of the following criteria:

(1) Be engaged in combat during an armed engagement, regardless of the time in the area of eligibility.

(2) While participating in an operation or on official duties, is wounded or injured and requires medical evacuation from the area of eligibility.

(3) While participating as a regularly assigned air crewmember flying sorties into, out of, within or over the area of eligibility in direct support of the military operations; each day of operations counts as one day of eligibility.

(d) Rules. The following rules apply to award of the Afghanistan Campaign Medal:

(1) The Afghanistan Campaign Medal may be awarded posthumously.

(2) Only one award of this medal may be authorized for any individual.

(3) Under no condition shall personnel or units receive the Afghanistan Campaign Medal, the Global War on Terrorism Expeditionary Medal, the Global War on Terrorism Service Medal, the Iraq Campaign Medal, or the Armed Forces Expeditionary Medal for the same action, time period or service.

(e) Precedence. The Afghanistan Campaign Medal shall be positioned below the Kosovo Campaign Medal and above the Iraq Campaign Medal.

(f) Description. On a bronze metal 1 ⅜ inches (3.49 cm) in diameter above a range of mountains is a map of Afghanistan. Around the top is the inscription “AFGHANISTAN CAMPAIGN.” On the reverse, a radiating demisun superimposed by an eagle's head couped. Inscribed across the bottom half of the reverse side are the three lines “FOR SERVICE” “IN” “AFGHANISTAN” all enclosed by a laurel wreath. The ribbon is 1 ⅜ inches wide and consists of the following stripes: 5/64 inch Emerald 67128: 3/16 inch Scarlet 67111; ⅛ inch Black 67138; 7/32 inch White 67101; 1/32 inch Scarlet 67111; 1/32 inch White 67101; 1/32 inch Old Glory Blue 67178; 1/32 inch White 67101; 1/32 inch Scarlet 67111; 7/32 inch White 67101; ⅛ inch Black 67138; 3/16 inch Scarlet 67111; 5/64 inch Emerald 67128.

§ 578.30 Iraq Campaign Medal.

(a) The Iraq Campaign Medal is authorized by Public Law 108-234, May 28, 2004 and Executive Order 13363, November 29, 2004. It is authorized for award to individuals who have served in direct support of Operation IRAQI FREEDOM. The area of eligibility encompasses all land area of the country of Iraq, and the contiguous water area out to 12 nautical miles, and all air spaces above the land area of Iraq and above the contiguous water area out to 12 nautical miles. The period of eligibility is on or after March 19, 2003 to a future date to be determined by the Secretary of Defense or the cessation of Operation IRAQI FREEDOM.

(b) Criteria. Service members qualified for the Global War on Terrorism Expeditionary Medal by reasons of service between March 19, 2003 and February 28, 2005, in an area for which the Iraq Campaign Medal was subsequently authorized, shall remain qualified for that medal. Upon application, any such service member may be awarded the Iraq Campaign Medal in lieu of the Global War on Terrorism Expeditionary Medal for such service. No service member shall be entitled to both medals for the same act, achievement or period of service.

(c) General. Service members must have been assigned, attached, or mobilized to units operating in the area of eligibility for 30 consecutive days or for 60 non-consecutive days or meet one of the following criteria:

(1) Be engaged in combat during an armed engagement, regardless of the time in the area of eligibility.

(2) While participating in an operation or on official duties, is wounded or injured and requires medical evacuation from the area of eligibility.

(3) While participating as a regularly assigned air crewmember flying sorties into, out of, within or over the area of eligibility in direct support of the military operations; each day of operations counts as one day of eligibility.

(d) Rules. The following rules apply to award of the Iraq Campaign Medal:

(1) The Iraq Campaign Medal may be awarded posthumously.

(2) Only one award of this medal may be authorized for any individual.

(3) Under no condition shall personnel receive the Iraq Campaign Medal, the Global War on Terrorism Expeditionary Medal, the Global War on Terrorism Service Medal, the Iraq Campaign Medal, or the Armed Forces Expeditionary Medal for the same action, time period or service.

(e) Precedence. The Iraq Campaign Medal shall be positioned below the Afghanistan Campaign Medal and above the Global War on Terrorism Expeditionary Medal.

(f) Description. On a bronze metal 1/38 inches (3.49 cm) in diameter the relief of Iraq, surmounted by two lines throughout, surmounting a palm wreath. Above is the inscription “IRAQ CAMPAIGN.” On the reverse, the Statue of Freedom surmounting a sunburst, encircled by two scimitars points down crossed at tip of blades, all above the inscription “FOR SERVICE IN IRAQ.” The ribbon is 1⅜ inches wide and consists of the following stripes: 5/32 inch Scarlet 67111; 1/16 inch White 67101; 1/32 inch Green 67129; 1/16 inch White 67101; 5/32 inch Black 67138; 7/16 inch Chamois 67142; 5/32 inch Black 67138; 1/16 inch White 67101; 1/32 inch Green 67129; 1/16 inch White 67101; 5/32 inch Scarlet 67111.

§ 578.31 Global War on Terrorism Expeditionary Medal.

(a) The Global War on Terrorism Expeditionary Medal (GWOTEM) was established by Executive Order 13289, March 12, 2003. It is authorized for award to members of the Armed Forces of the United States who deploy abroad for service in the Global War on Terrorism operations on or after September 11, 2001 to a date to be determined. Operations approved for the GWOTEM are provided in paragraph (g) of this section.

(b) Procedures. (1) The Secretary of Defense in consultation with the Chairman, Joint Chiefs of Staff will designate approved operations on a case-by-case basis when requested by the Combatant Commanders.

(2) The general area of eligibility (AOE) encompasses all foreign land, water, and air spaces outside the fifty states of the United States and outside 200 nautical miles of the shores of the United States. The Secretary of Defense, when recommended by the Chairman, Joint Chiefs of Staff, shall designate the specific area of eligibility per qualifying operation.

(3) Because counter-terrorism operations are global in nature, the AOE for an approved operation may be deemed to be non-contiguous. The Combatant Commander has the authority to approve award of the medal for units and personnel deployed within his or her theater. Under no conditions will units or personnel within the United States, the general region excluded in paragraph (b)(2) this section be deemed eligible for the GWOTEM.

(c ) Criteria. Service members must be assigned, attached or mobilized to a unit participating in designated operations for 30 consecutive days or 60 nonconsecutive days in the AOE, or meet one of the following criteria:

(1) Be engaged in actual combat against the enemy and under circumstances involving grave danger of death or serious bodily injury from enemy action, regardless of time in the AOE.

(2) While participating in the designated operation, regardless of time, is killed, wounded or injured requiring medical evacuation from the AOE.

(3) Service members participating as a regularly assigned air crew member flying sorties into, out of, within, or over the AOE in direct support of Operations Enduring Freedom and/or Iraqi Freedom are eligible to qualify for award of the GWOTEM. Each day that one or more sorties are flown in accordance with these criteria shall count as one day toward the 30 or 60 day requirement.

(d) General. (1) The GWOTEM may be awarded posthumously.

(2) Service members may be awarded both the GWOTEM and the Global War on Terrorism Service Medal (GWOTSM) if they meet the criteria for both awards; however, the qualifying period of service used to establish eligibility for one award cannot be used to justify eligibility for the other award.

(3) Order of Precedence. The GWOTEM will be worn before the GWOTSM and both shall directly follow the Kosovo Campaign Medal (KCM) (i.e., KCM, GWOTEM, GWOTSM, Korea Defense Service Medal (KDSM), etc.).

(4) Subsequent awards. Only one award of the GWOTEM may be authorized to any individual; therefore, an appurtenance (e.g., oak leaf cluster, bronze service star) is authorized for wear on the GWOTEM.

(e) [Reserved]

(f) Battle stars. (1) Battle stars may be applicable for service members who were engaged in actual combat against the enemy and under circumstances involving grave danger of death or serious bodily injury from enemy action. Only the Combatant Commander can initiate a request for a Battle Star. The request will contain the specific unit(s) or individual(s) engaged in actual combat, the duration for which actual combat was sustained, and a detailed description of the actions against the enemy.

(2) The Chairman, Joint Chiefs of Staff (CJCS) is the approving authority for Battle Stars.

(3) The approval of battle stars by the CJCS is the authority for the senior Army commander in the combat theater to approve campaign participation credit. See paragraph 7-18, Table 7-1 and Figure 7-1, AR 600-8-22.

(g) Approved operations. Initial award of the GWOTEM is limited to service members deployed abroad in Operations ENDURING FREEDOM and IRAQI FREEDOM in the following designated specific geographic areas of eligibility AOE: Algeria, Bahrain, Bosnia-Herzegovina, Bulgaria (Bourgas), Chad, Colombia, Crete, Guantanamo Bay Cuba, Cyprus, Diego Garcia, Djibouti, Egypt, Eritrea, Ethiopia, Georgia, Hungary, Iran, Israel, Jordan, Kazakhstan, Kenya, Kosovo (only specific GWOT operations not associated with operations qualifying for the Kosovo Campaign Medal), Kuwait, Kyrgyzstan, Lebanon, Mali, Mauritania, Niger, Oman, Pakistan, Philippines, Qatar, Romania (Constanta), Saudia Arabia, Somalia, Syria, Tajikistan, Turkey, Turkmenistan, Uganda, United Arab Emirates, Uzbekistan, Yemen, that portion of the Arabian Sea north of 10 degrees north latitude and west of 68 degrees longitude, Bab El Mandeb, Gulf of Aden, Gulf of Aqaba, Gulf of Oman, Gulf of Suez, that portion of the Mediterranean Sea east of 28 degrees east longitude, Mediterranean Sea (“Boarding And Searching” Vessel Operations), Persian Gulf, Red Sea, Strait of Hormuz, and the Suez Canal.

(h) Description. (1) Ribbon. The different topographies our Armed Forces operate in are represented by the colors tan for the deserts, green for the grass or woodlands, blue for the waterways and white for the snowy regions. Blue also alludes the atmosphere, the zone of airstrikes. Gold is emblematic of excellence and high achievement. The red, white and blue stripes at center highlight this nation's role in the global war on terrorism.

(2) Obverse. The eagle, strong, keen of eye and vigilant, represents the United States and our resolve to make the world safe from the terrorism. The polestar and globe highlight the worldwide scope of this mission to secure our freedoms.

(3) Reverse. The torch and fasces denote freedom and justice. The laurel represents honor and high esteem.

§ 578.32 Global War on Terrorism Service Medal.

(a) The Global War on Terrorism Service Medal (GWOTSM) was established by Executive Order 13289, March 12, 2003. It is authorized for award to members of the Armed Forces of the United States who have participated in or served in support of the Global War on Terrorism operations outside of the designated areas of eligibility defined in § 578.31 of this part, on or after September 11, 2001 to a future date to be determined. Operations approved for the GWOTSM are provided in paragraph (e) of this section.

(b) Procedures. (1) The Chairman, Joint Chiefs of Staff will designate approved operations on a case-by-case basis when requested by the Combatant Commanders.

(2) At the request of the Combatant Commander, the Chairman, Joint Chiefs of Staff may approve specific efforts that are rendered by unit(s) or individual(s) that meet all other requirements for award of the Global War on Terrorism Service Medal however, are not issued specific orders for the approved operation(s).

(3) Battalion commanders and commanders of separate units have the authority to award the Global War on Terrorism Service Medal for approved operations to units and personnel within his or her command.

(c) Criteria. Service members must be assigned, attached; or mobilized to a unit supporting designated operations listed in § 578-31 of this part for 30 consecutive days or for 60 nonconsecutive days, or meet one of the following criteria:

(1) Initial award of the Global War on Terrorism Service Medal will be limited to airport security operations from September 27, 2001 through May 31, 2002 and service members who supported Operations NOBLE EAGLE, ENDURING FREEDOM, and IRAQI FREEDOM.

(2) All service members on active duty, including Reserve Components mobilized, or National Guardsmen activated on or after September 11, 2001 to a date to be determined having served 30 consecutive days or 60 nonconsecutive days are authorized the Global War on Terrorism Service Medal.

(d) General. (1) The GWOTSM may be awarded posthumously.

(2) Service members may be awarded both the GWOTEM and the GWOTSM if they meet the requirements of both awards; however, the qualifying period used to establish eligibility for one cannot be used to justify eligibility for the other award.

(3) Order of Precedence. The GWOTSM will be worn directly below the GWOTEM and both shall directly follow the Kosovo Campaign Medal.

(4) Subsequent awards. Only one award of the GWOTSM may be authorized for any individual; therefore, an appurtenance (e.g., oak leaf cluster, bronze service star) is not authorized.

(e) Approved operations. Initial approved operations for the Global War on Terrorism Service Medal are Airport Security Operations from September 27, 2001 through May 31, 2002 and Operations NOBLE EAGLE, ENDURING FREEDOM and IRAQI FREEDOM.

(f) Description. (1) Ribbon. The dark red stripe denotes sacrifice. The gold stripes symbolize achievement. The blue stripes signify justice.

(2) Obverse. The obverse has a stylized globe, the universal symbol of the world. Surmounting the globe is six arrows exemplifying fighting power and readiness, also representing the area that terrorism is being fought; diplomatic, military, financial, intelligence, investigative and law enforcement. Below, a olive branch exemplifies peace and an oak branch emphasizing strength and protection.

(3) Reverse. The reverse is inscribed ‘FOR INTERNATIONAL RESPONSES AGAINST TERRORISM' between three stars commemorate achievement and below the year ‘2002’.

§ 578.33 Korea Defense Service Medal.

(a) Eligibility Requirements. The Korea Defense Service Medal (KDSM) was authorized by Section 543, 2003 National Defense Authorization Act. It is awarded to members of the Armed Forces who have served on active duty in support of the defense of the Republic of Korea from July 28, 1954 to a date to be determined.

(1) The area of eligibility encompasses all land area of the Republic of Korea, and the contiguous water out to 12 nautical miles, and all air spaces above the land and water areas.

(2) The KDSM period of eligibility is July 28, 1954, to a future date to be determined by the Secretary of Defense.

(b) Specific. Service members must have been assigned, attached, or mobilized to units operating in the area of eligibility for 30 consecutive or for 60 nonconsecutive days, or meet the following criteria:

(1) Be engaged in combat during an armed engagement, regardless of the time in the area of eligibility.

(2) Is wounded or injured in the line of duty and requires medial evacuation from the area of eligibility.

(3) While participating as a regularly assigned air crew member flying sorties into, out of, or within the area of eligibility in direct support of military operations. Each day that one or more sorties are flown in accordance with these criteria shall count as one day toward the 30 or 60-day requirement.

(4) Personnel who serve in operations and exercises conducted in the area of eligibility are considered eligible for the award as long as the basic time criteria is met. Due to the extensive time period for KDSM eligibility, the nonconsecutive service period for eligibility remains cumulative throughout the entire period.

(c) Awarding. (1) The KDSM may be awarded posthumously.

(2) Only one award of the KDSM is authorized for any individual.

(d) Precedence. The KDSM shall be positioned below the Global War on Terrorism Service Medal in precedence; and shall be positioned above the Armed Forces Service Medal.

(e) Description. The ribbon is dark green represents the land of Korea, blue indicates overseas service and commitment to achieving peace. Gold denotes excellence, white symbolizes idealism and integrity. The obverse is a bronze-color disc bearing a Korean “circle dragon” within an encircling scroll inscribed “Korea Defense Service Medal” with, in base, two sprigs, laurel to dexter side, bamboo to sinister. The four-clawed dragon is a traditional symbol of Korea and represents intelligence and strength of purpose. The sprig of laurel denotes honorable endeavor and victory, the bamboo refers to the land of Korea. The reverse is a representation of the land mass of Korea surmounted by two swords points up saltirewise within a circlet garnished of five points. The swords placed saltirewise over a map of Korea signify defense of freedom in that country and the readiness to engage in combat to that end. The circlet enclosing the device recalls the forms of five-petal symbols common in Korean armory.

§ 578.34 Armed Forces Service Medal.

(a) Criteria. The Armed Forces Service Medal (AFSM) was established by Executive Order 12985, January 11, 1996. It is awarded to members of the Armed Forces of the United States who, after June 1, 1992 meet the following criteria:

(1) Participate, or have participated, as members of U.S. military units, in a U.S. military operation that is deemed to be a significant activity; and

(2) Encounter no foreign armed opposition or imminent threat of hostile action.

(b) Eligibility requirements. To qualify for award of the AFSM service members must be bona fide members of a unit participating for one or more days in the operation within the designated area of eligibility, or meet one or more of the following criteria:

(1) Be engaged in direct support for 30 consecutive days in the area of eligibility (or for the full period when an operation is of less than 30 days duration) or for 60 nonconsecutive days provided this support involves entering the area of eligibility.

(2) Participate as a regularly assigned crew member of an aircraft flying into, out of, within, or over the area of eligibility in support of the operation.

(c) Qualifying operations. (1) The AFSM may be authorized for significant U.S. military activities for which no other U.S. campaign or service medal is appropriate, such as—

(i) Peacekeeping operations.

(ii) Prolonged humanitarian operations.

(2) The AFSM may be awarded for U.S. military operations in direct support of the United Nations (UN) or the North Atlantic Treaty Organization (NATO), and for operations of assistance to friendly foreign nations.

(d) General criteria. (1) The AFSM provides recognition to participants who deploy to the designated area of eligibility for the qualifying operation. Outstanding or meritorious performance of non-deployed or remotely located support units and individuals is not justification for award of the AFSM. Such performance may be recognized by appropriate unit and/or individual decorations.

(2) Because the AFSM may be awarded for a prolonged humanitarian operation, distinction between the AFSM and the Humanitarian Service Medal (HSM) must be maintained. The following rules apply:

(i) The HSM is an individual U.S. service medal, presented to individuals who are physically present at the site of immediate relief and who directly contribute to and influence the humanitarian action. The HSM is only awarded for service during the identified “period of immediate relief”; eligibility for the HSM terminates once (if) the humanitarian action evolves into an “established ongoing operation beyond the initial emergency condition.”

(ii) The AFSM is a theater award, authorized for presentation to all participants who meet the eligibility requirements established for a designated operation.

(iii) For operations in which all deployed participants are awarded the HSM and for which the “period of immediate relief” coincides with the duration of significant deployed operations, award of the AFSM is not authorized.

(iv) Humanitarian operations for which some (or all) participants are awarded the HSM, which continue beyond the “period of immediate relief,” may be recognized by award of the AFSM. The AFSM may be awarded for the entire period of the operation; individuals awarded the HSM for direct participation during the “period of immediate relief” are also eligible for the AFSM if awarded.

(e) Limitations on awarding the AFSM. The following limitations apply when determining whether the AFSM should be awarded for a particular mission or operation or when determining eligibility for award to an individual:

(1) The AFSM shall be awarded only for operations for which no other U.S. campaign or service medal is approved.

(2) For operations in which personnel for only one Service participates, the AFSM shall be awarded only if there is no other suitable award available to that Service.

(3) The military service of the individual on which qualification for the award of the AFSM is based shall have been honorable.

(4) Award of the AFSM is not authorized for participation in national or international exercises.

(5) The AFSM will not be awarded for NATO or United Nations operations not involving significant, concurrent U.S. military support operations.

(f) Approval and designation of area of eligibility—(1) Approval of operations. The Chairman of the Joint Chiefs of Staff (CJCS) shall designate U.S. military operations subsequent to June 1, 1992 that qualify for the AFSM.

(2) Designation of area of eligibility. (i) The CJCS shall specify the qualifying area of eligibility for award of the AFSM.

(ii) Prior to submission to the CJCS for consideration, the proposed qualifying area of eligibility will be coordinated with the Joint Chiefs of Staff and the Commander in Chiefs (CINCs) to ensure all appropriate locations are included.

(iii) Upon the recommendation of a CINC and in coordination with the Joint Chiefs of Staff, the CJCS may adjust the area of eligibility to reflect changes in the location, scope and degree of participation of forces deployed to, and in direct support of, an operation for which the AFSM has been awarded.

(g) Subsequent awards. No more than one medal shall be awarded to any one Service member. One bronze service star is worn to denote second and subsequent awards of the AFSM. To be eligible for additional awards, service must be rendered in more than one designated area and period of service. No two awards will be made for service in the same designated area. (Service stars are described in § 578.61)

(h) Manner of wearing. The AFSM shall take precedence immediately after the Southwest Asia Service Medal.

(i) Posthumous awards. The AFSM may be awarded posthumously to eligible soldier's primary next of kin (primary next of kin is defined in the Glossary).

(j) Designated U.S. military operations, area and dates are as follows:

(1) Operations PROVIDE PROMISE, JOINT ENDEAVOR, ABLE SENTRY, DENY FLIGHT, MARITME MONITOR, and SHARP GUARD, from November 20, 1995 to December 19, 1996.

(2) Operation JOINT GUARD from December 20, 1996 to June 20, 1998.

(3) Operation JOINT FORGE from June 21, 1998 to a date to be determined.

(4) Operation UNITED NATIONS MISSION in HAITI; U.S. FORCES in HAITI and U.S. SUPPORT GROUP-HAITI from April 1, 1995 to January 31, 2000.

(5) Operation PROVIDE COMFORT from December 1, 1995 to December 31, 1996.

(k) See AR 672-20 for the Armed Forces Civilian Service Medal.

(l) Description. The medal is Bronze, 1¼ inches in diameter with a demi-torch (as on the Statue of Liberty) encircled at the top by the inscription “ARMED FORCES SERVICE MEDAL” on the obverse side. On the reverse side is an eagle (as on the seal of the DOD) between a wreath of laurel in base and the inscription “IN PURSUIT OF DEMOCRACY” at the top. The ribbon is 1⅜ inches wide and consists of the following stripes: 1/16 inch Goldenlight 67107; ⅛ inch Jungle Green 67191; ⅛ inch Green 67129; ⅛ inch Mosstone 67127; ⅛ inch Goldenlight; Center ¼ inch Bluebird 67117; ⅛ inch Goldenlight; ⅛ inch Mosstone; ⅛ inch Green; ⅛ inch Jungle Green; and 1/16 inch Goldenlight.

§ 578.35 Humanitarian Service Medal.

(a) Criteria. The Humanitarian Service Medal (HSM) was established by Executive Order 11965, January 19, 1977. It is awarded to members of the Armed Forces of the United States who, after April 1, 1975, distinguished themselves by meritorious direct participation in a DOD approved significant military act or operation of a humanitarian nature. It is not awarded for participation in domestic disturbances involving law enforcement, equal rights to citizens, or protection of properties.

(b) To be eligible, a service member must meet the following requirements:

(1) Must be on active duty at the time of direct participation in a DOD approved humanitarian act or operation. “Active duty” means full-time duty in the active military service of the United States. It includes duty on the active duty list, full-time training duty, annual training duty, and attendance, while in the active military service, at a school designated as a Service school by law or by the Secretary of the Military Department concerned per 10 U.S.C. 101(22). This includes service as a cadet at the U.S. Military Academy. Members of the Army National Guard are eligible provided that the use of active forces has been authorized in the act or operation.

(2) Must have directly participated in the humanitarian act or operation within the designated geographical area of operation and within specified time limits. “Direct participation” is defined as “hands on” activity at the site or sites of the military act or operation. Specifically excluded from eligibility for this medal are personnel or elements remaining at geographically separated military headquarters.

(3) Must provide evidence which substantiates direct participation in a DOD approved humanitarian act or operation except when by-name eligibility lists are published. Acceptable evidence includes the following:

(i) Certificates, letters of commendation or appreciation.

(ii) Officer or enlisted evaluation reports.

(iii) Copies of TDY or special duty orders reflecting participation within the specified timeframe and geographical location cited.

(iv) After-action reports, situation reports, rosters, unit files or any other records or documentation which verify the service members participation.

(v) Statements from commanders, supervisors, or other officials who were in a position to substantiate the service members direct participation in the area of operation.

(c) The HSM is a U.S. service medal and does not preclude or conflict with other service medals or decorations awarded on the basis of valor, achievement or meritorious service.

(d) No person will be awarded more than one HSM for participation in the same military act or operation.

(e) A service star will be worn to denote direct participation in second or subsequent humanitarian acts or operations. The approved HSM operations are provided in AR 600-8-22 and the HQDA Military Awards Branch Web site: https://www.perscomonline.army.mil/tagd/awards/HSM.doc.

(f) See AR 672-20 for Civilian Award for Humanitarian Service.

(g) Description. The medal is Bronze, 1¼ inches in diameter, surmounted by an open hand, palm up, extending to the upper left. On the reverse is a sprig of oak in a left oblique slant between the inscription “FOR HUMANITARIAN SERVICE” in three horizontal lines, and “UNITED STATES ARMED FORCES” in an arc around the base. The ribbon is 1⅜ inches wide and consists of the following stripes: 3/16 inch Imperial Purple 67161; 1/16 inch White 67101; 5/16 inch Bluebird 67117; ¼ inch Flag Blue 67124; 5/16 inch Bluebird; 1/16 inch White; and 3/16 inch Imperial Purple.

§ 578.36 Military Outstanding Volunteer Service Medal.

(a) Criteria. The Military Outstanding Volunteer Service Medal (MOVSM) was established by Executive Order 12830, January 9, 1993. It may be awarded to members of the Armed Forces of the United States and their Reserve Components, who subsequent to December 31, 1992, perform outstanding volunteer community service of a sustained, direct and consequential nature.

(b) To qualify for award of the MOVSM a service member's volunteer service must meet the following requirements:

(1) Be to the civilian community, to include the military family community.

(2) Be significant in nature and produce tangible results.

(3) Reflect favorably on the Military Service and the DOD.

(4) Be of a sustained and direct nature.

(c) While there is no specific time period to qualify for the MOVSM (for example, 500 hours of community service within 24 calendar months), approval authorities shall ensure the service to be honored merits the special recognition afforded by this medal. The MOVSM is intended to recognize exceptional community support over time and not a single act or achievement. Further, it is intended to honor direct support of community activities. For the purpose of this award, attending membership meetings or social events of a community service group is not considered qualifying service, while manning a community crisis action telephone line is considered qualifying service.

(d) Approval authority for award of the MOVSM will be commanders (overseas and CONUS (continental United States)) serving in the rank of Lieutenant Colonel or higher. Before the recommendation is forwarded to the award approval authority, the recommender must certify that the service member meets the eligibility criteria for award of the MOVSM. Substantiating documentation, such as record of hours contributed, letters or certificates from activity supervisors, or other proof of the service member's volunteer services may be attached as enclosures to the recommendation.

(e) Description. The medal is Bronze, 1⅜ inches in diameter bearing on the obverse, five annulets interlaced enfiled by a star and environed by a wreath of laurel. On the reverse is a sprig of oak between the inscription “OUTSTANDING VOLUNTEER SERVICE” at the top and “UNITED STATES ARMED FORCES” at the bottom. The ribbon is 1⅜ inches wide and consists of the following stripes: ⅛ inch Bluebird 67117; ⅛ inch Goldenlight 67107; 3/16 inch Bluebird; 1/16 inch Green 67129; 5/32 inch Goldenlight; center 1/16 inch Green; 5/32 inch Goldenlight; 1/16 inch Green; 3/16 inch Bluebird; ⅛ inch Goldenlight; and ⅛ inch Bluebird.

§ 578.37 Army Good Conduct Medal.

(a) Criteria. The Army Good Conduct Medal (AGCM) was established by Executive Order 8809, June 28, 1941 and was amended by Executive Order 9323, 1943 and by Executive Order 10444, April 10, 1953. It is awarded for exemplary behavior, efficiency, and fidelity in active Federal military service. It is awarded on a selective basis to each soldier who distinguishes himself or herself from among his or her fellow soldiers by his exemplary conduct, efficiency, and fidelity throughout a specified period of continuous enlisted active Federal military service. There is no right or entitlement to the medal until the immediate commander has approved the award and the award has been announced in permanent orders.

(b) Personnel eligible: (1) Active Component enlisted soldiers.

(2) Active Guard Reserve (AGR) enlisted personnel serving on extended periods of active duty (other than for training) under 10 U.S.C. and 32 U.S.C. are eligible for award of the AGCM for qualifying service beginning on or after September 1, 1982, provided no period of the service has been duplicated by the same period of service for which the soldier has been awarded the Army Reserve Components Achievement Medal (ARCAM). The AGCM qualification period may commence anytime during the 3 years immediately preceding the September 1, 1982 effective date provided no portion of service for the AGCM is included in a period of service for which the ARCAM was awarded.

(3) Retroactively to eligible Army of the United States (AUS) enlisted personnel.

(4) Other Army enlisted personnel as may be directed by the Secretary of the Army.

(c) Awarding authority. Unit commanders are authorized to award the AGCM to enlisted personnel serving under their command jurisdiction who meet the established criteria. Send requests for award of the AGCM for former soldiers to NPRC (see § 578.8(e) for address). Requests for award of the AGCM for Army National Guard and Army Reserve members for periods of active duty based on qualifying prior active Federal military service (Regular Army and AUS) will be forwarded through normal command channels to the Commander, USA HRC-St. Louis, ATTN: ARPC-PSP-R, One Reserve Way, St. Louis, MO 63132-5200. Separation transfer points will review the records of enlisted personnel being separated to determine whether they qualify for the AGCM. Where possible, make a reasonable effort to contact the unit commander before awarding the medal to qualified members.

(d) Basis for approval. The immediate unit commander's decision to award the AGCM will be based on his or her personal knowledge and of the individual's official records for periods of service under previous commanders during the period for which the award is to be made. The lack of official disqualifying comment by such previous commanders qualifies the use of such period toward the award by the current commander.

(e) Qualifying periods of service. Any one of the following periods of continuous enlisted active Federal military service qualifies for award of the AGCM or of an AGCM Clasp (see paragraph (h) of this section in conjunction with the criteria in paragraph (f) of this section):

(1) Each 3 years completed on or after August 27, 1940.

(2) For first award only, 1 year served entirely during the period December 7, 1941 to March 2, 1946.

(3) For first award only, upon termination of service on or after June 27, 1950, of less than 3 years but more than 1 year.

(4) For first award only, upon termination of service, on or after June 27, 1950, of less than 1 year when final separation was by reason of physical disability incurred in the line of duty.

(5) For first award only, for those individuals who died before completing 1 year of active Federal military service if the death occurred in the line of duty.

(f) Character of service. Throughout a qualifying period, each enlisted soldier must meet all of the following criteria for an award:

(1) The immediate commander evaluates the soldier's character as above reproach.

(2) The record of service indicates that the soldier has—

(i) Willingly complied with the demands of the military environment.

(ii) Been loyal and obedient to their superiors.

(iii) Faithfully supported the goals of their organization and the Army.

(iv) Conducted themselves in such an exemplary manner as to distinguish them from their fellow soldiers.

(3) While any record of non-judicial punishment could be in conflict with recognizing the soldier's service as exemplary, such record should not be viewed as automatically disqualifying. The commander analyzes the record, giving consideration to the nature of the infraction, the circumstances under which it occurred and when. Conviction by court-martial terminates a period of qualifying service; a new period begins following the completion of sentence imposed by court-martial.

(4) In terms of job performance, the soldier's efficiency must be evaluated and must meet all requirements and expectations for that soldier's grade, Military Occupational Specialty (MOS), and experience.

(5) Individuals whose retention is not warranted under standards prescribed in AR 604-10, or for whom a bar to reenlistment has been approved under the provisions of AR 601-280, chapter 6 (specifically for the reasons enumerated in paragraphs 6-4a, b, and d), are not eligible for award of the AGCM.

(g) Additional implementing instructions. (1) Qualifying periods of service (paragraph (e) of this section) must be continuous enlisted active Federal military service. When an interval in excess of 24 hours occurs between enlistments, that portion of service before to the interruption is not creditable toward an award.

(2) Release from enlisted status for entry into service as a cadet or midshipman at any U.S. service academy, or discharge from enlisted status for immediate entry on active duty in an officer status is considered termination of service for awarding the AGCM. A minimum of 12 months enlisted service is required and must have been completed for first award of the AGCM; otherwise, the full 3 years of qualifying enlisted service is required.

(3) A qualified person scheduled for separation from active Federal military service should receive the award at his or her last duty station. Such award is authorized up to 30 days before the soldier's departure en route to a separation processing installation in CONUS or overseas. Orders announcing such advance awards will indicate the closing date for the award prefixed with date of separation, on or about, as the response to the “Dates or period of service” lead line. Example: From October 31, 1977 to date of separation on or about October 30, 1980. For soldiers who are granted terminal leave prior to retirement or End Tour of Service (ETS), orders awarding second and subsequent awards of the AGCM may be issued up to 90 days before retirement or ETS date.

(4) An award made for any authorized period of less than 3 years must be for the total period of obligated active Federal military service. This applies to first award only, all other awards of the AGCM require 3 full years qualifying service.

(5) Discharge under provisions of AR 635-200 for immediate (re)enlistment is not termination of service.

(h) Disqualification for the Army Good Conduct Medal. (1) Conviction by courts-martial terminates a period of qualifying service; a new period begins the following day after completion of the sentence imposed by the court-martial.

(2) Individual whose retention is not warranted under standards prescribed in AR 604-10, or for whom a bar to reenlistment has been approved under the provisions of AR 601-280, chapter 6 (specifically for the reasons enumerated in, paragraphs 6-4a, b, and d, AR 601-280), are not eligible for award of the AGCM.

(3) In instances of disqualification as determined by the unit commander, the commander will prepare a statement of the rationale for his or her decision. This statement will include the period of disqualification and will be referred to the individual according to AR 600-37. The unit commander will consider the affected individual's statement. If the commander's decision remains the same, the commander will forward his or her statement, the individual's statement, and his or her consideration for filing in the individual's military record.

(4) Disqualification for an award of the AGCM can occur at any time during a qualifying period (for example, when manner of performance or efficiency declines). The custodian of the soldier's record will establish the new “beginning date” for the soldier's eligibility for award of the AGCM, annotate the date on the soldier's DA Form 2-1, and submit an automated transaction. These procedures do not apply if the soldier is disqualified under the provisions of paragraph (h)(2) of this section.

(i) Subsequent awards and clasps. A clasp is authorized for wear on the AGCM to denote a second or subsequent award. Clasps authorized for second and subsequent award are:

(1) Award: 2d; Clasp: Bronze, 2 loops;

(2) Award: 3d; Clasp: Bronze, 3 loops;

(3) Award: 4th; Clasp: Bronze, 4 loops;

(4) Award: 5th; Clasp: Bronze, 5 loops;

(5) Award: 6th; Clasp: Silver, 1 loop;

(6) Award: 7th; Clasp: Silver, 2 loops;

(7) Award: 8th; Clasp: Silver, 3 loops;

(8) Award: 9th; Clasp: Silver, 4 loops;

(9) Award: 10th; Clasp: Silver, 5 loops;

(10) Award: 11th; Clasp: Gold, 1 loop;

(11) Award: 12th; Clasp: Gold, 2 loops;

(12) Award: 13th; Clasp: Gold, 3 loops;

(13) Award: 14th; Clasp: Gold, 4 loops; and

(14) Award: 15th; Clasp: Gold, 5 loops.

(j) Army Good Conduct Medal certificate policy. (1) The DA Form 4950 (Good Conduct Medal Certificate) may be presented to enlisted soldiers only on the following occasions:

(i) Concurrent with the first award of the AGCM earned on or after January 1, 1981.

(ii) Concurrent with retirement on or after January 1, 1981.

(2) When presented at retirement, the DA Form 4950 will reflect the last approved award of the AGCM earned by the soldier before retirement. The number of the last earned will be centered immediately beneath the line “THE GOOD CONDUCT MEDAL;” for example, “Sixth Award.” The period shown on the certificate will be the period cited in the last award earned by the soldier. The words “UPON HIS OR HER RETIREMENT” may be typed below the soldier's name.

(3) The DA Form 4950 will not be presented for second or subsequent awards of the AGCM except as provided in paragraph (j)(2) of this section.

(4) DA Form 4950 is available from the U.S. Army Publications Distribution Center, St. Louis, MO.

(k) Retroactive award. (1) Retroactive award to enlisted personnel, and to officer personnel who qualified in an enlisted status, is authorized provided evidence is available to establish qualification. Where necessary, to correct conflicting or duplicate awards, previous general or permanent orders may be revoked and new orders published, citing this paragraph as authority.

(2) Requests for retroactive awards to enlisted persons which cannot be processed due to lack of information will be forwarded to Commander, U.S. Army Enlisted Records and Evaluation Center, Fort Benjamin Harrison, IN 46249-5301, by the commander having command jurisdiction. Upon receipt of eligibility information from U.S. Army Enlisted Records and Evaluation Center (USAEREC), the commander can take action to confirm retroactive award of the AGCM by publication of orders, or by informing the soldier of findings of ineligibility.

(l) Description. The medal is Bronze, 1¼ inches in diameter, with an eagle, wings spread, standing on a closed book and sword, encircled by the words “EFFICIENCY HONOR FIDELITY”. On the reverse is a five-pointed star and a scroll between the words “FOR GOOD” and “CONDUCT”, surrounded by a wreath formed by a laurel branch on the left and an oak branch on the right. Clasps are placed on the ribbon to represent subsequent awards. The ribbon is 1⅜inches ribbon consisting of the following stripes: 1/16 inch Soldier Red 67157; 1/16 inch White 67101; 1/16 inch Soldier Red; 1/16 inch White; 1/16 inch Soldier Red; 1/16 inch White; center ⅝ inch Soldier Red; 1/16 inch White; 1/16 inch Soldier Red; 1/16 inch White; 1/16 inch Soldier Red; 1/16 inch White; and 1/16 inch Soldier Red.

§ 578.38 Army Reserve Components Achievement Medal.

(a) Criteria. The Army Reserve Components Achievement Medal (ARCAM) was established by the Secretary of the Army on March 3, 1971 and amended by Department of the Army General Orders (DAGO) 4, 1974. It is awarded for exemplary behavior, efficiency, and fidelity while serving as a member of an Army National Guard (ARNG) or USAR troop program unit (TPU) or as an individual mobilization augmentee (IMA). The first design bears the inscription “United States Army Reserve,” the other design bears the inscription, “Army National Guard.”

(b) Personnel eligible. The ARCAM is authorized for award to Army personnel including Active Guard Reserve (AGR) officers in the rank of colonel and below. Individual must have been a member of an ARNG unit or USAR TPU, excluding enlisted soldiers in an AGR status. AGR enlisted soldiers are eligible for the AGCM under the provisions of § 578.37(b). The medal is also awarded to USAR soldiers serving as IMA after completing qualifying service and on recommendation of the unit commander or HQDA official to which the IMA is assigned.

(c) Award approval authority. Approval authority for award of the ARCAM for ARNG units and USAR TPU soldiers is the soldier's unit commander. Commander, USA HRC-St. Louis, One Reserve Way, St. Louis, MO 63132-5200, is the approval authority for award of the ARCAM to USAR IMA soldiers. Orders are not published for the award of this medal. Approved ARCAM is announced using an official memorandum. The records custodian will then annotate the records.

(d) Peacetime and wartime applicability. The ARCAM is awarded to eligible Army Reserve Component soldiers during times of peace and war. However, during periods of war, the length of qualifying service is subject to change at the discretion of the Secretary of the Army.

(e) Basis or criteria for approval. (1) Between March 3, 1972 and March 28, 1995, the medal was authorized on completion of 4 years' service with a Reserve Component unit. Individual must have completed 4 years of qualifying service on or after March 3, 1972 and before March 28, 1995. A qualifying year of service is one in which a Reserve soldier earns a minimum of 50 retirement points during his/her retirement year. Qualifying service for computation purposes is based only by retirement ending year dates.

(2) Effective March 28, 1995, the period of qualifying service for award of the ARCAM is reduced from 4 to 3 years. That is, soldiers completing 3 years of qualified service on or after March 28, 1995 are eligible for ARCAM consideration. This change is not retroactive.

(3) All awards of the ARCAM must be made under the following conditions:

(i) Such years of qualifying service must have been consecutive. A period of more than 24 hours between Reserve enlistments or officer's service will be considered a break in service. Credit toward earning the award must begin anew after a break in service. Service while attending Officer Candidate School or Warrant Officer Candidate school will be considered enlisted service, and termination will occur when the soldier is commissioned or appointed a warrant officer.

(ii) Although only unit service may be credited for award of this medal, consecutive Ready Reserve service between periods of unit service will not be considered as a break in service and service in the first unit may be added to service in the second unit to determine total qualifying service.

(iii) Soldiers who are ordered to active duty in the AGR program will be awarded the ARCAM if they have completed 2 of the 3 years required (Army Good Conduct Medal eligibility starts on the effective date of the AGR order). Soldiers with less than 2 years will not receive an award. Service lost may be recovered if the soldier is separated honorably from the AGR program and reverts to troop program unit service, for example, a soldier serves 1 year and 6 months of qualifying service and is ordered to an AGR tour. This service is not sufficient for award of the ARCAM. When the soldier leaves the AGR program that 1 year and 6 months is granted towards the next award of the ARCAM. Only the State adjutant general may determine that the AGR service was not sufficiently honorable enough to revoke the previously earned time, regardless of the type of separation given.

(iv) The member must have exhibited honest and faithful service as is in accordance with the standards of conduct, courage and duty required by law and customs of the service, of a member of the same grade as the individual to whom the standard is being applied.

(4) A member must be recommended for the award by his or her unit commander whose recommendation is based on personal knowledge of the individual and the individual's official records of periods of service under prior commanders during the period for which the award is made.

(5) A commander may not delay award or extend the qualifying period for misconduct. A determination that service is not honorable as prescribed negates the entire period of the award.

(f) Unqualified service. (1) Service performed in the Reserve Components of the U.S. Air Force, Navy, Marine Corps, or Coast Guard may not be credited for award of the ARCAM.

(2) Release from Army Reserve Component status for entry into service as a cadet or midshipman at any U.S. service academy or discharge from Army Reserve Component for immediate entry in the Regular Army, in an officer or enlisted status, is considered termination of service for the purpose of qualifying for the ARCAM.

(3) Service while in an enlisted AGR status may not be credited for award of the ARCAM.

(g) Subsequent awards and Oak Leaf Clusters. Second and succeeding awards of the ARCAM are denoted by Oak Leaf Clusters.

(h) Description. The medal is Bronze, 1¼ inches in diameter, consisting of a faceted twelve-pointed star with a beveled edge, the points surmounting a wreath of laurel and bearing on a disc within a smaller wreath of laurel, a torch between two swords crossed saltirewise, points up and flanked by two mullets. The reverse has the cuirass from the DA seal centered below “ARMY NATIONAL GUARD” or “UNITED STATES ARMY RESERVE” and above “FOR ACHIEVEMENT”. The ribbon is 1⅜ inches wide ribbon consisting of the following stripes: 5/16 inch Old Gold 67105; ⅛ inch Ultramarine Blue 67118; 1/16 inch White 67101; center ⅜ inch Scarlet 67111; 1/16 inch White; ⅛ inch Ultramarine Blue; and 5/16 inch Old Gold.

§ 578.39 Army Reserve Components Overseas Training Ribbon.

(a) Criteria. The Army Reserve Components Overseas Training Ribbon (ARCOTR) was established by the Secretary of the Army on July 11, 1984. It is awarded to members of the Reserve Components of the Army, (Army National Guard and U.S. Army Reserve), for successful completion of annual training (AT) or active duty for training (ADT) for a period not less than 10 consecutive duty days on foreign soil. ARNG and USAR soldiers who accompany the Reserve Component (RC) unit (including unit cells) to which they are assigned or attached as full-time unit support (FTUS) during overseas training are also eligible for the award.

(b) Effective July 11, 1984, all members of the ARNG and USAR are eligible for this award if they were active Reserve status members of the Army National Guard, U.S. Army Reserve (not on active duty in the Active Army), or AGR FTUS soldiers at the time their unit underwent AT or ADT on foreign soil.

(c) AGR personnel, not assigned to a TPU, are also eligible for award of the ARCOTR provided they are ordered overseas specifically as advance party to, simultaneously with, or in support of mop-up operations of RC units training overseas. Ten consecutive days overseas must be met. Other AGR members overseas for any other reason are not eligible for the ARCOTR.

(d) The ARCOTR may be awarded retroactively to those personnel who successfully completed AT or ADT on foreign soil in a Reserve status prior to July 11, 1984 provided they have an active status as defined above on or after July 11, 1984.

(e) Soldiers must be credited with completion of at least 10 consecutive duty days outside the 50 States, the District of Columbia and U.S. possessions and territories in the performance of duties in conjunction with Active Army, joint services, or Allied Forces. The day of departure counts; the day of return does not.

(f) The ARCOTR is a training ribbon, which does not conflict with service medals or decorations.

(g) Numerals will be used to denote second and subsequent awards of the ARCOTR. (See § 578.61 Appurtenances to military decorations.)

(h) Description. The ribbon is 1⅜ inches in width; however, it is mounted on the ribbon bar horizontally so that the horizontal center stripe is 3/32 inch Old Glory Red with a 3/64 inch White stripe on each side. The remainder of the ribbon is Ultramarine Blue.

§ 578.40 Overseas Service Ribbon.

(a) Criteria. The Overseas Service Ribbon (OSR) was established by the Secretary of the Army on April 10, 1981. It is awarded to members of the U.S. Army for successful completion of overseas tours.

(b) Effective August 1, 1981, all members of the Active Army, Army National Guard and Army Reserve in an active Reserve status are eligible for this award. The ribbon may be awarded retroactively to those personnel who were credited with a normal overseas tour completion before August 1, 1981 provided they had an Active Army status as defined above on or after August 1, 1981.

(c) Soldiers must be credited with a normal overseas tour completion according to AR 614-30. Service members who had overseas service with another branch of service (U.S. Navy, Air Force, or Marine Corps) must be credited with a normal overseas tour completion by that service to qualify for award of the Army OSR.

(d) Numerals will be used to denote second and subsequent awards of the OSR.

(e) Posthumous award of the OSR. For first award of the OSR only, an individual may be posthumously awarded (on or after August 1, 1981) the OSR before completion of the overseas tour, provided the soldier's death is ruled “Line of duty-Yes.”

(f) Description. The Army Overseas Service ribbon is 1⅜ inches in with. It is composed of the following vertical stripes: 3/16 inch National Flag Blue 67124, 5/16 inch Grotto Blue 67165, 1/16 inch Golden Yellow 67104, ¼ inch Brick Red 67113, 1/16 inch Golden Yellow, 5/16 inch Grotto Blue, and 3/16 inch National Flag Blue.

§ 578.41 Army Service Ribbon.

(a) Criteria. The Army Service Ribbon (ASR) was established by the Secretary of the Army on April 10, 1981. It is awarded to members of the U.S. Army for successful completion of initial entry training.

(b) Effective August 1, 1981, all members of the Active Army, Army National Guard, and U.S. Army Reserve in an active Reserve status are eligible for this award. The ribbon may be awarded retroactively to those personnel who completed the required training before August 1, 1981 provided they had an Active Army status as defined above on or after August 1, 1981.

(c) Officers will be awarded this ribbon upon successful completion of their basic/orientation or higher level course. For those officer personnel assigned a specialty, special skill identifier, or MOS based on civilian or other service acquired skills, this ribbon will be awarded upon honorable completion of 4 months active service.

(d) Enlisted soldiers will be awarded this ribbon upon successful completion of their initial MOS producing course. For those enlisted soldiers assigned a MOS based on civilian or other service acquired skills, this ribbon will be awarded on honorable completion of 4 months active service.

(e) Only one award of the ASR is authorized, regardless of whether a soldier completes both officer and enlisted initial entry training.

(f) For first award only, an individual may be posthumously awarded (on or after August 1, 1981) the Army Service Ribbon prior to completion of the requisite training or time in service, provided the soldier's death is ruled “Line of duty-Yes.”

(g) Description. The ribbon is 1⅜ inches in width. It is composed of the following vertical stripes: 7/32 inch Scarlet 67111, 5/32 Orange 67110, 3/32 inch Golden Yellow 67104, ⅛ inch Emerald 67128, Ultramarine Blue 67118, ⅛ inch Emerald, 3/32 inch Golden Yellow, 5/32 inch Orange, and 7/32 inch Scarlet.

§ 578.42 Noncommissioned Officer Professional Development Ribbon.

(a) Criteria. The Noncommissioned Officer (NCO) Professional Development Ribbon (NPDR) was established by the Secretary of the Army on April 10, 1981. It is awarded to members of Active Army, ARNG, and USAR soldiers for successful completion of designated NCO professional development courses.

(b) Subsequent awards. The NPDR consist of the basic ribbon with numeral devices of 2, 3, or 4, which signify satisfactory completion of the respective levels of NCO professional development courses. Numerals used in conjunction with this service ribbon are the same type as those used for subsequent awards of the Air Medal.

(c) Policy. (1) A change approved in February 1989 completely revamped the wear policy of numerals on ribbons and award suspension elements. Also, simultaneously U.S. Army Training and Doctrine Command (TRADOC) announced that the First Sergeant Course is not a recognized element of the NCO Professional Development Training System. Because of the impact of these two far-reaching policy changes, no grandfathering is allowed for Active Army or RC soldiers concerning the wear of numerals on the NPDR. Only the numerals 2, 3, and 4 are authorized for wear on the ribbon.

(2) Once a service member has been awarded the NPDR upon graduation from Primary Leadership Development Course (PLDC) or Primary Leadership Development Course-RC, subsequent appropriate numerals will be awarded to identify completion of higher level NCO Education System (NCOES) or RC NCOES courses.

(3) Senior NCOs selected by the U.S. Army Sergeants Major Academy (USASMA) who complete equivalent resident courses conducted by the other Services will wear the NPDR with numeral 4.

(4) Soldiers who have been authorized by their local commanders to attend local NCO courses or training conducted by the other Services and who qualify for or are awarded another Service's training ribbon will not wear the other Service's ribbons on the Army uniform.

(5) Soldiers who have attended NCO development courses, other than Senior Level, conducted by another Service while in the Army will not be granted Army course equivalency recognition.

(6) Soldiers must successfully complete one or more of the courses listed in paragraph (d) of this section which are further described in AR 351-1. Graduates of NCO Academy courses conducted prior to 1976 for the Active Army, and 1980 for Reserve Components, will be given credit for the Primary Level only.

(7) Acceptable evidence of graduation is a diploma, certificate, or a letter signed by an appropriate service school official.

(8) Effective March 30, 1989, a service member will be awarded the NPDR with the numeral which identifies the highest level of NCOES or RC-NCOES successfully completed as follows—Bar Ribbon Device=Primary Level; 2=Basic Level; 3=Advanced Level; and 4=Senior Level.

(d) Requirements. Effective August 1, 1981, all Active Army, Army National Guard and Army Reserve soldiers in an active status are eligible for this award for satisfactory completion of the respective NCOES or RC-NCOES courses as follows:

(1) Primary level—Primary NCO Course, Combat Arms (PNCOC), Primary Leadership Course (PLC), Primary Technical Courses (Service School—PTC), and Primary Leadership Development Course (PLDC) for award of the basic ribbon.

(2) Basic level—Basic NCO Course, Combat Arms (BNCOC), Basic Technical Courses (Service School—BTC), and Basic NCO Course (CS/CSS-BNCOC) for award of numeral 2.

(3) Advanced level—Advanced NCO Courses (Service School—ANCOC) for award of numeral 3.

(4) Senior level—U.S. Army Sergeants Major Academy (USASMA) for award of numeral 4. (See paragraph (c)(3) of this section).

(e ) Special instructions. Special instructions for ARNG and USAR are as follows:

(1) Primary Level—Primary NCO Course, Combat Arms-Reserve Components (PNCOC-RC), and effective October 1, 1985 Primary Leadership Development Course-Reserve Components (PLDC-RC).

(2) Basic Level—Basic NCO Course-Reserve Components (CS/CSS BNCOC-RC) through September 30, 1985 (PNCOC-RC and BNCOC-RC combined for CA/CS/CSS). Effective October 1, 1987 Basic NCO Course/Reserve Components (CA, CS, CSS) as developed and implemented.

(f) Description. The ribbon is 1⅜ inches in width. It is composed of the following vertical stripes: 3/16 inch Green 67129, ⅛ inch Yellow 67108, 3/16 inch Green, 1/16 inch Yellow; ¼ inch Flag Blue 67124, 1/16 inch Yellow, 3/16 inch Green, ⅛ inch Yellow, and 3/16 inch Green.

§ 578.43 Armed Forces Reserve Medal.

(a) Criteria. The Armed Forces Reserve Medal (AFRM) was established by Executive Order 10163, as announced in DA Bulletin 15, 1950, and was amended by Executive Order 10439, announced in DA Bulletin 3, 1953 and Executive Order 13013, dated August 6, 1996.

(b) The reverse side of this medal is struck in two designs for award to personnel whose Reserve Component service has been primarily in the organized Reserve or primarily in the National Guard. The first design portrays the Minute Man from the Organized Reserve Crest; the other design portrays the National Guard insignia.

(c) The AFRM is awarded for honorable and satisfactory service as a member or former member of one or more of the Reserve Components of the Armed Forces of the United States, including the Coast Guard Reserve and the Marine Corps Reserve, for a period of 10 years under the following conditions:

(1) Such years of service must have been performed within a period of 12 consecutive years.

(2) Each year of active or inactive status honorable service prior to July 1, 1949 in any Reserve Component listed in AR 135-180, will be credited toward award. For service performed on or after July 1, 1949, a member must accumulate, during each anniversary year, a minimum of 50 retirement points as prescribed in AR 135-180.

(3) Service in a regular component of the Armed Forces, including the Coast Guard, is excluded except that service in a Reserve Component which is concurrent in whole or in part with service in a regular component will be included. (Example: regular component enlisted soldier with a Reserve commission.)

(4) Any period during which Reserve service is interrupted by one or more of the following will be excluded in computing, but will not be considered as a break in the period of 12 years:

(i) Service in a regular component of the Armed Forces.

(ii) During tenure of office by a State official chosen by the voters of the entire State, territory, or possession.

(iii) During tenure of office of member of the legislative body of the United States or of any State, territory, or possession.

(iv) While service as judge of a court of record of the United States, or of any State, territory, possession, or the District of Columbia.

(5) Members called to active duty. On or after August 1, 1990, the member was called to active duty and served under 10 U.S.C. 12301(a), 12302, 12304, 12406, or, in the case of the U.S. Coast Guard Reserve, 14 U.S.C. 712. The member volunteered and served on active duty in support of specific U.S. military operations or contingencies designated by the Secretary of Defense, as defined in of 10 U.S.C. 101(A) (13). AGR members who receive orders changing their current duty status (legal authority under which they perform duty), their duty location, or assignment to support a contingency operation are eligible for the award of the “M” Device.

(d) The Ten-year-device is authorized for wear on the AFRM to denote each succeeding 10-year period as follows:

(1) A bronze hourglass shall be awarded upon completion of the first 10-year period award.

(2) A silver hourglass shall be awarded upon completion of the second 10-year period award.

(3) A gold hourglass shall be awarded upon completion of the third 10-year period award.

(4) A gold hourglass, followed by a bronze hourglass shall be awarded upon completion of the fourth 10-year period award.

(e) “M” Device. The “M” Device is authorized for wear on the AFRM by members of the Reserve Components who are called or who volunteer and serve or active duty in support of specific U.S. military operations or contingencies designed by the Secretary of Defense, as defined in of 10 U.S.C. 101(A)(13).

(1) When a member qualifies for the “M” Device, the Bronze “M” shall be awarded, positioned on the ribbon and medal, and a number shall be included on the ribbon and medal. No more than one AFRM may be awarded to any one person. Multiple periods of service during one designated contingency (under provisions of § 578.41(c)) shall count as one “M” Device award.

(2) If no “M” Device is authorized, the appropriate hourglass shall be positioned in the center of the ribbon. If no hourglass is authorized, the “M” Device shall be positioned in the center of the ribbon, followed by Arabic numerals indicating the number of times the device has been awarded, starting with the second award, no number is worn for the first award.

(3) If both the hourglass and the “M” Device are awarded, the hourglass shall be positioned in first position on the ribbon (at the wearer's right), the “M” Device in the middle position, and the number of times the “M” Device has been awarded in the remaining position (at the wearer's left).

(f) Description. The medal is Bronze, 1¼ inches in diameter, with a flaming torch in front of a crossed powder horn and a bugle within a circle composed of thirteen stars and thirteen rays. On the reverse is a different design for each of the reserve components. The reverse of all medals have the inscription “ARMED FORCES RESERVE” around the rim. Organized Reserve: On a wreath, the Lexington Minuteman statue as it stands on the Common in Lexington, Massachusetts encircled by thirteen stars. National Guard: The National Guard insignia (two crossed fasces superimposed on an eagle displayed with wings reversed). Air Force Reserve: The crest from the Air Forces seal (on a wreath, an eagle displayed in front of a cloud form). Naval Reserve: The center device of the Department of the Navy seal (an eagle displayed on an anchor in front of a ship in full sail). Marine Corps Reserve: The Marine Corps insignia (eagle perched on a globe superimposed on an anchor). Coast Guard Reserve: The central design of the Coast Guard seal (crossed anchors superimposed by a shield within an annulet).

(1) The devices are Bronze hourglass to indicate 10 years service; silver hourglass to indicate 20 years service; gold hourglass to indicate 30 years service; letter “M” to indicate mobilization in support of U.S. Military operations or contingencies designated by the Secretary of Defense; and a numeral to indicate number of times mobilized.

(2) The ribbon is 1⅜ inches wide and consists of the following stripes: 1/16 inch Bluebird 67117; 1/32 inch Chamois 67142; 1/16 inch Bluebird; 1/32 inch Chamois; 1/16 inch Bluebird; ⅜ inch Chamois; center ⅛ inch Bluebird; ⅜ inch Chamois; 1/16 inch Bluebird; 1/32 inch Chamois; 1/16 inch Bluebird; 1/32 inch Chamois; and 1/16 inch Bluebird.

§ 578.44 Korean Service Medal.

(a) Criteria. The Korean Service Medal (KSM) was established by Executive Order 10179, dated November 8, 1950. It is awarded for service between June 27, 1950 and July 27, 1954, under any of the following conditions:

(1) Within the territorial limits of Korea or in waters immediately adjacent thereto.

(2) With a unit under the operational control of the Commander in Chief, Far East, other than one within the territorial limits of Korea, which has been designated by the Commander in Chief, Far East, as having directly supported the military efforts in Korea.

(3) Was furnished an individual certificate by the Commander in Chief, Far East, testifying to material contribution made in direct support of the military efforts in Korea.

(b) The service prescribed must have been performed under any of the following conditions:

(1) On permanent assignment.

(2) On temporary duty for 30 consecutive days or 60 nonconsecutive days.

(3) In active combat against the enemy under conditions other than those prescribed in paragraphs (a)(1) and (2) of this section, provided a combat decoration has been awarded or an individual certificate has been furnished by the commander of an independent force or of a division, ship, or air group, or comparable or higher unit, testifying to such combat credit.

(c) One bronze service star is authorized for each campaign under the following conditions:

(1) Assigned or attached to and present for duty with a unit during the period in which it participated in combat.

(2) Under orders in the combat zone and in addition meets any of the following requirements:

(i) Awarded a combat decoration.

(ii) Furnished a certificate by a commanding general of a corps, higher unit, or independent force that he actually participated in combat.

(iii) Served at a normal post of duty (as contrasted to occupying the status of an inspector, observer, or visitor).

(iv) Aboard a vessel other than in a passenger status and furnished a certificate by the home port commander of the vessel that he served in the combat zone.

(3) Was an evader or escapee in the combat zone or recovered from a prisoner-of-war status in the combat zone during the time limitations of the campaign. Prisoners of war will not be accorded credit for the time spent in confinement or while otherwise in restraint under enemy control. (§ 578.61 Appurtenances to military decorations)

(d) The arrowhead device is authorized for wear on the KSM to denote participation in a combat parachute jump, helicopter assault landing, combat glider landing, or amphibious assault landing, while assigned or attached as a member of an organized force carrying out an assigned tactical mission. Additional information on the arrowhead device is in § 578.61.

(e) Description. The medal is Bronze, 1¼ inches in diameter, a Korean gateway, encircled by the inscription “KOREAN SERVICE”. On the reverse is the Korean symbol taken from the center of the Korean National flag with the inscription “UNITED STATES OF AMERICA” and a spray of oak and laurel encircling the design. The ribbon is 1⅜ inches wide and consisting of the following stripes: 1/32 inch White 67101; 19/32 inch Bluebird 67117; center ⅛ inch White; 19/32 inch Bluebird; and 1/32 inch White.

§ 578.45 Medal of Humane Action.

(a) Criteria. The Medal of Humane Action was established by the act of Congress July 20, 1949 (63 Stat. 477). It is awarded to members of the Armed Forces of the United States and to other persons when recommended for meritorious participation, for service while participating in the Berlin airlift or in direct support thereof.

(b) Service must have been for at least 120 days during the period June 26, 1948 and September 30, 1949, inclusive, with the following prescribed boundaries of area of Berlin airlift operations:

(1) Northern boundary. 54th parallel north latitude;

(2) Eastern boundary. 14th meridian east longitude;

(3) Southern boundary. 48th parallel north latitude;

(4) Western boundary. 5th meridian west longitude.

(c) Posthumous award may be made to any person who lost his life while, or as a direct result of, participating in the Berlin airlift, without regard to the length of such service, if otherwise eligible.

(d ) See DA Pamphlet 672-1 for the list of Army units entitled to the Berlin Airlift Device.

(e) Description. The medal is Bronze and is 1¼ inches in diameter. The miniature medal is ⅝ inch in diameter. On the obverse, in the center, a C-54 airplane (as viewed from above) within a wreath of wheat connected at the bottom by a coat of arms. On the reverse, an eagle, shield and arrows from the seal of the DOD, beneath the words “FOR HUMANE ACTION” and above the inscription in four lines, “TO SUPPLY NECESSITIES OF LIFE TO THE PEOPLE OF BERLIN GERMANY”. The ribbon to the Medal for Humane Action is 1⅜ inches in width and consists of the following stripes: 9/32 inch black; 1/16 inch white; 9/32 inch teal blue; 3/64 inch white; 1/32 inch scarlet; 3/64 inch white; 9/32 inch teal blue; 1/16 inch white; and 9/32 inch black.

§ 578.46 Army of Occupation Medal.

(a) Criteria. The Army of Occupation Medal (AOM) was established by War Department General Orders (WDGO) 32, 1946. It is awarded for service for 30 consecutive days at a normal post of duty (as contrasted to inspector, visitor, courier, escort, passenger, temporary duty, or detached service) while assigned to any of the following:

(1) Army of Occupation of Germany (exclusive of Berlin) between May 9, 1945 and May 5, 1955. (Service between May 9 and November 8, 1945 will be counted only if the European-African-Middle Eastern Campaign Medal was awarded for service before May 9, 1945.)

(2) Service for the prescribed period with a unit which has been designated in DA general orders as having met the requirement for the Berlin airlift device.

(3) Service for which the individual was awarded the Berlin airlift device in orders issued by appropriate field authority.

(4) Army of Occupation of Austria between May 9, 1945 and July 27, 1955. (Service between May 9 and November 8, 1945 will be counted only if the European-African-Middle Eastern Campaign Medal was awarded for service before May 9, 1945.)

(5) Army of Occupation of Berlin between May 9, 1945 and October 2, 1990. (Service between May 9 and November 8, 1945 will be counted only if the European-African-Middle Eastern Campaign Medal was awarded for service before May 9, 1945.)

(6) Army of Occupation of Italy between May 9, 1945 and September 15, 1947 in the compartment of Venezia Giulia E. Zara or Province of Udine, or with a unit in Italy as designated in DAGO 4, 1947. (Service between May 9 and November 8, 1945 will be counted only if the European-African-Middle Eastern Campaign Medal was awarded for service before May 9, 1945.)

(7) Army of Occupation of Japan between September 3, 1945 and April 27, 1952 in the four main islands of Hokkaido, Honshu, Shikoku, and Kyushu, the surrounding smaller islands of the Japanese homeland, the Ryukyu Islands, and the Bonin-Volcano Islands. (Service between September 3, 1945 and March 2, 1946 will be counted only if the Asiatic-Pacific Campaign Medal was awarded for service before September 3, 1945. In addition, service which meets the requirements for the KSM as prescribed in § 578.44 will not be counted in determining eligibility for this medal.)

(8) Army of Occupation of Korea between September 3, 1945 and June 29, 1949, inclusive. (Service between September 3, 1945 and March 2, 1946 will be counted only if the Asiatic-Pacific Campaign Medal was awarded for service before September 3, 1945.)

(b) Clasps and the Berlin airlift device are authorized for wear on the Army of Occupation Medal. They are as follows:

(1) Army of Occupation Medal Clasp. Soldiers who served in the European Theater during the occupation of Europe will wear the clasp inscribed “Germany.” Soldiers who served in the Far East Theater during the occupation of the Far East will wear the Clasp inscribed “Japan.” Clasps bearing other inscriptions are not authorized. (The Army of Occupation Medal Clasp is described in § 578.61).

(2) Berlin Airlift Device. This device is awarded for service of 92 consecutive days with a unit credited with participation in the Berlin airlift, or by competent field authority on an individual basis. Qualifying service must have been entirely within the period from June 26, 1948 to September 30, 1949, inclusive. Orders announcing award of the Berlin Airlift device will specifically award the Army of Occupation Medal to persons not otherwise eligible therefor.

(c) Description. The medal is Bronze, 1¼ inches in width. On the obverse, the Remagen Bridge abutments below the words “ARMY OF OCCUPATION”. On the reverse, Fujiyama with a low hanging cloud over two Japanese junks above a wave scroll and the date “1945”. A Bronze clasp ⅛ inch wide and 1½ inches in length with the word “GERMANY” or “JAPAN” is worn on the suspension ribbon to indicate service in Europe or the Far East. NAVY: On the obverse is Neptune mounted on a composite creature of a charging horse and a sea serpent with a trident grasped in right hand above wave scrolls. Around the bottom of the medal are the words “OCCUPATION SERVICE”. The reverse is the same as the China Service Medal and is an eagle perched on the shank of a horizontal anchor with a branch of laurel entwined around the anchor. On the left is the word “FOR” and to the right is the word “SERVICE” and around the top is the inscription “UNITED STATES NAVY”. MARINE CORPS: The medal for the Marine Corps is the same as the Navy, except the inscription around the top of the reverse is “UNITED STATES MARINE CORPS”. The ribbon is the same for both medals and is 1⅜ inches wide and consists of the following stripes: 3/16 inch White 67101; ½ inch Black 67138; ½ inch Scarlet 67111; and 3/16 inch White.

§ 578.47 World War II Victory Medal.

(a) Criteria. The World War II Victory Medal was established by the act of Congress July 6, 1945 (59 Stat. 461). It is awarded for service between December 7, 1941 and December 31, 1946, both dates inclusive.

(b) Description. The medal is Bronze, 1⅜ inches in width. On the obverse is a figure of Liberation standing full length with head turned to dexter looking to the dawn of a new day, right foot resting on a war god's helmet with the hilt of a broken sword in the right hand and the broken blade in the left hand, the inscription “WORLD WAR II” placed immediately below the center. On the reverse are the inscriptions “FREEDOM FROM FEAR AND WANT” and “FREEDOM OF SPEECH AND RELIGION” separated by a palm branch, all within a circle composed of the words “UNITED STATES OF AMERICA 1941-1945”. The ribbon is 1⅜ inches wide and consists of the following stripes: ⅜ inch double rainbow in juxtaposition (blues, greens, yellows, reds (center), yellows, greens, and blues); 1/32 inch White 67101; center 9/16 inch Old Glory Red 67156; 1/32 inch White; and ⅜ inch double rainbow in juxtaposition. The rainbow on each side of the ribbon is a miniature of the pattern used in the WWI Victory Medal.

§ 578.48 European-African-Middle Eastern Campaign Medal.

(a) Criteria. The European-African-Middle Eastern Campaign Medal was established by Executive Order 9265, announced in WD Bulletin 56, 1942, as amended by Executive Order 9706, March 15, 1947. It is awarded for service within the European-African-Middle Eastern Theater between December 7, 1941 and November 8, 1945 under any of the conditions as prescribed in § 578.49 (Asiatic-Pacific Campaign Medal).

(b) The boundaries of European-African-Middle Eastern Theater are as follows:

(1) Eastern boundary. The eastern boundary is coincident with the western boundary of the Asiatic-Pacific Theater (§ 578.49).

(2) Western boundary. The western boundary is coincident with the eastern boundary of the American Theater (§ 578.50 American Campaign Medal).

(c) One bronze service star is authorized for each campaign under the following conditions: (1) Assigned or attached to, and present for duty with, a unit during the period in which it participated in combat.

(2) Under orders in the combat zone and in addition meets any of the following requirements:

(i) Awarded a combat decoration.

(ii) Furnished a certificate by a commanding general of a corps or higher unit or independent force that he actually participated in combat.

(iii) Served at a normal post of duty (as contrasted to occupying the status of an inspector, observer, or visitor).

(iv) Aboard a vessel other than in a passenger status and furnished a certificate by the home port commander of the vessel that he served in the combat zone.

(3) Was an evadee or escapee in the combat zone or recovered from a prisoner-of-war status in the combat zone during the time limitations of the campaign. Prisoners of war will not be accorded credit for the time spent in confinement or while otherwise in restraint under enemy control.

(d) The arrowhead is authorized for wear on this medal to denote participation in a combat parachute jump, helicopter assault landing, combat glider landing, or amphibious assault landing, while assigned or attached as a member of an organized force carrying out an assigned tactical mission. (The arrowhead is described in § 578.61)

(e) Description. The Bronze medal is 1¼ inches in width. On the obverse is a LST landing craft and troops landing under fire with an airplane in the background below the words “EUROPEAN AFRICAN MIDDLE EASTERN CAMPAIGN”. On the reverse, an American bald eagle close between the dates “1941-1945” and the words “UNITED STATES OF AMERICA”. The ribbon is 1⅜ inches wide and consists of the following stripes: 3/16 inch Brown 67136; 1/16 inch Irish Green 67189; 1/16 inch White 67101; 1/16 inch Scarlet 67111; ¼ inch Irish Green; center ⅛ inch triparted Old Glory Blue 67178, White and Scarlet; ¼ inch Irish Green; 1/16 inch White; 1/16 inch Black 67138; 1/16 inch White; and 3/16 inch Brown.

§ 578.49 Asiatic-Pacific Campaign Medal.

(a) Criteria. The Asiatic-Pacific Campaign Medal was established by Executive Order 9265 (WD Bulletin 56, November 6, 1942), as amended by Executive Order 9706, March 15, 1947. It is awarded for service with the Asiatic-Pacific Theater between December 7, 1941 and March 2, 1946 under any of the following conditions:

(1) On permanent assignment in the Asiatic-Pacific Theater.

(2) In a passenger status or on temporary duty for 30 consecutive days or 60 nonconsecutive days.

(3) In active combat against the enemy and was awarded a combat decoration or furnished a certificate by the commanding general of a corps or higher unit or independent force showing that he actually participated in combat.

(b) Boundaries of Asiatic-Pacific Theater—(1) Eastern boundary. Coincident with the western boundary of the American Theater (§ 578.50 American Campaign Medal).

(2) Western boundary. From the North Pole south along the 60th meridian east longitude to its intersection with the east boundary of Iran, thence south along the Iran boundary to the Gulf of Oman and the intersection of the 60th meridian east longitude, thence south along the 60th meridian east longitude to the South Pole.

(c) One bronze service star is authorized for each campaign under the conditions outlined in § 578.48 European-African-Middle Eastern Campaign Medal. (Service stars are described in § 578.61).

(d) The arrowhead is authorized for wear on this medal to denote participation in a combat parachute jump, helicopter assault landing, combat glider landing, or amphibious assault landing, while assigned or attached as a member of an organized force carrying out an assigned tactical mission. (The arrowhead is described in § 578.61).

(e) Description. The Bronze medal is 1¼ inches in width. On the obverse is a tropical landing scene with a battleship, aircraft carrier, submarine and an aircraft in the background with landing troops and palm trees in the foreground with the words “ASIATIC PACIFIC CAMPAIGN” above the scene. On the reverse, an American bald eagle close between the dates “1941-1945” and the words “UNITED STATES OF AMERICA”. The ribbon is 1⅜ inches wide and consists of the following stripes: 3/16 inch Yellow 67108; 1/16 inch White 67101; 1/16 inch Scarlet 67111; 1/16 inch White; ¼ inch Yellow; center ⅛ triparted Old Glory Blue 67178, White and Scarlet; ¼ inch Yellow; 1/16 inch White; 1/16 inch Scarlet; 1/16 inch White; and 3/16 inch Yellow.

§ 578.50 American Campaign Medal.

(a) Criteria. The American Campaign Medal was established by Executive Order 9265 (WD Bulletin 56, 1942), as amended by Executive Order 9706, March 15, 1947. It is awarded for service within the American Theater between December 7, 1941 and March 2, 1946 under any of the following conditions:

(1) On permanent assignment outside the continental limits of the United States.

(2) Permanently assigned as a member of a crew of a vessel sailing ocean waters for a period of 30 consecutive days or 60 nonconsecutive days.

(3) Outside the continental limits of the United States in a passenger status or on temporary duty for 30 consecutive days or 60 nonconsecutive days.

(4) In active combat against the enemy and was awarded a combat decoration or furnished a certificate by the commanding general of a corps, higher unit, or independent force that the soldier actually participated in combat.

(5) Within the continental limits of the United States for an aggregate period of 1 year.

(b) The boundaries of American Theater are as follows:

(1) Eastern boundary. The eastern boundary is located from the North Pole, south along the 75th meridian west longitude to the 77th parallel north latitude, thence southeast through Davis Strait to the intersection of the 40th parallel north latitude and the 35th meridian west longitude, thence south along the meridian to the 10th parallel north latitude, thence southeast to the intersection of the Equator and the 20th meridian west longitude, thence south along the 20th meridian west longitude to the South Pole.

(2) Western boundary. The western boundary is located from the North Pole, south along the 141st meridian west longitude to the east boundary of Alaska, thence south and southeast along the Alaska boundary to the Pacific Ocean, thence south along the 130th meridian to its intersection with the 30th parallel north latitude, thence southeast to the intersection of the Equator and the 100th meridian west longitude, thence south to the South Pole.

(c) One bronze service star is authorized for wear on the American Campaign Medal to denote participation in the antisubmarine campaign. The individual must have been assigned or attached to, and present for duty with, a unit credited with the campaign. Information on the antisubmarine campaign.

(d) Description. The Bronze medal is 1¼ inches in width. On the obverse is a Navy cruiser under full steam with a B-24 airplane flying overhead with a sinking enemy submarine in the foreground on three wave symbols, in the background a few buildings representing the arsenal of democracy, above the scene the words “AMERICAN CAMPAIGN”. On the reverse an American bald eagle close between the dates “1941-1945” and the words “UNITED STATES OF AMERICA”. The ribbon is 1⅜ inches wide and consists of the following stripes: 3/16 inch Oriental Blue 67172; 1/16 inch White 67101; 1/16 inch Black 67138; 1/16 inch Scarlet 67111; 1/16 inch White; 3/16 inch Oriental Blue; center ⅛ triparted Old Glory Blue 67178, White and Scarlet; 3/16 inch Oriental Blue; 1/16 inch White; 1/16 inch Scarlet; 1/16 inch Black; 1/16 inch White; and 3/16 inch Oriental Blue.

§ 578.51 Women's Army Corps Service Medal.

(a) Criteria. The Women's Army Corps Service Medal was established by Executive Order 9365, announced in WD Bulletin 17, 1943. It is awarded for service in both the Women's Army Auxiliary Corps between July 10, 1942 and August 31, 1943 and the Women's Army Corps between September 1, 1943 and September 2, 1945.

(b) Description. A Bronze medal, 1¼ inches in diameter, with the head of Pallas Athene in profile facing right, superimposed on a sheathed sword cross with oak leaves and a palm branch within a circle composed of the words “WOMEN'S” in the upper half, and in the lower half “ARMY CORPS”. On the reverse, within an arrangement of 13 stars, is a scroll bearing the words “FOR SERVICE IN THE WOMEN'S ARMY AUXILIARY CORPS” in front of the letters “U S” in lower relief. At the top and perched on the scroll is an eagle with wings elevated and displayed and at the bottom, the date “1942-1943”. The ribbon is 1⅜ inches wide and consists of the following stripes: ⅛ inch Old Gold 67105; 1⅛ inch Mosstone Green 67127; and ⅛ inch Old Gold.

§ 578.52 American Defense Service Medal.

(a) The American Defense Service Medal (ADSM) was established by Executive Order 8808, announced in WD Bulletin 17, 1941. It is awarded for service between September 8, 1939 and December 7, 1941 under orders to active duty for a period of 12 months or longer.

(b) A clasp, with the inscription “Foreign Service”, is worn on the ADSM to denote service outside the continental limits of the United States, including service in Alaska, as a member of a crew of a vessel sailing ocean waters, flights over ocean waters, or as an assigned member of a organization stationed outside the continental limits of the United States. Possession of a clasp is denoted by the wearing of a bronze service star on the service ribbon. (See § 578.61 for descriptions of the clasp and service stars.)

(c) Description. The Bronze medal is 1¼ inches in width. On the obverse is a female Grecian figure symbolic of defense, holding in her sinister hand an ancient war shield in reverse and her dexter hand brandishing a sword above her head, and standing upon a conventionalized oak branch with four leaves. Around the top is the lettering “AMERICAN DEFENSE”. On the reverse is the wording “FOR SERVICE DURING THE LIMITED EMERGENCY PROCLAIMED BY THE PRESIDENT ON SEPTEMBER 8, 1939 OR DURING THE UNLIMITED EMERGENCY PROCLAIMED BY THE PRESIDENT ON MAY 27, 1941” above a seven-leafed spray of laurel. The foreign service clasp is a Bronze bar ⅛ inch in width and 1½ inches in length with the words “FOREIGN SERVICE”, with a star at each end of the inscription. The foreign service clasp is placed on the suspension ribbon of the medal. The ribbon is 1⅜ inches wide and consists of the following stripes: 3/16 inch Golden Yellow 67104; ⅛ inch triparted Old Glory Blue 67178; White 67101; and Scarlet 67111; center ¾ inch Golden Yellow; ⅛ inch triparted Scarlet; White; and Old Glory Blue 67178; and 3/16 inch Golden Yellow.

§ 578.53 Army of Occupation of Germany Medal.

(a) Criteria. The Army of Occupation of Germany Medal was established by the act of November 21, 1941, (55 Stat. 781). It is awarded for service in Germany or Austria-Hungary between November 12, 1918 and July 11, 1923.

(b) Description. The medal is Bronze and 1¼ inches in diameter. On the obverse is a profile of General John J. Pershing, encircled by four stars indicating his insignia of grade as Commanding General of the Field Forces. In the lower left is the inscription “GENERAL JOHN J. PERSHING” and on the right is a laurel wreath superimposed by a sword with the dates “1918” and “1923” enclosed by the wreath. The reverse shows the American eagle perched with outspread wings standing on the Castle Ehrenbreitstein, encircled by the words “U.S. ARMY OF OCCUPATION OF GERMANY” and three stars at the bottom of the medal. The ribbon is 1⅜ inches in width consisting of the following stripes: 1/16 inch Ultramarine Blue 67118; 1/16 inch Scarlet 67111; 3/16 inch White 67101; ¾ inch Black 67138 (center); 3/16 inch White; 1/16 inch Scarlet; 1/16 inch Ultramarine Blue.

§ 578.54 World War I Victory Medal.

(a) The World War I Victory Medal was established by WDGO 48, 1919. The medal is awarded for service between April 6, 1917 and November 11, 1918 or with either of the following expeditions:

(1) American Expeditionary Forces in European Russia between November 12, 1918 and August 5, 1919.

(2) American Expeditionary Forces Siberia between November 23, 1918 and April 1, 1920.

(b) Battle clasps, service clasps, and service stars are authorized appurtenances to be worn on the World War I Victory Medal. (See § 578.61 for specific details.)

(c) Description. The medal is Bronze and 1⅜ inches in diameter. On the obverse is a winged Victory, standing full length and full face. On the reverse is the inscription “THE GREAT WAR FOR CIVILIZATION” and the United States shield with the letters “U.S.” surmounted by a fasces, and on either side the names of the allied and associated nations. The lapel button is a five-pointed star ⅝-inch in diameter on a wreath with the letters “U.S.” in the center. The medal is suspended by a ring from a silk ribbon 1⅜ inches in width, representing two rainbows placed in juxtaposition and having the red in the middle.

§ 578.55 Service medals and ribbons no longer available for issue.

The medals listed below are no longer issued by HQDA. They may be purchased if desired from civilian dealers in military insignia and some Army exchanges.

(a) Civil War Campaign Medal. This medal was established by WDGO 12, 1907. It is awarded for service between April 15, 1861 and April 9, 1865, or in Texas between April 15, 1861 and August 20, 1866.

(b) Indian Campaign Medal. This medal was established by WDGO 12, 1907. It is awarded for service in a campaign against any tribes or in any areas listed below, during the indicated period.

(c) Spanish Campaign Medal. This medal was established by WDGO 5, 1905. It is awarded for service ashore in, or on the high seas en route to, any of the following countries:

(1) Cuba between May 11 and July 17, 1898.

(2) Puerto Rico between July 24 and August 13, 1898.

(3) Philippine Islands between June 30 and August 16, 1898.

(d) Spanish War Service Medal. This medal was established by the act of July 9, 1918 (40 Stat. 873). It is awarded for service between April 20, 1898 and April 11, 1899, to persons not eligible for the Spanish Campaign Medal.

(e) Army of Cuban Occupation Medal. This medal was established by WDGO 40, 1915. It is awarded for service in Cuba between July 18, 1898 and May 20, 1902.

(f) Army of Puerto Rican Occupation Medal. This medal was established by War Department Compilation of Orders, changes 15, February 4, 1919. It is awarded for service in Puerto Rico between August 14 and December 10, 1898.

(g) Philippine Campaign Medal. This medal was established by WDGO 5, 1905. It is awarded for service in the Philippine Islands under any of the following conditions:

(1) Ashore between February 4, 1899 and July 4, 1902.

(2) Ashore in the Department of Mindanao between February 4, 1899 and December 31, 1904.

(3) Against the Pulajanes on Leyte between July 20, 1906 and June 30, 1907, or on Samar between August 2, 1904 and June 30, 1907.

(4) With any of the following expeditions: (i) Against Pala on Jolo between April and May 1905.

(ii) Against Datu Ali on Mindanao in October 1905.

(iii) Against hostile Moros on Mount Bud-Dajo, Jolo, March 1906.

(iv) Against hostile Moros on Mount Bagsac, Jolo, between January and July, 1913.

(v) Against hostile Moros on Mindanao or Jolo between 1910 and 1913.

(5) In any action against hostile natives in which U.S. troops were killed or wounded between February 4, 1899 and December 31, 1913.

(h) Philippine Congressional Medal. This medal was established by the act of June 29, 1906 (34 Stat. 621). It is awarded for service meeting all the following conditions:

(1) Under a call of the President entered the Army between April 21 and October 26, 1898.

(2) Served beyond the date on which entitled to discharge.

(3) Ashore in the Philippine Islands between February 4, 1899 and July 4, 1902.

(i) China Campaign Medal. This medal was established by WDGO 5, 1905. It is awarded for service ashore in China with the Peking Relief Expedition between June 20, 1900 and May 27, 1901.

(j) Army of Cuban Pacification Medal. This medal was established by WDGO 96, 1909. It is awarded for service in Cuba between October 6, 1906 and April 1, 1909.

(k) Mexican Service Medal. This medal was established by WDGO 155, 1917. It is awarded for service in any of the following expeditions or engagements:

(1) Vera Cruz Expedition in Mexico between April 24 and November 26, 1914.

(2) Punitive Expedition in Mexico between March 14, 1916 and February 7, 1917.

(3) Buena Vista, Mexico, December 1, 1917.

(4) San Bernardino Canon, Mexico, December 26, 1917.

(5) Le Grulla, Texas, January 8 and 9, 1918.

(6) Pilares, Mexico, March 28, 1918.

(7) Nogales, Arizona, November 1 to 5, 1915 or August 27, 1918.

(8) El Paso, Texas, and Juarez, Mexico, June 15 and 16, 1919.

(9) Any action against hostile Mexicans in which U.S. troops were killed or wounded between April 12, 1911 and February 7, 1917.

(l) Mexican Border Service Medal. This medal was established by the act of July 9, 1918 (40 Stat. 873). It was awarded for service between May 9, 1916 and March 24, 1917, or with the Mexican Border Patrol between January 1, 1916 and April 6, 1917, to persons not eligible for the Mexican Service Medal.

§ 578.56 United States Unit Awards.

(a) Intent. Awards are made to organizations when the heroism displayed or meritorious service performed is a result of group effort.

(b) Announcement. All unit awards approved at HQDA will be announced in HQ, DAGO.

(c) Presentation. Unit awards will be presented at an appropriate formal ceremony at the earliest practicable date after the award is announced. FM 22-5 prescribes the ceremony for presentation of unit awards at a formal review.

§ 578.57 Presidential Unit Citation.

(a) Criteria. The Presidential Unit Citation (PUC) (re-designated from the Distinguished Unit Citation on November 3, 1966) is awarded to unit of the Armed Forces of the United States and cobelligerent nations for extraordinary heroism in action against an armed enemy occurring on or after December 7,1941. The unit must display such gallantry, determination, and esprit de corps in accomplishing its mission under extremely difficult and hazardous conditions as to set it apart from and above other units participating in the same campaign. The degree of heroism required is the same as that which would warrant award of a Distinguished Service Cross to an individual. Extended periods of combat duty or participation in a large number of operational missions, either ground or air is not sufficient. This award will normally be earned by units that have participated in single or successive actions covering relatively brief time spans. It is not reasonable to presume that entire units can sustain Distinguished Service Cross performance for extended periods except under the most unusual circumstances. Recommendations for units larger than brigade will not be submitted.

(b) Awarding authorities. Approval authority for award of the PUC is the President of the United States who delegated authority to the Service Secretaries.

(c) Award elements. The award elements for the PUC (Army) are as follows:

(1) PUC Streamer (Army);

(2) PUC Emblem (Army);

(3) PUC Certificate and Citation;

(4) DAGO.

(d) Description. The PUC Emblem is 1 7/16 inches wide and 9/16 inch in height. The emblem consists of a 1/16 inch wide gold frame with laurel leaves, which encloses an ultramarine blue 67118 ribbon.

§ 578.58 Valorous Unit Award.

(a) Criteria. The Valorous Unit Award (VUA) may be awarded to units of the Armed Forces of the United States for extraordinary heroism in action against an armed enemy of the United States while engaged in military operations involving conflict with an opposing foreign force or while serving with friendly foreign forces engaged in an armed conflict against an opposing armed force in which the United States is not a belligerent party for actions occurring on or after August 3, 1963.

(b) Requirements. The VUA requires a lesser degree of gallantry, determination, and esprit de corps than that required for the Presidential Unit Citation. Nevertheless, the unit must have performed with marked distinction under difficult and hazardous conditions in accomplishing its mission so as to set it apart from and above other units participating in the same conflict. The degree of heroism required is the same as that which would warrant award of the Silver Star to an individual. Extended periods of combat duty or participation in a large number of operational missions, either ground or air is not sufficient.

(c) Unit eligibility. This award will normally be earned by units that have participated in single or successive actions covering relatively brief time spans. It is not reasonable to presume that entire units can sustain Silver Star performance for extended periods except under the most unusual circumstances. Recommendations for units larger than brigade will not be submitted.

(d) Awarding authorities. The Deputy Chief of Staff (DCS), G-1 is approval authority for the VUA. Recommendations for award of the VUA will be forwarded to Commander, USA HRC, ATTN: AHRC-PDO-PA, Alexandria, VA 22332-0471, for processing to the DCS, G-1 for final action.

(e) Award elements. The award elements for the VUA are as follows:

(1) VUA Streamer;

(2) VUA Emblem;

(3) VUA Certificate and Citation;

(4) DAGO.

(f) Description. The VUA emblem is 1 7/16 inches wide and 9/16 inch in height. The emblem consists of a 1/16 inch wide gold frame with laurel leaves which encloses a ribbon of the pattern of the Silver Star Medal ribbon centered on a red ribbon. The stripe dimensions of the ribbon are: ⅜ inch old glory red 67156; 1/16 inch ultramarine blue 67118; 1/164 inch white 67101; 3/32 inch ultramarine blue 67118; 3/32 inch white 67101; center 3/32 inch old glory red 67156; 3/32 inch white 67101; 3/32 inch ultramarine blue 67118; 1/64 inch white 67101; 1/16 inch ultramarine blue; and ⅜ inch old glory red 67156. The streamers are the same pattern as the silver star medal ribbon.

§ 578.59 Meritorious Unit Commendation.

(a) Criteria. (1) The Meritorious Unit Commendation (MUC) (Army) (previously called the Meritorious Service Unit Plaque) is awarded to units for exceptionally meritorious conduct in the performance of outstanding services for at least 6 continuous months during the period of military operations against an armed enemy occurring on or after January 1, 1944. Service in a combat zone is not required, but must be directly related to the combat effort. Units based in the continental United States are excluded from this award, as are other units outside the area of operation. The unit must display such outstanding devotion and superior performance of exceptionally difficult tasks as to set it apart and above other units with similar missions. The degree of achievement required is the same as that which would warrant award of the Legion of Merit to an individual. Recommendations for units larger than brigade will not be submitted. For services performed during World War II, awards will be made only to service units and only for services performed between January 1, 1944 and September 15, 1946.

(2) Effective March 1, 1961, the MUC was authorized for units and/or detachments of the Armed Forces of the United States for exceptionally meritorious conduct in performance of outstanding services for at least 6 continuous months in support of military operations. Service(s), as used in this paragraph, is interpreted to relate to combat service support type activities and not to the type of activities performed by senior headquarters, combat, or combat support units.

(b) Awarding authorities. Approval authority for the MUC is the Deputy Chief of Staff (DCS), G-1. Recommendations for award of the MUC will be forwarded to Commander, USA HRC, ATTN: AHRC-PDO-PA, Alexandria, VA 22332-0471, for processing to the DCS, G-1 for final action.

(c) Award elements. The award elements for the MUC are as follows:

(1) MUC Streamer;

(2) MUC Emblem;

(3) MUC Certificate and Citation; and

(4) DAGO.

(d) Description. The MUC emblem is 1 7/16 inches wide and 9/16 inch in height. The emblem consists of a 1/16 inch ide gold frame with laurel leaves which encloses a scarlet 67111 ribbon. The previously authorized emblem was a gold color embroidered laurel wreath, 1⅝ inches in diameter on a 2 inch square of olive drab cloth.

§ 578.60 Army Superior Unit Award.

(a) Criteria. The Army Superior Unit Award (ASUA) was created in 1985 to recognize outstanding meritorious performance of a unit during peacetime of a difficult and challenging mission under extraordinary circumstances. Circumstances may be deemed to be extraordinary when they do not represent the typical day-to-day circumstances under which the unit normally performs, or may reasonably be expected to perform, its peacetime mission. The following additional criteria also applies:

(1) The unit must display such outstanding devotion and superior performance of exceptionally difficult tasks as to set the unit apart from and above other units with similar missions. For the purpose of this award, peacetime is defined as any period during which wartime or combat awards are not authorized in the geographical area in which the mission was executed. The ASUA may be awarded to units that distinguish themselves while conducting humanitarian missions for a minimum of 30 days, however, the ASUA will not be awarded if the same act or period of service has already been recognized by another unit award.

(2) The award applies to both TO&E units and TDA organizations of battalion size or equivalent. TDA organizations may be considered for this award, even if comprised mostly of civilians. As an exception to policy, organizations larger than battalion equivalent size may also be submitted, but the submitting headquarters must take care to highlight the logic associated with the request to justify an exception to policy.

(b) Approval authority. The approval authority for the ASUA is the Deputy Chief of Staff (DCS), G-1. Recommendations for award of the ASUA will be forwarded to Commander, USA HRC, ATTN: AHRC-PDO-PA, Alexandria, VA 22332-0471, for processing to the DCS, G-1 for final action.

(c) Award elements. The award elements for the ASUA are as follows: ASUA Streamer; ASUA Emblem; ASUA Certificate and Citation; DAGO; Army Superior Unit Award Lapel Pin. The lapel pin is authorized for issue and wear by Department of the Army civilians in the employ of the decorated unit. Those individuals employed with the unit during the cited period may wear the lapel pin permanently. Those currently employed with a decorated unit, but who were not employed during the cited period may wear the lapel pin on a temporary basis as long as they remain employed by the unit. The lapel pin is also authorized for optional purchase and wear on civilian clothing by qualified military personnel. Permanent and temporary wear is governed by the provisions of AR 670-1.

(d) Description. The ASUA emblem is 1 7/16 inches wide and 9/16 inch in height. The emblem consists of a 1/16 inch wide gold frame with laurel leaves which encloses a ribbon of the following pattern: 17/32 inch scarlet 67111; 1/32 inch yellow 67103; ¼ inch green 67129; 1/32 inch yellow 67103; and 17/32 inch scarlet 67111. The streamers are the same pattern as the emblem ribbon.

§ 578.61 Appurtenances to military decorations.

Appurtenances are devices affixed to service or suspension ribbons or worn instead of medals or ribbons. They are worn to denote additional awards, participation in a specific event, or other distinguished characteristics of the award. The following is a list of authorized appurtenances:

(a) Oak Leaf Clusters. A bronze or silver twig of four oak leaves with three acorns on the stem, 13/32-inch long for the suspension ribbon, and 5/16-inch long for the service ribbon bar and the unit award emblem is issued to denote award of second and succeeding awards of decorations (other than the Air Medal), the Army Reserve Components Achievement Medal, and unit awards. A silver Oak Leaf Cluster is worn instead of five bronze Oak Leaf Clusters. If the number of authorized Oak Leaf Clusters exceeds four and will not fit on a single ribbon, a second ribbon is authorized for wear. When wearing the second ribbon, place it after the first ribbon; the second ribbon counts as one award. Wear no more than four Oak Leaf Clusters on each ribbon. If the receipt of future awards reduces the number of Oak Leaf Clusters sufficiently (that is, a silver oak leaf cluster for five awards), remove the second ribbon and place the appropriate number of devices on a single ribbon. Oak Leaf Clusters are not issued for the Legion of Merit awarded in degrees to foreign nationals. Five-sixteenths inch Oak Leaf Clusters joined together in series of 2, 3, and 4 clusters are authorized for optional purchase and wear on service ribbons, and unit award emblems.

(b) Numerals. Arabic numerals 3/16 inch in height are issued instead of a medal or ribbon for second and succeeding awards of the Air Medal, Multinational Force and Observers Medal, Overseas Service Ribbon and the Army Reserve Components Overseas Training Ribbon. The ribbon denotes the first award and numerals starting with the numeral 2 denote the number of additional awards. The numeral worn on the NCO Professional Development Ribbon will denote the highest completed level of NCO development. The numerals are to be centered on the suspension ribbon of the medal or the ribbon bar.

(c) “V” device. The “V” (Valor) device is a bronze block letter, V, ¼-inch high with serifs at the top of the members. It is worn to denote participation in acts of heroism involving conflict with an armed enemy. It was originally worn only on the suspension and service ribbons of the Bronze Star Medal to denote an award made for heroism (valor). Effective February 29, 1964, the “V” device was also authorized for wear on the Air Medal and Army Commendation Medal for heroic acts or valorous deeds not warranting awards of the Distinguished Flying Cross or the Bronze Star Medal with “V” device. Effective June 25, 1963, the “V” device was authorized additionally for wear on the Joint Service Commendation Medal when the award is for acts of valor (heroism) during participation in combat operations. In the case of multiple “V” devices for the same award, only one “V” device is worn on the service ribbons.

(d) “M” device. The “M” (Mobilization) Device is a bronze letter, M, ¼-inch high with serifs at the bottom of the members. It is authorized for wear on the Armed Forces Reserve Medal by members of the Reserve Components who are called or who volunteer and serve on active duty in support of specific U.S. Military operations or contingencies designated by the Secretary of Defense, as defined in 10 U.S.C. 101(a) (13). AGR members who receive orders changing their current duty status (legal authority under which they perform duty), their duty location, or assignment to support a contingency operation are also eligible for award of the “M” Device.

(e) Clasps. They are authorized for wear on the Army Good Conduct Medal, World War I Victory Medal, American Defense Service Medal, Army of Occupation Medal, and Antarctica Service Medal. All clasps, except the Army Good Conduct Medal clasp, are worn only on the suspension ribbon of the medal. The clasps are described as follows:

(1) The Army Good Conduct Medal clasp is a bar ⅛-inch by 1⅜ inches, of bronze, silver or gold, with loops indicative of each period of service. Paragraph 4-9 describes the clasps authorized for second and subsequent awards of the Army Good Conduct Medal.

(2) The World War I Victory Medal battle clasps is a bronze bar ⅛-inch by 1½ inches with the name of the campaign or the words “Defensive Sector,” and with a star at each end of the inscription. The campaigns are as follows:

(i) Cambrai;

(ii) Somme, Defensive;

(iii) Lys;

(iv) Aisne;

(v) Montdidier-Noyon;

(vi) Champagne-Marne;

(vii) Aisne-Marne;

(viii) Somme, Offensive;

(ix) Oise-Aisne;

(x) Ypres-Lys;

(xi) St. Mihiel;

(xii) Meuse-Argonne;

(xiii) Vittorio-Veneto;

(xiv) Defensive Sector.

(3) The World War I Victory Medal service clasp is a bronze bar ⅛-inch by 1½ inches with the name of the country which the service was performed inscribed thereon. The service clasps authorized are as follows:

(i) England;

(ii) France;

(iii) Italy;

(iv) Russia;

(v) Siberia.

(4) The American Defense Service Medal clasp is a bronze bar ⅛-inch by 1½ inches with the words “Foreign Service” and with a star at each end of the inscription.

(5) The Army of Occupation Medal clasp is a bronze bar ⅛-inch by 1½ inches with the word “Germany” or “Japan” inscribed thereon, to denote occupation duty rendered in Europe and/or the Far East.

(6) The Antarctica Service Medal is a clasp bearing the words “Wintered Over” for wear on the suspension ribbon of the medal awarded in bronze for the first winter, in gold for the second winter, and in silver for the third winter.

(f) Service stars. Are worn on campaign and service ribbons to denote an additional award. The service star is a bronze or silver five-pointed star 3/16-inch in diameter. A silver star is worn instead of five bronze service stars. The bronze service star is also affixed to the parachutist badge to denote participation in a combat parachutist jump, retroactive to December 7, 1941. See § 578.74 on Parachutist badges for criteria for award of the combat parachutist badge. See AR 670-1 for proper wear of the service stars. Service stars are authorized for wear on the following campaign and service medals and or ribbons:

(1) World War I Victory Medal;

(2) American Defense Service Medal;

(3) American Campaign Medal;

(4) Asiatic-Pacific Campaign Medal;

(5) European-African-Middle Eastern Campaign Medal;

(6) Korean Service Medal;

(7) Armed Forces Expeditionary Medal;

(8) Vietnam Service Medal;

(9) National Defense Service Medal;

(10) Humanitarian Service Medal;

(11) Prisoner of War Medal;

(12) Southwest Asia Service Medal;

(13) Military Outstanding Volunteer Service Medal.

(g) Arrowhead. The arrowhead is a bronze replica of an Indian arrowhead ¼-inch high. It denotes participation in a combat parachute jump, helicopter assault landing, combat glider landing, or amphibious assault landing, while assigned or attached as a member of an organized force carrying out an assigned tactical mission. A soldier must actually exit the aircraft or watercraft, as appropriate, to receive assault credit. Individual assault credit is tied directly to the combat assault credit decision for the unit to which the soldier is attached or assigned at the time of the assault. Should a unit be denied assault credit, no assault credit will accrue to the individual soldiers of that unit. It is worn on the service and suspension ribbons of the Asiatic-Pacific Campaign, European-African-Middle Eastern Campaign, Korean Service Medal, Vietnam Service Medal, Armed Forces Expeditionary Medal, and Global War on Terrorism Expeditionary. Only one arrowhead will be worn on any ribbon.

(h) Ten-Year Device. The Ten-year device is authorized for wear on the Armed Forces Reserve Medal to denote each succeeding 10-year period as follows: (1) A bronze hourglass shall be awarded upon completion of the first 10-year period award.

(2) A silver hourglass shall be awarded upon completion of the second 10-year period award.

(3) A gold hourglass shall be awarded upon completion of the third 10-year period award.

(4) A gold hourglass, followed by a bronze hourglass shall be awarded upon completion of the fourth 10-year period award.

(i) Berlin Airlift Device. A gold colored metal miniature of a C-54 type aircraft of ⅜-inch wingspan, other dimensions proportionate. It is worn on the service and suspension ribbons of the Army of Occupation Medal. (See § 578.46 Army of Occupation Medal)

(j) Army Astronaut Device. A gold colored device, 7/16-inches in length, consisting of a star emitting three contrails encircled by an elliptical orbit. It is awarded by the Chief of Staff, Army, to personnel who complete a minimum of one operational mission in space (50 miles above earth) and is affixed to the appropriate Army Aviator Badge, Flight Surgeon Badge, or Aviation Badge awarded to the astronaut. Individuals who have not been awarded one of the badges listed above but who meet the other astronaut criteria will be awarded the basic Aviation Badge with Army Astronaut Device.

§ 578.62 Service ribbons.

A ribbon identical in color with the suspension ribbon of the service medal it represents, attached to a bar 1⅜ inches in width and ⅜ inch in length, equipped with a suitable attaching device. A service ribbon is issued with each service medal.

§ 578.63 Lapel buttons.

(a) Lapel buttons are miniature replicas of military decorations; service medals and ribbons; and identification badges. Lapel buttons are worn only on civilian clothing. The buttons will be worn on the left lapel of civilian clothing for male personnel and in a similar location for female personnel.

(b) Lapel buttons for military decorations. Lapel buttons for military decorations are issued in the following two forms:

(1) A rosette, ½-inch in diameter, for the Medal of Honor.

(2) A colored enamel replica (⅛-inch by 21/32-inch) for the service ribbon for other decorations.

(c) Lapel buttons for badges. The only badges that have an approved lapel button are certain identification badges as follows:

(1) Presidential Service Badge;

(2) Vice Presidential Service Badge;

(3) Office of the Secretary of Defense Identification Badge;

(4) Joint Chiefs of Staff Identification Badge; and

(5) Army Staff Identification Badge.

(d) World War I Victory Button. A five-pointed star ⅝-inch in diameter on a wreath with the letters “US” in the center. For persons wounded in action, the lapel button is silver; for all others, the lapel button is bronze. Eligibility requirements are the same for the World War I Victory Medal.

(e) Honorable Service Lapel Button (World War II Victory Medal). A button of gold-color metal consists of an eagle perched within a ring composed of a chief and 13 vertical stripes. The button is 7/16-inch high and ⅝-inch wide. Eligibility requirements are honorable Federal military service between September 8, 1939 and December 31, 1946.

(f) Lapel button for service prior to September 8, 1939. (Not issued or sold by the Department of the Army.) A button 7/16-inch high and ⅝-inch wide, of gold-color metal consists of an eagle perched within a ring which displays seven white and six red vertical stripes and a blue chief bearing the words “National Defense.” It may be worn only by a person who served honorably before September 8, 1939 as an enlisted man, warrant officer, nurse, contract surgeon, veterinarian, or commissioned officer, in the Regular Army or a Citizen's Military Training Camp for 2 months, or in the National Guard, Enlisted Reserve Corps, or Senior ROTC for 1 year, or in junior ROTC for 2 years.

(g) Army Lapel Button. The Army Lapel Button is a gratuitous issue item made up of a minute man in gold color on a red enamel disk surrounded by 16-pointed gold rays with an outside diameter of 9/16-inch. Eligibility requirements are as follows:

(1) Soldiers transitioning with an honorable characterization of service (those being transferred to another component for completion of a military service obligation, and those receiving an Honorable Discharge Certificate).

(2) Non-adverse separation provision.

(3) Minimum 9 months continuous service—a break is 24 hours or more.

(4) Active Federal service on or after April 1, 1984; or, service in a Ready Reserve unit organized to serve as a unit (National Guard unit or Army Reserve troop program unit) on or after July 1, 1986.

(5) Retroactive issuance is not authorized.

(6) No soldier separating from the Service is to be awarded more than one Army Lapel Button.

(h) U.S. Army Retired Lapel Button. Retired Army personnel who are in possession of DD Form 2 (U.S. Uniformed Services Identification Card) (Retired)) are eligible to wear the Army Retired Lapel Button. Commanders will present the U.S. Army Retired Lapel Button to Army personnel at an appropriate ceremony before they retire.

(i) Active Reserve Lapel Button. The Active Reserve Lapel Button is authorized for active membership in the Ready Reserve of the Army. It is made up of a minute man in gold color on a bronze color base and is 11/16-inch in length. The button is an optional purchase item, not issued or sold by the Department of the Army. It is not worn on the uniform.

(j) Lapel Button for Korean Augmentation to the U.S. Army (KATUSA). The KATUSA Lapel Button (KLB) was approved by the Secretary of the Army on March 22, 1988 as a gratuitous issue item. The KLB is a round disk with an outside diameter of 9/16-inch that is comprised of a Korean Taeguk that consists of the characteristics from both the U.S. and Republic of Korea National Flags resting on a white background. The words “Honorable Service * KATUSA” are situated on the border of the outer edge of the KLB.

(1) The following requirements must be met to be eligible for award of the KLB:

(i) Individual must have been a Republic of Korea Army soldier who has been assigned as a KATUSA soldier to a U.S. Army unit or activity for a minimum of 9 months of continuous honorable active service on or after March 22, 1988.

(ii) Must be separating from active duty with the Republic of Korea Army.

(iii) Disqualifying characterization of service for the award of the KLB is identical with that used for the Army Lapel Button.

(2) Issuance requirements are as follows:

(i) The KLB will be awarded to all eligible KATUSA soldiers.

(ii) The U.S. Army unit commander will coordinate with the appropriate Republic of Korea staff officer/NCO to obtain Republic of Korea Army concurrence prior to presentation of the KLB.

(iii) Presentation will normally be made by the U.S. Army unit commander to which last assigned prior to separation from active service or by his designated U.S. Army commissioned officer representative during a troop formation or other appropriate ceremony.

(3) Orders will not be published to confirm award of the KLB.

(k) Gold Star Lapel Button. The Gold Star Lapel Button was established by Act of Congress (Pub. L. 80-306) August 1, 1947, codified at 10 U.S.C. 1126 in order to provide an appropriate identification for widows, widowers, parents, and next of kin of members of the Armed Forces of the United States who lost their lives during World War I, April 6, 1917 to March 3, 1921; World War II, September 8, 1939 to July 25, 1947; any subsequent period of armed hostilities in which the United States was engaged before July 1, 1958 (United Nations action in Korea, June 27, 1950 to July 27, 1954); or who lost their lives after June 30, 1958, while engaged in an action against an enemy of the United States; or while engaged in military operations involving conflict with an opposing foreign force; or while serving with friendly foreign forces engaged in an armed conflict in which the United States is not a belligerent party against an opposing Armed Force; or who lost or lose their lives after March 28, 1973, as a result of an international terrorist attack against the United States or a foreign nation friendly to the United States, recognized as such an attack by the Secretary of Defense; or while serving in a military operation while serving outside the United States (including the commonwealths, territories, and possessions of the United States) as part of a peacekeeping force.

(1) The Gold Star Lapel Button consists of a gold star on a purple circular background, bordered in gold and surrounded by gold laurel leaves. On the reverse is the inscription “United States of America, Act of Congress, August 1966” with space for engraving the initials of the recipient. Gold Star Lapel Buttons inscribed August 1947 may be issued until present inventories are exhausted.

(2) One Gold Star Lapel Button will be furnished without cost to the widow or widower, to each of the parents, each child, stepchild, child through adoption, brother, half brother, sister, and half sister of a member of the Armed Forces who lost his or her life while in the active military service during the periods indicated above. The term “widow or widower” includes those who have since remarried, and the term “parents” includes mother, father, stepmother, stepfather, mother through adoption, father through adoption, and foster parents who stood in loco parentis. Request for replacement of the Gold Star Lapel Button (lost, destroyed or unserviceable) will be submitted on DD Form 3 (Application for Gold Star Lapel Button) to NPRC (see § 578.16 (a)(3)).

(3) Each casualty area commander and major overseas commander will stock Gold Star Lapel Buttons and ensure that survivor assistance officers are provided them for issue to eligible next of kin. Normally, delivery should not be made prior to the first visit to the next of kin following interment.

(l) Lapel Button for Next of Kin of Deceased Personnel. The Lapel Button, Next of Kin of Deceased Personnel is provided to widows(ers), parents, and primary next of kin of armed services members who lose their lives while serving on active duty or while assigned in an Army Reserve or Army National Guard unit in a drill status.

(1) The button consists of a gold star within a circle (commemorating honorable service) surrounded by sprigs of oak (referring to the Army, Navy, Air Force, and Marine Corps).

(2) One lapel button will be furnished without cost to the widow or widower, to each of the parents, each child, stepchild, child through adoption, brother, half brother, sister, and half sister of a member of the Armed Forces who lost his or her life while on active duty. The term widow or widower includes those who have since remarried, and the term parents includes mother, father, stepmother, stepfather, mother through adoption, father through adoption, and foster parents who stood in place of a parent.

(3) Casualty area commands will stock the button and ensure that survivor assistance officers issue them to eligible next of kin.

(4) The Lapel Button, Next of Kin of Deceased Personnel is authorized for issue retroactive to March 29, 1973. The next of kin of soldiers who died since that date may request issue of the button by writing to the NPRC (see § 578.16(a)(3)). Furnish the name, grade, SSN, and date of death of the deceased soldier. The names and relationships of the next of kin must also be provided.

(m) Army Superior Unit Award Lapel Pin. The Army Superior Unit Award Lapel Pin is authorized for issue and wear by DA civilians in the employ of a unit awarded the Army Superior Unit Award. The lapel pin is also authorized for optional purchase and wear on civilian clothing by qualified military personnel.

§ 578.64 Miniature decorations.

(a) Decorations. Miniature replicas of all medals except the Medal of Honor and the Legion of Merit in the Degrees of Chief Commander and Commander are authorized for wear on certain uniforms instead of the issued medals. Miniatures of decorations are issued only to foreign nationals and with the award of the Distinguished Service Medal to U.S. personnel.

(b) Miniature badges. Replicas of combat and special skill badges in miniature size are authorized for wear on certain uniforms instead of the full-size badges.

§ 578.65 Supply, service, and requisition of medals and badges.

(a) Medals and appurtenances listed are issued by DA:

(1) Decorations;

(2) Service medals;

(3) Service ribbons;

(4) Palms;

(5) Rosettes;

(6) Clasps;

(7) Arrowheads;

(8) Service stars;

(9) French Fourragere;

(10) Netherlands Orange Lanyard;

(11) Army Good Conduct Medals;

(12) Oak Leaf Cluster;

(13) Numerals;

(14) Letter “V” devices;

(15) Certificate for decorations;

(16) Lapel buttons for decorations;

(17) Miscellaneous lapel buttons listed in Lapel buttons for badges and Lapel buttons for service;

(18) Ten-year devices;

(19) Berlin Airlift devices;

(20) Containers for decorations;

(21) Miniature decorations to foreign military personnel;

(22) Letter “V” Device;

(23) Letter “M” Device;

(b) Badges and appurtenances listed below are issued by Department of the Army:

(1) Combat and special skill badges;

(2) Basic Marksmanship Designation Badges;

(3) Distinguished marksmanship designation badges;

(4) Excellence in competition badges;

(5) Basic marksmanship qualification badges and bars;

(6) Army Staff Identification Badge;

(7) The Guard, Tomb of the Unknown Soldier Identification Badge (an item of organizational equipment);

(8) Army ROTC Nurse Cadet Program Identification Badge;

(9) Drill Sergeant Identification Badge;

(10) U.S. Army Recruiter Identification Badge;

(11) Career Counselor Badge;

(12) Army National Guard Recruiting and Retention Identification Badge;

(13) U.S. Army Reserve Recruiter Identification Badge.

§ 578.66 Original issue or replacement.

(a) General. All U.S. Army medals are presented without cost to an awardee. Replacement of medals or service ribbons for individuals not on active duty may be made at cost price. Requests will be honored from the original recipient of the award, or if deceased, from his or her primary next of kin in the following order: surviving spouse, eldest surviving child, father or mother, eldest surviving brother or sister, or eldest surviving grandchild.

(b) Issue or replacement of service medals and service ribbons antedating the World War I Victory Medal is no longer accomplished. These awards are not available from the supply system, but may be purchased from private dealers in military insignia.

(c) No money should be mailed until instructions are received by NPRC. Requests for medals should be directed to the following addresses as shown below.

(1)(i) Request for: Personnel in active Federal military service or in the Army National Guard or U.S. Army Reserve.

(ii) Submit to: Unit Commander.

(2)(i) Request for: Medals on behalf of individuals having no current U.S. Army status or deceased prior to October 1, 2002.

(ii) Submit to: National Personnel Records Center, 9700 Page Avenue, St. Louis, MO 63132-5100.

(3)(i) Request for: Medals for individuals who retired, were discharged or died (except general officers) after October 1, 2002.

(ii) Submit to: Commander, U.S. Army Human Resources Command, ATTN: AHRC-CC-B, 1 Reserve Way, St. Louis, MO 63132-5200.

(4)(i) Request for: Personnel receiving retired pay, except general officers.

(ii) Submit to: National Personnel Records Center, 9700 Page Avenue, St. Louis, MO 63132-5100.

(5)(i) Request for: Retired general officers.

(ii) Submit to: Commander, USA HRC, ATTN: AHRC-PDO-PA, 200 Stovall Street, Alexandria, VA 22332-0471.

(d) Issue of medals, other than Army. Medals and appurtenances awarded while in active Federal service in one of the other U.S. military Services will be issued on individual request to appropriate Service as shown below.

(1)(i) Request for: Navy awards.

(ii) Submit to: Office of the Chief of Naval Operations, Awards, Code: 09B33, 2000 Navy Pentagon, Washington, DC 20350-2000.

(2)(i) Request for: Air Force awards.

(ii) Submit to: Commander, U.S. Air Force Personnel Center/DPPPRA, 550 C Street West, Suite 12, Randolph Air Force Base, TX 78150-6001.

(3)(i) Request for: Marine Corps awards.

(ii) Submit to: Commandant, U.S. Marine Corps, Manpower and Reserve Affairs, Code: MMMA, 3280 Russell Road, Quantico, VA 22134-5103.

(4)(i) Request for: Coast Guard awards.

(ii) Submit to: Commandant, United States Coast Guard, 2100 Second Street, SW., ATTN: G-PS-5/TP41, Washington, DC 20593-0001.

§ 578.67 Manufacture, sale, and illegal possession.

Sections 507.1 to 507.8 of this chapter prescribe:

(a) Restrictions on manufacture and sale of service medals and appurtenance by civilians.

(b) Penalties for illegal possession and wearing of service medals and appurtenances.

§ 578.68 Badges and tabs; general.

(a) Purpose. The purpose of awarding badges is to provide for public recognition by tangible evidence of the attainment of a high degree of skill, proficiency, and excellence in tests and competition, as well as in the performance of duties. Awards of badges promote esprit de corps, and provide an incentive to greater effort, thus becoming instrumental in building and maintaining morale. Types of badges authorized to be awarded as hereinafter prescribed, are combat and special skill badges, marksmanship qualification badges, identification badges and tabs.

(b) Recommendations and approval authority. (1) Recommendations for awards of badges will be submitted by memorandum or DA Form 4187 through command channels to the commander authorized to make the award.

(2) Badges may be approved and awarded in the field only by the commanders authorized to award the respective badge.

(3) Award of badges to Active Army personnel which cannot be resolved by local commanders will be forwarded through command channels to HQ, USA HRC, (see address § 578.3(c)).

(c) Posthumous awards. When an individual who has qualified for a badge dies before the award is made, the badge may be presented to the next of kin.

(d) Retroactive awards. Retroactive awards of the Combat Infantryman Badge and the Combat Medical Badge may be made to fully qualified individuals. Such awards will not be made except where evidence of injustice is presented. Active duty soldiers will forward their applications through command channels to HQ, AHRC, (see address § 578.3(c)). Reserve Component soldiers should address their application to Commander, USA HRC-St. Louis, One Reserve Way, St. Louis, MO 63132-5200. Retirees and veterans should address their application to the NPRC (see § 578.16(a)(3) for address).

(e) Announcement of awards. Permanent awards of badges, except basic marksmanship qualification badges, identification badges, and the Physical Fitness Badge, will be announced in Permanent Orders by commanders authorized to make the award or Permanent Orders of HQDA.

(f) Presentation of awards. Whenever practical, badges will be presented to military personnel in a formal ceremony. Presentations should be made as promptly as practical following announcement of awards, and when possible, in the presence of the troops with whom the recipients were serving at the time of the qualification.

(g) Supply of badges. (1) Badges listed below are issued by the DA.

(i) Combat and special skill badges;

(ii) Basic Marksmanship Designation Badges;

(iii) Distinguished marksmanship designation badges;

(iv) Excellence in competition badges;

(v) Basic marksmanship qualification badges and bars;

(vi) Army Staff Identification Badge;

(vii) The Guard, Tomb of the Unknown Soldier Identification Badge (an item of organizational equipment);

(viii) Army ROTC Nurse Cadet Program Identification Badge;

(ix) Drill Sergeant Identification Badge;

(x) U.S. Army Recruiter Identification Badge;

(xi) Career Counselor Badge;

(xii) Army National Guard Recruiting and Retention Identification Badge;

(xiii) U.S. Army Reserve Recruiter Identification Badge.

(2) Items not issued or sold by the DA:

(i) Identification badges, except as provided in paragraph (g)(1) of this section;

(ii) Lapel buttons for badges;

(iii) Certificates for badges;

(iv) Foreign badges;

(v) Miniature Combat Infantryman, Expert Infantryman, Combat Medical, Expert Field Medical, and Aviation badges;

(vi) Dress miniature badges. (Miniatures may be purchased from dealers in military insignia.)

(h) Requisition. Combat and special skill badges, basic marksmanship qualification badges, and authorized bars, may be requisitioned by commanders through normal channels. Requisitions will contain a statement that issue is to be made to authorized personnel. Commanders authorized to make the award may requisition bulk delivery of badges to meet needs for 60 days. Care should be taken that excessive stocks are not requisitioned. Initial issue or replacement for a badge lost, destroyed, or rendered unfit for use without fault or neglect on the part of the person to whom it was awarded, will be made upon application, without charge to military personnel on active duty and at stock fund standard price to all others.

(i) Character of service. A badge will not be awarded to any person who, subsequent to qualification therefore, has been dismissed, dishonorably discharged, or convicted of desertion by court-martial.

(j) Special guidance. (1) Effective September 30, 1986, local established special skill badges are no longer authorized for wear. Authority for major commanders to approve local badges is rescinded.

(2) The wear of badges issued by other Services is governed by AR 670-1. Those cases that cannot be resolved should be forwarded to Office of the Deputy Chief of Staff, G-1, ATTN: DAPE-HR-S, 300 Army Pentagon, Washington, DC 20310-0300.

(3) Authority must be obtained from HQ, USA HRC (AHRC-PDO-PA) before wearing on the Army uniform badges awarded by other U.S. Services and the Director of Civilian Marksmanship.

(k) To whom awarded. (1) The Combat Infantryman Badge may be awarded only to members of the U.S. Army.

(2) The Combat Medical Badge may be awarded only to members of the U.S. Army, Navy, or Air Force.

(3) Awards of U.S. Army badges to foreign military personnel will be made only with the prior consent of his or her Government and upon completion of the full requirements established for each badge. Foreign military personnel may also qualify for Army badges while attending U.S. Army service schools or while participating in combined or joint operations.

(4) All other special skill badges may be earned by U.S. military personnel who qualify while performing honorable active duty or Reserve service in an active status or while formally assigned or attached to the U.S. Army.

(5) In certain cases, civilian personnel may be awarded special skill badges provided specific criteria are met. Requests or recommendations for award of special skill badges to civilians should be directed to designated approval authorities or Commander, USA HRC (see § 578.3 (c) for address).

(6) Table 9 below lists the U.S. Army combat and special skill badges authorized and who is authorized to be awarded each badge.

Table 9.—U.S. Army Badges and Tabs
Order of precedence may be awarded to: | Members of other services | Department of the army civilians | Foreign military personnel
Combat Infantryman Badge | YES | NO | YES
Combat Medical Badge | YES | NO | NO
Combat Action Badge | YES | NO | YES
Expert Infantryman Badge | NO | NO | NO
Expert Field Medical Badge | YES | YES | YES
Parachutist Badges | YES | YES | YES
Parachute Rigger Badge | YES | YES | YES
Military Free-Fall Parachutist Badge | NO | NO | NO
Army Aviator Badge | YES | YES | YES
Astronaut Device | YES | YES | YES
Flight Surgeon Badge | YES | YES | YES
Divers Badges | YES | YES | YES
Special Operations Diver Badge | YES | NO | NO
Explosive Ordnance Disposal Badges | YES | YES | YES
Pathfinder Badge | YES | YES | YES
Air Assault Badge | YES | YES | YES
Aviation Badge | YES | YES | YES
Driver & Mechanic Badge | YES | YES | YES
Ranger Tab | YES | YES | YES
Special Forces Tab | YES | YES | YES
Sapper Tab | YES | YES | YES
Notes:
1. Badges authorized to foreign military personnel will be made only after obtaining prior consent from his or her Government and after completion of the full requirements established for each badge.
2. DA civilians must complete full requirements for the respective badge before it is awarded.

§ 578.69 Combat Infantryman Badge.

(a) Specific eligibility requirements. There are basically three requirements for award of the Combat Infantryman Badge (CIB):

(1) The Soldier must be an infantryman satisfactorily performing infantry duties.

(2) Must be assigned to an infantry unit during such time as the unit is engaged in active ground combat.

(3) Must actively participate in such ground combat. (Campaign or battle credit alone is not sufficient for award of the CIB.)

(b) The specific eligibility criteria for the CIB requires that:

(1) A Soldier must be an Army infantry or special forces officer (SSI 11 or 18) in the grade of colonel or below, or an Army enlisted Soldier or warrant officer with an infantry or Special Forces Military Occupational Specialties (MOS), who, subsequent to December 6, 1941, has satisfactorily performed duty while assigned or attached as a member of an infantry, ranger or special forces unit of brigade, regimental, or smaller size during any period such unit was engaged in active ground combat. Eligibility for Special Forces personnel in MOS 18B, 18E, 18F, and 18Z (less Special Forces medical sergeant) accrues from December 20, 1989. Retroactive awards of the CIB to Special Forces personnel are not authorized prior to December 20, 1989.

(2) A recipient must be personally present and under hostile fire while serving in an assigned infantry or Special Forces primary duty, in a unit actively engaged in ground combat with the enemy. The unit in question can be of any size smaller than brigade. For example, personnel possessing an infantry MOS in a rifle squad of a cavalry platoon in a cavalry troop would be eligible for award of the CIB. Battle or campaign participation credit alone is not sufficient; the unit must have been in active ground combat with the enemy during the period.

(3) Personnel with other than an infantry or Special Forces MOS are not eligible, regardless of the circumstances. The infantry or Special Forces SSI or MOS does not necessarily have to be the Soldier's primary specialty, as long as the Soldier has been properly trained in infantry or Special Forces tactics, possesses the appropriate skill code, and is serving in that specialty when engaged in active ground combat as described above. Commanders are not authorized to make any exceptions to this policy.

(4) Awards will not be made to general officers or to members of headquarters companies of units larger in size than brigade.

(5) On or after September 18, 2001, the following rules apply:

(i) A Soldier must be an Army infantry or special forces (SSI 11 or 18) in the grade of colonel or below, or an Army enlisted Soldier or warrant officer with an infantry or special forces MOS, who has satisfactorily performed duty while assigned or attached as a member of an infantry, ranger or special forces unit of brigade, regimental, or smaller size during any period such unit was engaged in active ground combat, to close with and destroy the enemy with direct fire.

(ii) A Soldier must be personally present and under fire while serving in an assigned infantry or Special Forces primary duty, in a unit engaged in active ground combat, to close with and destroy the enemy with direct fire.

(iii) Soldiers possessing MOS of 18D (Special Forces Medical Sergeant) who satisfactorily perform special forces duties while assigned or attached to a special forces unit of brigade, regimental, or smaller size during any period such unit was engaged in active ground combat may be awarded the CIB. These Soldiers must have been personally present and engaged in active ground combat, to close with and destroy the enemy with direct fires. Retroactive awards under these criteria are not authorized for service prior to September 18, 2001.

(iv) Those Soldiers possessing MOS of 18D who qualify for award of the Combat Medical Badge from September 18, 2001 to June 3, 2005 will remain qualified for the badge. Upon request any such Soldier may be awarded the CIB instead of the Combat Medical Badge. In such instances, the Soldier must submit a request through the chain of command to the Commander, USA HRC (see § 578.3(c) for address), for conversion of the Combat Medical Badge to the CIB.

(v) Service members from other U.S. Armed Forces and foreign military (infantry and Special Forces equivalents) assigned or attached as a member of a U.S. Army infantry or Special Forces unit of brigade, regimental, or smaller size may be considered for award of the CIB. The specific eligibility requirements listed in § 578.69(a) must be met. Retroactive awards under these criteria are not authorized for service prior to September 18, 2001.

(c) The CIB is authorized for award for the following qualifying periods:

(1) World War II (December 7, 1941 to September 3, 1945).

(2) The Korean War (June 27, 1950 to July 27, 1953).

(3) Republic of Vietnam Conflict (March 2, 1961 to March 28, 1973), combined with qualifying service in Laos (April 19, 1961 to October 6, 1962).

(4) Dominican Republic (April 28, 1965 to September 1, 1966).

(5) Korea on the DMZ (January 4, 1969 to March 31, 1994).

(6) El Salvador (January 1, 1981 to February 1, 1992).

(7) Grenada (October 23 to November 21, 1983).

(8) Joint Security Area, Panmunjom, Korea (November 23, 1984).

(9) Panama (December 20, 1989 to January 31, 1990).

(10) Southwest Asia Conflict (January 17 to April 11, 1991).

(11) Somalia (June 5, 1992 to March 31, 1994).

(12) Afghanistan (Operation ENDURING FREEDOM, December 5, 2001 to a date to be determined).

(13) Iraq (Operation IRAQI FREEDOM, March 19, 2003 to a date to be determined).

(d) The special provisions authorized for the Vietnam Conflict, Laos, and Korea on the DMZ are outlined in paragraphs (d)(1) through (5) of this section.

(1) During the Vietnam Conflict, any officer whose branch is other than infantry who, under appropriate orders, has commanded a line infantry (other than a headquarters unit) unit of brigade, regimental, or smaller size for at least 30 consecutive days is deemed to have been detailed in infantry and is eligible for award of the CIB notwithstanding absence of a written directive detailing that Soldier in the infantry, provided all other requirements for the award have been met. Orders directing the officer to assume command will be confirmed in writing at the earliest practicable date.

(i) In addition, any officer, warrant officer, or enlisted Soldier whose branch is other than infantry, who under appropriate orders was assigned to advise a unit listed in paragraphs (d)(2) and (3) of this section or was assigned as a member of a White Star Mobile Training Team or a member of MAAG-Laos as indicated in paragraphs (d)(4)(i) and (ii) of this section will be eligible for award of the CIB provided all other requirements have been met.

(ii) After December 1, 1967 for service in the Republic of Vietnam, noncommissioned officers serving as Command Sergeants Major of infantry battalions and brigades for periods of at least 30 consecutive days in a combat zone are eligible for award of the CIB provided all other requirements have been met.

(2) Subsequent to March 1, 1961, a Soldier must have been-(i) Assigned as advisor to an infantry unit, ranger unit, infantry-type unit of the civil guard of regimental or smaller size, and/or infantry-type unit of the self-defense corps unit of regimental or smaller size of the Vietnamese government during any period such unit was engaged in actual ground combat.

(ii) Assigned as advisor of an irregular force comparable to the above infantry units under similar conditions.

(iii) Personally present and under fire while serving in an assigned primary duty as a member of a tactical advisory team while the unit participated in ground combat.

(3) Subsequent to May 24, 1965, to qualify for the CIB, personnel serving in U.S. units must meet the requirements of paragraph (b)(1) of this section. Individuals who performed liaison duties with the Royal Thai Army of the Army of the Republic of Korea combat units in Vietnam are eligible for award of the badge provided they meet all other requirements.

(4) In Laos from April 19, 1961 to October 6, 1962, a Soldier must have been—

(i) Assigned as member of a White Star Mobile Training Team while the team was attached to or working with a unit of regimental (groupment mobile) or smaller size of Forces Armee du Royaume (FAR), or with irregular type forces of regimental or smaller size.

(ii) A member of MAAG-Laos assigned as an advisor to a region or zone of FAR, or while serving with irregular type forces of regimental or smaller size.

(iii) Personally under hostile fire while assigned as specified in paragraphs (d)(4)(i) and (ii) of this section.

(5) In Korea on the DMZ. The special requirements for award of the CIB for service in the Republic of Korea are rescinded. Army veterans and service members who served in Korea on or after July 28, 1953 and meet the criteria for award of the CIB outlined in paragraphs (a) and (b) of this section, may submit an application (to include supporting documentation) for award of the CIB to the Commander, USA HRC, (see § 578.3(c) for address). Retroactive awards under these criteria are not authorized for service prior to July 29, 1953.

(e) Subsequent awards. To date, a separate award of the CIB has been authorized for qualified soldiers in any of the following four qualifying periods:

(1) World War II (December 7, 1941 to September 3, 1945).

(2) The Korean Conflict (June 27, 1950 to July 27, 1953).

(3) The Vietnam Conflict. Service in the Republic of Vietnam conflict (after March 1, 1961) combined with qualifying service in Laos (April 19, 1961 to October 6, 1962); the Dominican Republic (April 28, 1965 to September 1, 1966); Korea on the DMZ (after January 4, 1969); El Salvador (January 1, 1981 to February 1, 1992); Grenada (October 23 to November 21, 1983); Joint Security Area, Panmunjom, Korea (November 23, 1984); Panama (December 20, 1989 to January 31, 1990); Southwest Asia (January 17 to April 11, 1991); and Somalia (June 5, 1992 to March 31, 1994) is recognized by one award only regardless of whether a soldier has served one or multiple tours in any or all of these areas.

(4) Global War on Terrorism. Operation ENDURING FREEDOM (November 20, 2001 to date to be determined) and Operation IRAQI FREEDOM (March 19, 2003 to a date to be determined).

(f) If a Soldier has been awarded the CIB in one of the qualifying periods outlined in paragraph (c) of this section, that Soldier is not eligible to earn the CMB in the same period.

(g) Who may award—(1) Current awards. Current awards of the CIB may be awarded by the Commanding General, USA HRC and any commander delegated authority by the Secretary of the Army during wartime.

(2) Retroactive awards. Retroactive awards of the Combat Infantryman Badge and the Combat Medical Badge may be awarded by the Commanding General, USA HRC to active duty Soldiers and Reserve Component Soldiers. Applications for retroactive award of the CIB and CMB will be forwarded through command channels to the Commander, USA HRC, (see § 578.3(c) for address). Retirees and veterans should address their application to the NPRC, (see § 578.16(a)(3) for address). Retroactive award of the CIB and CMB are authorized for time periods specified above to fully qualified individuals. Such awards will not be made except where evidence of injustice is presented.

(h) Description. A silver and enamel badge 1 inch in height and 3 inches in width, consisting of an infantry musket on a light blue bar with a silver border, on and over an elliptical oak wreath. Stars are added at the top of the wreath to indicate subsequent awards; one star for the second award, two stars for the third award and three stars for the fourth award.

§ 578.70 Combat Medical Badge.

(a) Eligibility requirements. (1) The Combat Medical Badge (CMB) may be awarded to members of the Army Medical Department (colonels and below), the Naval Medical Department (captains and below), the Air Force Medical Service (colonels and below), assigned or attached by appropriate orders to an infantry unit of brigade, regimental, or smaller size, or to a medical unit of company or smaller size, organic to an infantry unit of brigade or smaller size, during any period the infantry unit is engaged in actual ground combat on or after December 6, 1941. Battle participation credit alone is not sufficient; the infantry unit must have been in contact with the enemy.

(2) Award of the CMB will not be made to general or flag officers.

(b) The following individuals are also eligible for the CMB:

(1) Effective December 19, 1989, Special Forces personnel possessing military occupational specialty 18D (Special Operations Medical Sergeant) who satisfactorily performed medical duties while assigned or attached to a Special Forces unit during any period the unit is engaged in actual ground combat, provided they are personally present and under fire. Retroactive awards under these criteria are not authorized prior to December 19, 1989.

(2) Effective January 16, 1991, Medical personnel outlined in paragraph (a) of this section, assigned or attached to armor and ground cavalry units of brigade or smaller size, who satisfactorily perform medical duties while the unit is engaged in actual ground combat, provided they are personally present and under fire. Retroactive awards under these criteria are not authorized prior to January 16, 1991.

(3) Effective September 11, 2001, Medical personnel outlined in paragraphs (a) (1) and (b)(2) of this section, assigned or attached to or under operational control of any ground Combat Arms units (not to include members assigned or attached to Aviation units) of brigade or smaller size, who satisfactorily perform medical duties while the unit is engaged in actual ground combat, provided they are personally present and under fire. Retroactive awards under these criteria are not authorized prior to September 11, 2001.

(4) Effective on or after September 18, 2001:

(i) Medical personnel assigned or attached to or under operational control of any ground Combat Arms units (not to include members assigned or attached to Aviation units) of brigade or smaller size, who satisfactorily perform medical duties while the unit is engaged in active ground combat, provided they are personally present and under fire. Retroactive awards under these criteria are not authorized for service prior to September 18, 2001.

(ii) Effective June 5, 2005, Soldiers possessing a MOS of 18D are no longer eligible for award of the CMB (see § 578.69 (b)(5)(iii) of this part).

(c) The CMB is authorized for award for the following qualifying periods:

(1) World War II (December 7, 1941 to September 3, 1945).

(2) The Korean War (June 27, 1950 to July 27, 1953).

(3) Republic of Vietnam Conflict (March 2, 1961 to March 28, 1973), combined with qualifying service in Laos (April 19, 1961 to October 6, 1962).

(4) Dominican Republic (April 28, 1965 to September 1, 1966).

(5) Korea on the DMZ (January 4, 1969 to March 31, 1994).

(6) El Salvador (January 1, 1981 to February 1, 1992).

(7) Grenada (October 23 to November 21, 1983).

(8) Joint Security Area, Panmunjom, Korea (November 23, 1984).

(9) Panama (December 20, 1989 to January 31, 1990).

(10) Southwest Asia Conflict (January 17 to April 11, 1991).

(11) Somalia (June 5, 1992 to March 31, 1994).

(12) Afghanistan (Operation ENDURING FREEDOM, December 5, 2001 to a date to be determined).

(13) Iraq (Operation IRAQI FREEDOM, March 19, 2003 to a date to be determined).

(d) The special provisions for the Vietnam Conflict, Laos and Korea on the DMZ are as follows:

(1) For service in Vietnam Conflict:

(i) On or after March 1, 1961, a Soldier must have been assigned to a Vietnamese unit engaged in actual ground combat or as a member of a U.S. Army infantry unit of brigade or smaller size, including Special Forces Detachments, serving with a Republic of Vietnam unit engaged in actual ground combat. The Republic of Vietnam unit must have been of regimental size or smaller and either an infantry, ranger, infantry-type unit of the civil guard, infantry-type unit of the self-defense corps, or the irregular forces. The Soldier must have been personally present and under hostile fire while assigned as specified.

(ii) On or after May 24, 1965, Soldiers serving in U.S. units must meet the requirements of paragraph (b)(1) of this section. Soldiers who perform liaison duties with the Royal Thai Army or the Army of the Republic of Korea combat units in Vietnam are eligible for award of the badge provided they meet all other requirements.

(2) For service in Laos, from April 19, 1961 to October 6, 1962, the Soldier must have been—

(i) Assigned as member of a White Star Mobile Training Team while the team was attached to or working with a unit of regimental (groupment mobile) or smaller size of Forces Armee du Royaume (FAR), or with irregular-type forces of regimental or smaller size.

(ii) A member of the Military Assistance Advisory Group (MAAG), Laos, assigned as an advisor to a region or zone of FAR, or while serving with irregular-type forces of regimental or smaller size.

(iii) Personally under hostile fire while assigned as specified in paragraphs (d)(2)(i) and (ii) of this section.

(3) For service in Korea on the DMZ. The special requirements for award of the CMB for service in the Republic of Korea are rescinded. Army veterans and service members who served in Korea on or after July 28, 1953 and meet the criteria for award of the CMB outlined in paragraph (a) of this section, may submit an application (to include supporting documentation) for award of the CMB to the Commander, USA HRC, (see § 578.3(c) for address). Retroactive awards under these criteria are not authorized for service prior to July 29, 1953.

(e) Subsequent awards. Second and subsequent awards of the CMB are as follows:

(1) Second and third awards of the CMB are indicated by superimposing 1 and 2 stars respectively, centered at the top of the badge between the points of the oak wreath. To date, a separate award of the CMB has been authorized for qualified soldiers who service in the follow four qualifying periods:

(i) World War II.

(ii) The Korean War.

(iii) Vietnam Conflict. Service in the Republic of Vietnam conflict combined with qualifying service in Laos; the Dominican Republic; Korea on the DMZ; El Salvador; Grenada; Joint Secruity Area, Panmunjom, Korea; Panama; and Southwest Asia Conflict; and Somalia regardless of whether a Soldier has served one or multiple tours in any or all of these areas. The Vietnam Conflict Era officially terminated on March 10, 1995.

(iv) Global War on Terrorism (Afghanistan, Operation ENDURING FREEDOM) and Iraq, Operation IRAQI FREEDOM.

(2) If a Soldier has been awarded the CIB in one of the qualifying periods that Soldier is not eligible to earn the CMB in the same period.

(f) Who may award. The award approval authority for the CMB is the same as the CIB (see § 578.69(g) of this part.

(g) Description. An oxidized silver badge 1 inch in height and 1½ inches in width, consisting of a stretcher crossed by a caduceus surmounted at top by a Greek cross, all on and over an elliptical oak wreath. Stars are added to indicate subsequent awards; one star at top for the second award, one star at top and one at bottom for the third award, one star at top and one at each side for the fourth award.

§ 578.71 Combat Action Badge.

(a) On May 2, 2005, the Chief of Staff, Army, approved the creation of the Combat Action Badge (CAB) to provide special recognition to Soldiers who personally engage, or are engaged by the enemy.

(b) Basic eligibility requirements. The requirements for award of the CAB are Branch and MOS immaterial. Assignment to a Combat Arms unit or a unit organized to conduct close or offensive combat operations, or performing offensive combat operations is not required to qualify for the CAB. However, it is not intended to award all Soldiers who serve in a combat zone or imminent danger area.

(c) Specific eligibility requirements. (1) May be awarded to any Soldier.

(2) Soldier must be performing assigned duties in an area where hostile fire pay or imminent danger pay is authorized.

(3) Soldier must be personally present and actively engaging or being engaged by the enemy, and performing satisfactorily in accordance with the prescribed rules of engagement.

(4) Soldier must be assigned or attached to a unit that would qualify the Soldier for the CIB or CMB. For example, an 11B assigned to Corps staff is eligible for award of the CAB. However, an 11B assigned to an infantry battalion is not eligible for award of the CAB.

(d) In addition to Army Soldiers, the CAB may be awarded to members of other U.S. Armed Forces and foreign military personnel assigned to a U.S. Army unit, provided they meet the criteria (for example, Korean Augmentation to U.S. Army (KATUSA) personnel in the 2d Infantry Division would be eligible).

(e) Award of the CAB is authorized from September 18, 2001, to a date to be determined. Award for qualifying service in any previous conflict is not authorized.

(f) Second and subsequent awards of the CAB are as follows:

(1) Only one CAB may be awarded during a qualified period.

(2) Second and subsequent awards of the CAB will be indicated by superimposing one and two stars respectively, centered at the top of the badge between the points of the oak wreath.

(g) Retroactive awards of the CAB are not authorized prior to September 18, 2001. For service on or after September 18, 2001, applications (with supporting documentation) for retroactive awards of the CAB will be forwarded through the first 2-star general in the chain of command to the Commander, USA HRC, (see § 578.3(c) for address).

(h) The CAB is categorized as a Group 1 Badge. See Army Regulation 670-1 for specific wear instructions.

(i) Soldiers may be awarded the CIB, CMB and CAB for the same qualifying period, provided the criteria for each badge are met. However, subsequent awards of the same badge within the same qualifying period are not authorized.

(j) The CAB may be awarded by a commander delegated authority by the Secretary of the Army during wartime or the Cdr, USA HRC. Effective June 3, 2005, commanders delegated authority to award the CAB may further delegate award authority to commanders in the grade of major general or above. The CAB will be announced in permanent orders.

(k) Description. A silver badge 2 inches (5.08cm) in width overall consisting of an oak wreath supporting a rectangle bearing a bayonet surmounting a grenade, all silver. Stars are added at the top to indicate subsequent awards; one star for the second award, two stars for the third award and three stars for the fourth award.

§ 578.72 Expert Infantryman Badge.

(a) Basic eligibility criteria—(1) Specialty skill identifier and Military Occupational Specialty (MOS) requirement. Candidates must be in an Active Army status and must possess a primary MOS in CMF 11 or 18B, 18C, 18E, 18F, or 18Z; be warrant officers identified as 180A; or be infantry or special operations branch officers serving in infantry positions.

(2) Duty requirement. All personnel having a Career Management Field (CMF) 11 or Specialty Code 11 code, regardless of their present assignment, are eligible to participate in the Expert Infantryman Badge (EIB) program. They must meet the prerequisites and take the test with an infantry unit of at least battalion size.

(b) Test requirement. Personnel must meet all prerequisites and proficiency tests prescribed by U.S. Army Infantry Center.

(c) Authority to test and award the badge. The following commanders are authorized to give EIB tests and award the badge to qualified soldiers in their commands: (1) Division commanders;

(2) Commanders of separate infantry brigades and regiments;

(3) Commanders of divisional brigades when authority is delegated to them by their division commanders;

(4) Separate infantry battalion commanders when authority is delegated to them by the commander exercising general court-martial authority over the battalion;

(5) Commanders of U.S. Army Training Centers;

(6) Commandant, U.S. Army Infantry School;

(7) Commanders of Special Forces Groups;

(8) Commanders of separate Special Forces battalions when authority is delegated to them by the commander exercising general court-martial authority over their units;

(9) Commanders of Reserve Component combat and training divisions, and brigade size units are authorized to administer EIB tests and award the badge to qualified personnel in the command.

(d) Description. A silver and enamel badge 7/16 inch in height and 3 inches in width, consisting of an Infantry musket on a light blue bar with a silver border.

§ 578.73 Expert Field Medical Badge.

(a) Basic eligibility criteria. (1) Officers must be assigned or detailed to an Army Medical Department (AMEDD) corps. This includes Army officers in training at the Uniformed Services University of Health Sciences. It also includes Army officers enrolled in the Health Professions Scholarship Program.

(2) Warrant officers must have an AMEDD primary MOS controlled by the Surgeon General. Warrant officer pilots are also eligible, if they have a “D” SQI (Aeromedical Evacuation Pilot) and are assigned to an air ambulance unit.

(3) Enlisted personnel must have a primary Military Occupational Specialty (MOS) in the Medical Career Management Field or an MOS of 18D.

(4) Other U.S. Armed Services and foreign military must either be medical personnel or serving in comparable medical positions. The approval for wear of the badge by other U.S. Armed Services and foreign military is governed according to their respective Services guidance.

(b) Duty requirement. Eligible personnel must be on active duty or assigned to a troop program unit in the Reserve component unit or an AMEDD mobilization augmentation agency.

(c) Authority to test and award. The following commanders in the grade of Lieutenant Colonel or above are authorized to conduct the test and award the badge. Commanders must have the resources and facilities to conduct the test as prescribed by the U.S. Army Medical Department Center and School.

(1) Active Army Table of Organization and Equipment (TOE) and Table of Distribution and Allowances (TDA) medical units.

(2) Division support commands.

(3) Separate regiments and brigades.

(4) Commanders of U.S. Army Reserve and National Guard units. Reserve and National Guard units must conduct the test during their annual active duty training.

(d) Description. An oxidized silver badge 15/16 inch in height and 1 7/16 inches in width consisting of a stretcher crossed by a caduceus surmounted at top by a Greek cross.

§ 578.74 Parachutist badges.

(a) Three degrees of badges are authorized for award: Basic Parachutist Badge, Senior Parachutist Badge, and Master Parachutist Badge.

(b) Eligibility criteria for each badge as set forth in Parachutist Badge—Basic, Senior Parachutist Badge, and Master Parachutist Badge.

(c) Special eligibility for awards will be determined from the DA Form 1307 (Individual Jump Record) in their military record. Each entry on this form will include pay period covered and initials of the personnel officer; the entry will be made only from a DA Form 1306 (Statement of Jump and Loading Manifest) completed by an officer or jumpmaster.

(d) Jumps with civilian parachute clubs will not be counted in the number of total jumps required for each badge.

(e) Award of the basic Parachutist Badge or advanced parachutist badges awarded by other U.S. Services may only be awarded if the soldier meets the Army criteria for the badge.

(f) Approval authority. Award approval authorities for all three badges are as follows:

(1) Commanding Generals of major Army commands (MACOM) and continental United States (CONUS);

(2) Commanders of U.S. Army Corps with organic long-range reconnaissance companies, commanders of airborne corps, airborne divisions;

(3) Commander, 4th Psychological Operations Group (Airborne);

(4) Infantry divisions containing organic airborne elements;

(5) Commandants of the Infantry School and the Quartermaster School;

(6) Commanders of separate airborne regiments, separate airborne battalions, Special Forces Group (Airborne), and the U.S. Army John F. Kennedy Special Warfare Center and School;

(7) The President, U.S. Army Airborne, Communications and Electronics Board;

(8) Commander, U.S. Army Special Forces Command (Airborne);

(9) Commander, U.S. Army Special Operations Support Command (Airborne).

(g) Subsequent awards. A bronze service star is authorized to be worn on the Parachutist Badges to denote a soldier's participation in a combat parachute jump. Orders are required to confirm award of these badges. A soldier's combat parachute jump credit is tied directly to the combat assault credit decision for the unit to which the soldier is attached or assigned at the time of the assault. Should a unit be denied air assault credit, no air assault credit for purpose of this badge will accrue to the individual soldiers of that unit. Each soldier must physically exit the aircraft to receive combat parachute jump credit and the Parachutist badge with bronze service star.

(h) Description. An oxidized silver badge 1 13/64 inches in height and 1½ inches in width, consisting of an open parachute on and over a pair of stylized wings displayed and curving inward. A star and wreath are added above the parachute canopy to indicate the degree of qualification. A star above the canopy indicates a Senior Parachutist; the star surrounded by a laurel wreath indicates a Master Parachutist. Small stars are superimposed on the appropriate badge to indicate combat jumps as follows:

(1) One jump: A bronze star centered on the shroud lines 3/16 inch below the canopy;

(2) Two jumps: A bronze star on the base of each wing;

(3) Three jumps: A bronze star on the base of each wing and one star centered on the shroud lines 3/16 inch below the canopy;

(4) Four jumps: Two bronze stars on the base of each wing;

(5) Five jumps: A gold star centered on the shroud lines 5/16 inch below the canopy.

§ 578.75 Parachutist Badge—Basic.

General. To be eligible for award of the basic Parachutist Badge, an individual must have satisfactorily completed the prescribed proficiency tests while assigned or attached to an airborne unit or the Airborne Department of the Infantry School, or have participated in at least one combat parachute jump as follows:

(a) A member of an organized force carrying out an assigned tactical mission for which the unit was credited with an airborne assault landing by the theater commander;

(b) While engaged in military operations involving conflict with an opposing foreign force;

(c) While serving with friendly foreign forces engaged in an armed conflict against an opposing armed force in which the United States is not a belligerent party.

§ 578.76 Senior Parachutist Badge.

To be eligible for the Senior Parachutist Badge, an individual must have been rated excellent in character and efficiency and have met the following requirements:

(a) Participated in a minimum of 30 jumps to include the following:

(1) Fifteen jumps with combat equipment to consist of normal TOE equipment including individual weapon carried in combat whether the jump was in actual or simulated combat. In cases of simulated combat the equipment will include water, rations (actual or dummy), ammunition (actual or dummy), and other essential items necessary to sustain an individual in combat.

(2) Two night jumps made during the hours of darkness (regardless of time of day with respect to sunset) one of which will be as jumpmaster of a stick.

(3) Two mass tactical jumps which culminate in an airborne assault problem with either a unit equivalent to a battalion or larger; a separate company battery; or an organic staff of regimental size or larger. The soldier must fill a position commensurate with his or her rank or grade during the problem.

(4) For award of the Senior Parachutist Badge, the prerequisite requirements above must be obtained by static line parachuting.

(b) Either graduated from the Jumpmaster Course of the Airborne Department of the Infantry School or the Jumpmaster School of a separate airborne battalion or larger airborne unit, or infantry divisions and separate infantry brigades containing organic airborne elements, to include the U.S. Army Alaska Jumpmaster Course or served as jumpmaster on one or more combat jumps or as a jumpmaster on 15 noncombat jumps.

(c) Have served on jump status with an airborne unit or other organizations authorized parachutists for a total of at least 24 months.

§ 578.77 Master Parachutist Badge.

To be eligible for the Master Parachutist Badge, an individual must have been rated excellent in character and efficiency and have met the following requirements:

(a) Participated in a minimum of 65 jumps to include: (1) Twenty-five jumps with combat equipment to consist of normal TOE equipment, including individual weapon carried by the individual in combat whether the jump was in actual or simulated combat. In cases of simulated combat the equipment will include water rations (actual or dummy), ammunition (actual or dummy), and other essential items necessary to sustain an individual in combat.

(2) Four night jumps made during the hours of darkness (regardless of the time of day with respect to sunset) one of which will be as jumpmaster of a stick.

(3) Five mass tactical jumps which culminate in an airborne assault problem with a unit equivalent to a battalion or larger; a separate company/battery; or an organic staff of regimental size or larger. The individual must fill a position commensurate with their rank or grade during the problem.

(4) For award of the Master Parachutist Badge, the prerequisite requirements in paragraphs (a)(1), (2) and (3) of this section must be obtained by static line parachuting.

(b) Either graduated from the Jumpmaster Course of the Airborne Department of the Infantry School or the Jumpmaster School of a separate airborne battalion or larger airborne unit, or infantry divisions and separate infantry brigades containing organic airborne elements, to include the U.S. Army Alaska Jumpmaster Course, or served as jumpmaster on one or more combat jumps or as jumpmaster on 33 noncombat jumps.

(c) Have served on jump status with an airborne unit or other organization authorized parachutists for a total of at least 36 months.

§ 578.78 Parachute Rigger Badge.

(a) Eligibility requirements. Any individual who successfully completes the Parachute Rigger course conducted by the U.S. Army Quartermaster School and holds an awarded MOS of 43E (enlisted) or 401A (warrant officers) may be awarded the Parachute Rigger Badge. Officers qualify upon successful completion of one of the following courses: Aerial Delivery and Materiel Officer Course; Parachute Maintenance and Aerial Supply Officer Course; Parachute Maintenance and Airdrop Course (officer or enlisted) or Parachute Rigger Course (enlisted). Sergeants Major and Master Sergeants who hold by career progression a MOS of 00Z or 76Z and formerly held an awarded MOS of 43E are qualified for award of the Parachute Rigger Badge.

(b) Retroactive award. The Parachute Rigger Badge may be awarded retroactively to any individual who graduated from the Parachute Rigger school after May 1951 and holds or at anytime held an awarded MOS listed in paragraph (a) of this section. Officers must have successfully completed one of the courses listed in paragraph (a) of this section to qualify for retroactive award of the badge. The badge may also be awarded retroactively to any individual who performed as a rigger prior to May 1951 and did not attend or graduate from the U.S. Army Quartermaster Center and School.

(c) Who may award—(1) Current awards. Current awards of the Parachute Rigger Badge will be made by the Commandant, U.S. Army Quartermaster School, Fort Lee, VA 23801-5152, and the Commander, USA HRC (§ 578.3(c) for address).

(2) Retroactive awards—(i) After 1951. Requests for award of the badge from individuals having no current Army status (veterans and retirees) who qualified after 1951 will be forwarded to the NPRC (see § 578.16(a)(3) for address).

(ii) Before 1951. Requests for award of the badge from individuals (Active duty, veterans and retirees) who qualified before 1951 will be submitted to the Commandant, U.S. Army Quartermaster Center and School, ATTN: ATSM-Q-MG (Historian), Fort Lee, VA 23801-1601. Requests must include written justification and will be considered on a case-by-case basis.

(d) Description. A silver winged hemispherical canopy with conically arrayed cords, 1¾ inches wide, with a band centered on the badge inscribed “RIGGER.”

§ 578.79 Military Free Fall Parachutist Badge.

(a) The Military Free Fall Parachutist Badges identify Special Operations Forces (SOF) personnel who have qualified in one of the military's most demanding and hazardous skills, military free fall parachuting.

(b) Badge authorized. Two degrees of the Military Free Fall Parachutist Badges are authorized for award: Basic and Jumpmaster.

(c) Eligibility requirements. (1) Military Free Fall Parachutist Badge, Basic. To be eligible for the basic badge, an individual must meet one of the following criteria:

(i) Have satisfactorily completed a prescribed program of instruction in military free fall approved by the U.S. Army John F. Kennedy Special Warfare Center and School (USAJFKSWC&S); or

(ii) Have executed a military free fall combat jump.

(2) Military Free Fall Parachutist Badge, Jumpmaster. To be eligible for the Jumpmaster Badge, an individual must have satisfactorily completed a prescribed military free fall jumpmaster program of instruction approved by USAJFKSWC&S.

(d) Approval authority. (1) The Commander in Chief, U.S. Special Operations Command is the approval authority for award of these badges.

(2) The Commanding General, USAJFKSWC&S is the approval authority for award of the badges to qualifying personnel upon their graduation from USAJFKSWC&S Military Free Fall Parachutist basic and Military Free Fall Parachutist Jumpmaster courses.

(3) Retroactive Award. Special Operations Forces personnel who qualified in military free fall prior to October 1, 1994 must obtain approval prior to wearing the Military Free Fall Parachutist Badges. Requests for award of the badge will be submitted in writing to Commander, U.S. Army John F. Kennedy Special Warfare Center and School, ATTN: AFJK-GPD-SA, Fort Bragg, NC 28307-5000. Applications will include the following:

(i) Name, rank, SSN, and MOS;

(ii) Copy of official jump record, DA Form 1307 (Individual Jump Record), and any other supporting documents (that is, graduation or qualification certificates).

(4) Veterans and Retirees. Veterans and retirees may request update of their records to show permanent award of the badge by writing to the NPRC (§ 578.16 (a)(3) for address). Requests should include copy of official jump record, DA Form 1307 (Individual Jump Record), and any other support documents (that is, graduation or qualification certificates).

(e) A bronze service star is authorized to be worn on all degrees of the Military Free Fall Parachutist Badge to denote a soldier's participation in a combat parachute jump. Orders are required to confirm award of this badge. A soldier's combat parachute jump credit is tied directly to the combat assault landing credit decision for the unit to which the soldier is assigned or attached at the time of the assault landing. Should a unit be denied air assault credit, no air assault credit for purpose of this badge will accrue to the individual soldiers of that unit. Each soldier must physically exit the aircraft to receive combat parachute jump credit and the Military Free Fall Parachutist badge with bronze service star.

§ 578.80 Army Aviator Badges.

(a) Badges authorized. There are three degrees of the aviator badges authorized for award. They are as follows: Basic Army Aviator Badge, Senior Army Aviator Badge, and Master Army Aviator Badge.

(b) Eligibility Requirements. (1) Eligibility for U.S. Personnel. An individual must have satisfactorily completed prescribed training and proficiency tests as outlined in AR 600-105, and must have been designated as an aviator in orders issued by headquarters indicated above.

(2) Eligibility for foreign military personnel. While only U.S. officers may be awarded an aeronautical rating, the Army Aviator Badge may be awarded to foreign military graduates of initial entry flight-training courses conducted at the U.S. Army Aviation Center. The Senior and Master Army Aviator Badges may be awarded to foreign military personnel rated as pilots who meet or exceed eligibility criteria required of U.S. Army officers for the respective badges, and subject to the regulations of their countries. As a minimum, foreign officers recommended for award of advanced aviator badges must—

(i) Be currently qualified for flying duty in their own military service.

(ii) Be medically qualified.

(iii) If not a graduate of an initial entry U.S. Army aviation course, have attended a formal training or aircraft transition course conducted at Fort Rucker or at an U.S. Army Aviation Training School.

(iv) Have 1000 flying hours in aircraft and 7 years from basic rating date for the Senior Aviator Badge; have 2000 hours in aircraft and 15 years from basic rating date for the Master Aviator Badge. Total Operational Flying Duty Credit (TOFDC) which may be applied by U.S. officers to qualify for advanced badges will not be used to justify awards to foreign officers.

(c) Approval authority. Badge approval authority is as follows: (1) The Commander, U.S. Army Aviation Center and Fort Rucker, to U.S. student aviators upon successful completion of courses leading to an aeronautical rating of Army Aviator, and to foreign military personnel under the provisions of paragraph (d) of this section.

(2) CG, USA HRC (HRC-OPA-V) to inter-service transfers who previously held an aeronautical rating in another service.

(3) Commanders having general court-martial convening authority may award the Senior or Master Army Aviator Badge to officers on extended active duty.

(4) Major Army overseas commanders, CONUSA (the numbered armies in the continental United States) commanders, and CDR, USA HRC may award the Senior and Master Aviator Badge to U.S. Army Reserve personnel not on extended active duty in the Active Army.

(5) Chief, National Guard Bureau may award the Senior or Master Aviator Badge to Army National Guard (ARNG) personnel not on extended active duty in the Active Army.

(d) Army Astronaut Device. A gold colored device, 7/16 inch in length, consisting of a star emitting three contrails encircled by an elliptical orbit. It is awarded by the Chief of Staff, Army, to personnel who complete a minimum of one operational mission in space (50 miles above earth) and is affixed to the appropriate Army Aviator Badge, Flight Surgeon Badge, or Aviation Badge awarded to the astronaut. Individuals who have not been awarded one of the badges listed above but who meet the other astronaut criteria will be awarded the basic Aviation Badge with Army Astronaut Device.

(e) Description. An oxidized silver badge ¾ inch in height and 2½ inches in width, consisting of the shield of the coat of arms of the United States on and over a pair of displayed wings. A star is added above the shield to indicate qualification as a Senior Army Aviator. The star is surrounded with a laurel wreath to indicate qualification as a Master Army Aviator.

§ 578.81 Flight Surgeon Badges.

(a) Badges authorized. Three levels of Flight Surgeon Badges are authorized for award, Basic Flight Surgeon Badge; Senior Flight Surgeon Badge; and Master Flight Surgeon Badge.

(b) Eligibility requirements. Any Army Medical Corps officer who satisfactorily completes the training and other requirements prescribed by AR 600-105.

(c) Badge approval authority. (1) The basic Flight Surgeon Badge may be awarded by the Commanding General, U.S. Army Aviation Center and Fort Rucker. The CG will award the badge to those U.S. medical officers who have been awarded an aeronautical designation per AR 600-105 and to foreign military personnel who complete the training and the requirements prescribed by AR 600-105.

(2) Senior and Master Flight Surgeon Badges may be awarded by the following:

(i) The Surgeon General. Forward requests to HQDA (DASG-HCZ, WASH DC 20310-2300.

(ii) The Chief, National Guard Bureau to National Guard personnel not on active duty. Forward requests to the National Guard Bureau, Military Personnel Office, 111 South George Mason Drive, Arlington, VA 22204-1382.

(d) Description. An oxidized silver badge 23/32 inch in height and 2½ inches in width, consisting of a shield, its field scored with horizontal lines and bearing the Staff of Aesculapius on and over a pair of displayed wings. A star is added above the shield to indicate the degree of Senior Flight Surgeon and the star is surrounded with a laurel wreath to indicate the degree of Master Flight Surgeon.

§ 578.82 Diver Badges.

(a) Badges authorized. There are five types of Diver Badges authorized for award, Master Diver Badge; First-Class Diver Badge; Salvage Diver Badge; Second-Class Diver Badge; and Scuba Diver Badge.

(b) Navy Badges. The following Navy Diving Badges may also be worn on the Army uniform after written approval is obtained from HQ, AHRC (§ 578.3(c)): Diving Officer and Diving Medical Officer. The eligibility criteria and approval authority for these two badges is provided in Army Regulation AR 611-75, Selection, Qualification, Rating and Disrating of Marine Divers.

(c) Eligibility requirements. See AR 611-75.

(d) Badge approval authority. See AR 611-75.

(e) Descriptions. (1) Scuba—A 1 inch high silver badge consisting of a scuba diver's hood with face mask, mouthpiece, and breathing tubes. The width is 31/32 inch.

(2) Salvage—A silver diving helmet, 1 inch in height, with the letter “S” ⅜ inch in height, superimposed on the chest plate. The width is 23/32 inch.

(3) Second Class—A silver diving helmet 1 inch in height. The width is 23/32 inch.

(4) First Class—A silver diving helmet 15/16 inch in height, between two dolphins, 1 inch high. The width is 1 3/32 inches.

§ 578.83 Special Operations Diver Badge.

(a) The Scuba Diver Badge was renamed the Special Operations Diver Badge (SODB). In additional to the SODB, another skill level was created, Special Operations Diving Supervisor Badge (SODSB).

(b) Eligibility criteria. The basic eligibility criteria for award of the SODB and the SODSB are as follows:

(1) The SODB is awarded to graduates of the U.S. Army John F. Kennedy Special Warfare Center and School (USAJFKSWCS) Combat Diver Qualification Course (CDQC), Special Forces Underwater Operations, Key West, Florida or any other United States Army Special Operations Command (USASOC) approved combat diver qualification course.

(2) The SODSB is awarded to graduates of the USAJFKSWCS CDQC, Special Forces Underwater Operations, Key West, Florida or any other USASOC approved combat diving supervisor course. Prerequisite for the SODSB is the SODB.

(c) Approval authority. The Commanding General, USAJFKSWCS is the approval authority for the SODB and the SODSB.

(d) Retroactive award. The SODB and the SODSB may be awarded retroactively to members of any service who successfully completed the USAJFKSWCS CDQC and the Combat Diving Supervisor Course on or after October 1, 1964. Retroactive award requests will be submitted to the Commander, USAJFKSWCS, ATTN: AOJK-GPB (C/21 SWTG LNO), Fort Bragg, NC 28310. Retroactive requests for veterans must be forwarded to the National Personnel Records Center, ATTN: NRPMA-M, 9700 Page Avenue, St. Louis, MO 63132-5100.

(e) Revocation. The SODB and the SODSB may be revoked by the Commander, USAJFKSWCS or the CG, USA HRC, based on the recommendation of the field commander (COL and above). If the commander believes the individual has exhibited a pattern of behavior or duty performance that is inconsistent with expectations of the Army, or the qualified service member does not continuously demonstrate enhanced degrees of confidence, commitment, competency and discipline, then the badge may be revoked. Award of the SODB and the SODSB may be revoked for any of the following conditions:

(1) Dismissal, dishonorable discharge, or conviction by courts-martial for desertion in time of war.

(2) Failure to maintain prescribed standards of personal fitness and readiness to accomplish missions commensurate with position and rank.

(3) Upon relief or release for cause.

(f) Description. (1) SODB. A silver badge 1⅛ inches (2.86cm) in height consisting of a diver's head in full gear in front of two crossed Sykes-Fairbain Commando daggers points up. Around either side of the diver's head is diving shark with tail fin behind the dagger point.

(2) SODSB. A silver badge 1⅛ inches (2.86cm) in height consisting of a diver's head in full gear in front of two crossed Sykes-Fairbain Commando daggers points up. Around either side of the diver's head a diving shark with tail fin behind the dagger point. Over the mouth piece is a star surrounded by a wreath of laurel.

§ 578.84 Explosive Ordnance Disposal Badges.

(a) Badges authorized. There are three types of explosive ordnance disposal (EOD) badges authorized for award. They are the Basic, Senior, and Master.

(b) Badge approval authority. Commanding generals of divisions and higher commands; commanders of separate groups or equivalent headquarters exercising operational control of EOD personnel or units, Commandant, U.S. Army Ordnance Missile & Munitions Center & School, and a commander of an EOD Control Group, or units may approve awards of all levels of badges.

(c) Basic eligibility criteria. Eligibility requirements for each badge are provided below.

(d) Description. A silver badge, 1¾ inches in height, consisting of shield charged with a conventional, drop bomb, point down, from which radiates four lightning flashes, all in front of and contained within a wreath of laurel leaves. The Senior Explosive Ordnance Disposal Badge is the same as the basic badge except the drop bomb bears a 7/32 inch silver star. The Master Explosive Ordnance Disposal Badge is the same as the Senior Badge except a star, surrounded by a laurel wreath, is added above the shield.

§ 578.85 Explosive Ordnance Disposal Badge—Basic.

(a) Eligibility requirements. Any commissioned officer or enlisted soldier may be awarded the badge if he or she meets, or has met, all the following requirements: (1) Successful completion of conventional render safe qualification as prescribed for the Explosive Ordnance Disposal (EOD) course of instruction (minimum requirement).

(2) Assigned in a TOE or TDA EOD position for which basic EOD course is a prerequisite.

(3) Service in a position in paragraph (a)(2) of this section must be satisfactory for a period of 18 months for the award to be permanent.

(4) Officers must have a special skill identifier of 91E, and enlisted personnel must hold the military occupational specialty 55D.

(b) Who may award. See § 578.84 of this part.

§ 578.86 Senior Explosive Ordnance Disposal Badge.

(a) Eligibility requirements. Any commissioned officer or enlisted soldier may be awarded the badge if he or she has:

(1) Been awarded the basic Explosive Ordnance Disposal Badge and effective May 1, 1989, has served 36 months cumulative service assigned to a TOE or table of distribution (TD) EOD position following award of basic badge.

(2) Effective May 1, 1989, has served 36 months cumulative service assigned to a TOE or TD EOD position following award of the basic badge. Prior to May 1, 1989, must have served 18 months cumulative service assigned to a TOE or TD EOD position following award of the basic badge.

(3) Been recommended for the award by immediate commander.

(4) Current explosive ordnance disposal qualifications at the time of recommendation for the award.

(b) Who may award. See § 578.84 of this part.

§ 578.87 Master Explosive Ordnance Disposal Badge.

(a) Eligibility requirements. Any commissioned officer, or enlisted soldier may be awarded the badge if he or she meets, or has met, all the following requirements:

(1) Must have been awarded the Senior Explosive Ordnance Disposal Badge.

(2) Sixty months cumulative service assigned to a TOE or TD officer or noncommissioned officer EOD position since award of Senior Explosive Ordnance Disposal Badge.

(3) Must be recommended for the award by immediate commander.

(4) Explosive ordnance disposal qualifications must be current at the time of recommendation for the award.

(b) Who may award. See § 578.84 of this part.

§ 578.88 Pathfinder Badge.

(a) Eligibility criteria. (1) Successful completion of the Pathfinder Course conducted by the U.S. Army Infantry School.

(2) Any person previously awarded the Pathfinder award for completion of Pathfinder training is authorized award of the Pathfinder Badge.

(b) Badge approval authority. The Pathfinder Badge may be approved by the Commandant, U.S. Army Infantry School.

(c) Description. A gold color metal and enamel badge 1 3/16 inches in height and 1½ inches in width, consisting of a gold sinister wing displayed on and over a gold torch with red and gray flames.

§ 578.89 Air Assault Badge.

(a) Basic eligibility criteria. The basic eligibility criteria consist of satisfactory completion of—

(1) An air assault training course according to the TRADOC standardized Air Assault Core Program of Instruction.

(2) The standard Air Assault Course while assigned or attached to 101st Airborne Division (Air Assault) since April 1, 1974.

(b) Badge approval authority. Badge approval authority is as follows:

(1) Commanders of divisions and separate brigades.

(2) The Commander, 101st Airborne Division (Air Assault).

(c) Description. An oxidized silver badge ¾ inch in height and 1 17/32 inches in width, consisting of a helicopter, frontal view, superimposed upon a pair of stylized wings displayed and curving. The wings suggest flight and together with the helicopter symbolize individual skills and qualifications in assault landings utilizing the helicopter.

§ 578.90 Aviation Badges.

(a) Badges authorized. There are three degrees of Aviation Badge (formerly the Aircraft Crew Member Badge) authorized for award, Basic, Senior and Master.

(b) Badge approval authority. Commanders exercising jurisdiction over the individuals' personnel records will make permanent award of these badges. Permanent award of these badges based upon wounds or combat missions will be referred to Commander, USA HRC (see § 578.3(c) for address). Request for award of the Senior and Master Aviation Badges that cannot be resolved at the MPD/PSC will be forwarded to the Commander, U.S. Army Aviation Center, ATTN: ATZQ-AP, Fort Rucker, AL 36362-5000.

(c) Special policy. (1) The retroactive date for these badges is January 1, 1947.

(2) The Master Aviation Badge and the Senior Aviation Badge are authorized for permanent wear. The Basic Aviation Badge may be authorized for temporary or permanent wear. An officer awarded an Aviation Badge while serving in an enlisted status is authorized to wear the badge as a permanent part of the uniform.

(d) Eligibility requirements for each badge are provided in §§ 578.91, 578.92, and 578.93.

(e) Description. An oxidized silver badge ¾ inch in height and 2 2/12 inches in width, consisting of a shield with its field scored with horizontal lines and bearing the coat of arms of the United States on and over a pair of displayed wings. A star is added above the shield to indicate the degree of Senior Aviation Badge and the star is surrounded with a laurel wreath to indicate the degree of Master Aviation Badge.

§ 578.91 Aviation Badge—Basic.

(a) Permanent Award. (1) For permanent award of this badge, an individual must be on flying status, (physically qualified-class III), IAW AR 600-106 or be waived by HQDA, have performed in-flight duties for not less than 12 hours (not necessarily consecutive), or is school trained.

(2) An officer on flying status as an aerial observer may be awarded the Basic Aviation Badge. U.S. Army personnel assigned to a Joint Service Airborne Command Post and serving as members of an operational team on flying status manning the Airborne Command Post are eligible for the award of the Basic Aviation Badge. Concurrent with such assignment, these personnel are authorized temporary wear of the Basic Aviation Badge until relieved from such duty or until such time as he or she fulfills the mandatory requirements for permanent award.

(3) An individual who has been incapacitated for further flight duty by reason of being wounded as a result of enemy action, or injured as the result of an aircraft accident for which he or she was not personally responsible, or has participated in at least 15 combat missions under probable exposure to enemy fire while serving in a principal duty outlined in paragraph (a)(1) of this section, is permanently authorized to wear the Basic Aviation Badge.

(4) The Basic Aviation Badge may be permanently awarded to soldiers upon successful completion of formal advanced individual training (AIT) in Career Management Field (CMF) 67 and CMF 93 MOS', and to soldiers who previously completed AIT in CMF 28 MOS'. This includes soldiers who graduated from AIT for MOS' in the 68 series. Soldiers holding MOS' 35L, 35M, 35Q, and 35W who graduated from a CMF 67 AIT prior to September 30, 1996 and MOSs 93C and 93P who graduated from a CMF 67 AIT after December 31, 1985 are authorized based on documented prior AIT.

(5) Individuals who meet the criteria for award of the Army Astronaut Device and are not authorized an Aviator, Flight Surgeon or Aviation Badge will be awarded the Aviation Badge in addition to the Army Astronaut Device.

(6) The Aviation Badge may be permanently awarded to soldiers upon successful completion of formal AIT in CMF 93 MOS'. Soldiers previously holding MOS 93B who graduated from a CMF 93 AIT prior to January 1, 1998 and soldiers previously holding MOS 93D who graduated from a CMF 93 AIT prior to September 30, 1996 are authorized the badge based on documented AIT after December 31, 1985.

(b) Temporary Award. For temporary award of this badge, the commander of any Army unit that has Army aircraft assigned may authorize in published orders qualified personnel of his or her command to wear the Aviation Badge. The individual must be performing in-flight duties.

§ 578.92 Senior Aviation Badge.

(a) Eligibility criteria. For award of this badge, an individual must either successfully perform 7 years on flight status (physically qualified-class III) in a principal duty assignment described in AR 600-106 or serve in CMF 67 and 93, including all 68 series MOS'. Warrant Officers MOS' 150A and 151A, and MOS 00Z individuals from CMF 67 or 93 field may qualify for the Senior Aviation Badge with 10 years of experience and meet the following criteria:

(1) Only time involving frequent and regular flights will be counted toward fulfillment of this requirement, except that time involved in transit between PCS assignments to include TDY, will also be credited.

(2) Soldiers who retain CMF 67 or 93 while performing career progressive assignments, especially duties as Drill Sergeant, Recruiter, Career Management NCO, Career Advisor, Instructor or Equal Opportunity Advisor will be counted towards this requirement not to exceed 36 months. Warrant Officers MOS 150A or 151A may qualify for this badge after successfully performing 7 years on flight status or 10 years experience in CMF 67 or 93, MOS 151A or 150A. Prior enlisted CMF 67 time may count with MOS 151A experience and CMF 93 time may count with MOS 150A experience to fulfill this requirement. The retroactive date for this badge under these criteria is January 1, 1983.

(3) Displayed complete competence in the principal duty or duties performed leading to this award.

(4) Attained the grade of E-4 or higher.

(5) Be recommended by the unit commander of the unit to which presently assigned.

(b) Retroactive award. The retroactive date for award of this badge is February 1, 1989 for CMF 93, Warrant Officer MOS' 150A and 151A and individuals in MOS 00Z. Soldiers holding CMF 93 or MOS 93D, prior to September 30, 1996 and MOS 93B prior to January 1, 1998, may qualify for award of the Senior Aviation Badge based on documented experience.

§ 578.93 Master Aviation Badge.

(a) For award of this badge, an individual must either successfully perform 15 years on flight status (physically qualified-class III) in a principal duty assignment described in AR 600-106 or serve in CMF 67 or 93, including all 68 series MOS'. Warrant Officers MOS' 150A and 151A and individuals in MOS 00Z from a CMF 67 or 93 field, may qualify for the Master Aviation Badge with 17 years of experience and meet the following criteria:

(1) Only time involving frequent and regular flights will be counted toward fulfillment of this requirement, except that time involved in transit between PCS assignments, to include TDY, will also be credited.

(2) Soldiers that retain CMF 67 or 93 while performing career progressive assignments, especially duties as Drill Sergeant, Recruiter, Career Management NCO, Career Advisor, Instructor or Equal Opportunity Advisor, will be counted towards this requirement not to exceed 36 months. Warrant Officer MOS' 150A and 151A may qualify for this badge after successfully performing 15 years on flight status or 17 years experience in CMF 67 or 93 or MOS 150A and 151A. Prior enlisted CMF 67 time may count with MOS 151A experience and CMF 93 time may count with MOS 150A experience to fulfill this requirement.

(3) Displayed complete competence in the principal duty or duties performed leading to this award.

(4) Attained the grade of E-6 or higher.

(5) Be recommended by the unit commander and endorsed by the next higher commander of the unit to which presently assigned.

(b) Retroactive date. The retroactive date for the badge under these revised criteria is January 1, 1976. The retroactive date for CMF 93, Warrant Officer MOS' 150A and 151A and individuals in MOS 00Z is February 1, 1982. Soldiers holding CMF 93, MOS 93D, prior to September 30, 1996 and MOS 93B, prior to January 1, 1998, may qualify for award of the Master Aviation Badge based on documented experience.

§ 578.94 Driver and Mechanic Badge.

(a) Basic criteria. The Driver and Mechanic Badge is awarded to drivers, mechanics, and special equipment operators to denote the attainment of a high degree of skill in the operation and maintenance of motor vehicles.

(b) Badge approval authority. Commanders of brigades, regiments, separate battalions, and any commander in the rank of lieutenant colonel or higher.

(c) Eligibility requirements for drivers. A soldier must—

(1) Qualify for and possess a current OF 346 (U.S. Government Motor Vehicles Operator's Identification Card), issued as prescribed by AR 600-55 and,

(2) Be assigned duties and responsibilities as a driver or assistant driver of government vehicles for a minimum of 12 consecutive months, or during at least 8,000 miles and with no government motor vehicle accident or traffic violation recorded on his or her DA Form 348-1-R (Equipment Operator's Qualification Record (Except Aircraft)), or,

(3) Perform satisfactorily for a minimum period of 1 year as an active qualified driver instructor or motor vehicle driver examiner.

(d) Eligibility requirements for mechanics. A soldier must—

(1) Pass aptitude tests and complete the standard mechanics' course with a “skilled” rating or have demonstrated possession of sufficient previous experience as an automotive or engineer equipment mechanic to justify such a rating.

(2) Be assigned to primary duty as an automotive or engineer mechanic, unit level or higher, or is an active automotive or engineer mechanic instructor.

(3) If required to drive an Army motor vehicle in connection with automotive mechanic or automotive mechanic instructor duties, qualify for motor vehicle operators permit as prescribed above, and perform duty which includes driving motor vehicles for a minimum of 6 consecutive months, and has no Army motor vehicle accident or traffic violation recorded on his or her DA Form 348 (Equipment Operator's Qualification Record (Except Aircraft)).

(e) Eligibility requirements for operators of special mechanical equipment. A soldier or civilian whose primary duty involves operation of Army materials handling or other mechanical equipment must have completed 12 consecutive months or 500 hours of operation, whichever comes later, without accident or written reprimand as the result of his or her operation, and his or her operating performance must have been adequate in all respects.

(f) Description. A white metal (silver, nickel and rhodium), 1 inch in height and width, a cross patee with the representation of disk wheel with tire placed on the center. Component bars are authorized only for the following types of vehicles and/or qualifications:

(1) Driver—W (for wheeled vehicles);

(2) Driver—T (for tracked vehicles);

(3) Driver—M (for motorcycles);

(4) Driver—A (for amphibious vehicles);

(5) Mechanic (for automotive or allied vehicles);

(6) Operator—S (for special mechanical equipment).

§ 578.95 Glider Badge (Rescinded).

(a) Effective May 3, 1961, the Glider Badge is no longer awarded. An individual who was awarded the badge upon satisfying then current eligibility requirements may continue to wear the badge. Further, it may be awarded retroactively upon application to the Commander, USA HRC (see § 578.3(c) for address), when it can be established by means of sufficient documentation that the proficiency tests then prescribed were satisfactorily completed while assigned or attached to an airborne unit or to the Airborne Department of the Infantry School, or by participation in at least one combat glider landing into enemy-held territory as a member of an organized force carrying out an assigned tactical mission for which the unit was credited with an airborne assault landing by the theater commander.

(b) Description. An oxidized silver badge 11/16 inch in height and 1½ inches in width consisting of a glider, frontal view, superimposed upon a pair of stylized wings displayed and curving inward.

§ 578.96 Nuclear Reactor Operator Badge (Rescinded).

(a) Effective October 1, 1990, the Nuclear Reactor Operator Badges are no longer awarded. The Army has not conducted nuclear reactor operations or nuclear reactor operator training in several years. Accordingly, the Nuclear Reactor Operator Badges will no longer be awarded. Current Army recipients who were permanently awarded any degree of the badge may continue to wear it on the Army uniform. AR 672-5-1, dated October 1, 1990, terminated authorization to award the badge.

(b) Description—(1) Basic. On a ⅞ inch square centered on two horizontal bars each ⅛ inch in width separated by a 3/32 inch square and protruding ⅛ inch from each side of the square, a disc ¾ inch in diameter bearing the symbol of the planet Uranus all silver colored metal ⅞ inch in height overall.

(2) Second Class Operator. The basic badge reduced in size placed on and partially encircled at the base by an open laurel wreath, the ends of the upper bar resting on the tips of the wreath, all of silver colored metal 1 inch in height overall. The areas between the wreath and the basic badge are pierced.

(3) First Class Operator. The basic badge reduced in size is placed on and entirely encircled by a closed laurel wreath all of silver colored metal 1 inch in height overall. The areas between the wreath and the basic badge are pierced.

(4) Shift Supervisor. The design of the Shift Supervisor Badge is the same as the First Class Operator Badge, except it is gold colored metal.

§ 578.97 Marksmanship Qualification Badge.

(a) Eligibility criteria. A basic marksmanship qualification badge is awarded to indicate the degree in which an individual, military or civilian, has qualified in a prescribed record course and an appropriate bar is furnished to denote each weapon with which he or she qualified. Each bar will be attached to the basic badge that indicates the qualification last attained with the respective weapon. Basic qualification badges are of three classes. Expert, sharpshooter, and marksman. The only weapons for which component bars are authorized are listed in Table 10. Basic marksmanship qualification badges are awarded to U.S. military and civilian personnel, and to foreign military personnel who qualify as prescribed.

(b) Approval authority—(1) To military personnel. Any commander in the rank or position of lieutenant colonel or higher may make awards to members of the Armed Forces of the United States; Camp/Post Commanders, Professors of Military Science, Directors of Army Instruction/Senior Army Instructors (DAI/SAI) or Reserve Officers' Training Corps (ROTC)/ Junior Reserve Officers' Training Corps (JROTC) units may make awards to members of the ROTC/JROTC.

(2) To civilian personnel. Installation commanders may make the authorization for civilian guards to wear marksmanship badges. Civilian guards will procure badges at their own expense.

(c) Description. (1) Expert. A white metal (silver, nickel and rhodium), 1.17 inches in height, a cross patee with the representation of a target placed on the center thereof and enclosed by a wreath;

(2) Sharpshooter: A white metal (silver, nickel, and rhodium), 1 inch in height, a cross patee with the representation of a target placed on the center thereof;

(3) Marksman. A white metal (silver, nickel, and rhodium), 1 inch in height, a cross patee.

(d) Component bars. Weapons for which component bars are authorized are provided in Table 10 below.

Table 10.—Weapons for Which Component Bars Are Authorized
Weapon | Inscription
Rifle | Rifle.
Pistol | Pistol.
Antiaircraft artillery | AA Artillery.
Automatic rifle | Auto Rifle.
Machinegun | Machinegun.
Field Artillery | Field Arty.
Tank Weapons | Tank Weapons.
Flamethrower | Flamethrower.
Submachine Gun | Submachine Gun.
Rocket Launcher | Rocket Launcher.
Grenade | Grenade.
Carbine | Carbine.
Recoilless rifle | Recoilless rifle.
Mortar | Mortar.
Bayonet | Bayonet.
Rifle, small bore | Small bore rifle.
Pistol, small bore | Small bore pistol.
Missile | Missile.
Aeroweapons | Aeroweapons.

§ 578.98 Ranger Tab.

(a) Basic eligibility criteria. The basic eligibility criteria for award of the Ranger Tab is as follows:

(1) Successful completion of a Ranger course conducted by the U.S. Army Infantry School.

(2) Any person who was awarded the Combat Infantryman Badge while serving during World War II as a member of a Ranger Battalion (1st-6th inclusive) or in the 5307th Composite Unit (Provisional) (Merrill's Marauders).

(3) Any person who successfully completed a Ranger course conducted by the Ranger Training Command at Fort Benning, GA.

(b) Award approval authority. The Commandant of the U.S. Army Infantry School; CG, USA HRC, and the Cdr, USA HRC-St. Louis, may award the Ranger Tab.

(c) Description. The ranger qualification tab is 2⅜ inches wide with a black embroidered background and yellow embroidered border and letters. A subdued version with olive drab background and border and black letters is authorized for work uniforms.

§ 578.99 Special Forces Tab.

(a) Basic eligibility criteria. Any person meeting one of the criteria below may be awarded the Special Forces (SF) Tab:

(1) Successful completion of USAJFKSWCS approved Active Component (AC) institutional training leading to SF qualification;

(2) Successful completion of a USAJFKSWCS approved Reserve Component (RC) SF qualification program;

(3) Successful completion of an authorized unit administered SF qualification program.

(b) Award approval authority. The Commander, U.S. Army John F. Kennedy Special Warfare Center (USAJFKSWCS), Fort Bragg, NC 28307-5000.

(c) Active Component institutional training. The SF Tab may be awarded to all personnel who successfully complete the Special Forces Qualification Course or Special Forces Detachment Officer Qualification Course (previously known as the Special Forces Officer Course). These courses are/were conducted by the USAJFKSWC (previously known as the U.S. Army Institute for Military Assistance).

(d) Reserve Component SF qualification programs. The SF Tab may be awarded to all personnel who successfully complete a RC SF qualification program according to TRADOC Regulation 135-5, dated June 1, 1988 or its predecessors. The USAJFKSWCS will determine individual entitlement for award of the SF Tab based on historical review of Army, Continental Army Command (CONRAC), and TRADOC regulations prescribing SF qualification requirements in effect at the time the individual began an RC SF qualification program.

(e) Unit administered SF qualification programs. The SF Tab may be awarded to all personnel who successfully completed unit administered SF qualification programs as authorized by regulation. The USAJFKSWCS will determine individual entitlement to award of the SF Tab based upon historical review of regulations prescribing SF qualification requirements in effect at the time the individual began a unit administered SF qualification program.

(f) Wartime service. The SF Tab may be awarded to all personnel who performed the following wartime service.

(1) Prior to 1955. Service for at least 120 consecutive days in one of the following organizations: 1st Special Service Force, August 1942 to December 1944, OSS Detachment 101, April 1942 to September 1945, OSS Jedburgh Detachments, May 1944 to May 1945, OSS Operational Groups, May 1944 to May 1945, OSS Maritime Unit, April 1942 to September 1945, 6th Army Special Reconnaissance Unit (Alamo Scouts), February 1944 to September 1945, and 8240th Army Unit, June 1950 to July 1953.

(2) 1955 through 1975. Any company grade officer or enlisted member awarded the CIB while serving for at least 120 consecutive days in one of the following type organizations: SF Operational Detachment-A (A-Team), Mobile Strike Force, SF Reconnaissance Team, and SF Special Project Unit.

(g) Description. The SF Tab is 3¼ inches wide with a teal blue embroidered background and border and yellow embroidered letters. A subdued version with olive drab background and borders and black letters is authorized for work uniforms. A metal SF Badge is authorized for wear on the mess/dress uniforms and green shirt.

§ 578.100 Sapper Tab.

(a) Purpose. The Sapper Tab was established by the Chief of Staff, Army, on June 28, 2004. It is authorized for award to U.S. military and civilian personnel and foreign military personnel who meet the prescribed eligibility criteria.

(b) Basic eligibility criteria. The basic eligibility criteria for award of the Sapper Tab is as follows:

(1) Successful graduation of a Sapper Leader Course conducted by the U.S. Army Engineer School.

(2) Any person who successfully graduates from a Sapper Leaders Course conducted by the U.S. Army Engineer School at Fort Leonard Wood, MO.

(3) The tab may be awarded retroactively to any person who successfully completed the Sapper Leaders Course on or after June 14, 1985.

(c) Revocation. The Sapper Tab may be revoked by the Commandant, U.S. Army Engineer School or the CG, USA HRC based on the recommendation of the field commander (Colonel and above) of the individual in question. This can be based on the opinion of that commander, that the individual has exhibited a pattern of behavior, expertise or duty performance that is inconsistent with expectations of the Army, that is, degree of confidence, commitment, competency and discipline. Award of the Sapper Tab may be revoked for any of the following conditions:

(1) Dismissal, dishonorable discharge, or conviction by court's martial for desertion in time of war.

(2) Failure to maintain prescribed standards of personal fitness and readiness to accomplish missions commensurate with position and rank.

(3) Upon relief or release for cause.

(d) Award approval authority. The Commandant of the U.S. Army Engineer School and the CG, USA HRC, may award the Sapper Tab.

(e) Description. The full color tab is 2⅜ inches (6.03 cm) long, 11/16 inch (1.75 cm) wide, with a ⅛ inch (.32 cm) red border and the word “SAPPER” inscribed in white letters 5/16 inch (1.79 cm) high. The woodland subdued tab is identical, except the background is olive drab and the word “SAPPER” is in black letters and the desert subdued tab has a khaki background with the word “SAPPER” in spice brown letters.

§ 578.101 Physical Fitness Badge.

(a) The Physical Fitness Badge was established by the Secretary of the Army on June 25, 1986. Effective February 1, 1999, soldiers who obtain a minimum score of 270 or above, with a minimum of 90 points per event on the Army Physical Fitness Test (APFT) and meet the body fat standards will be awarded the Physical Fitness Badge for Physical Fitness Excellence. Soldiers are required to meet the above criteria each record test to continue to wear the badge. Units can obtain APFT Standards and the new APFT Card (DA Form 705, dated June 1998) off the World Wide Web at http:/www.benning.army.mil/usapfs/. Permanent Orders are not required for award of the Physical Fitness Badge.

(b) Description. On a dark blue disc 1⅝ inches (4.13 cm) in diameter edged dark blue; a yellow stylized human figure with arms outstretched in front of a representation of the coat of arms of the United States displaying six stars (three on each side of the figure and thirteen alternating white and red stripes, all encircled by a Brittany blue designation band inscribed “PHYSICAL FITNESS” at top and “EXCELLENCE” below separated on either side by a star, all navy blue; edged with a ⅛ inch (.32 cm) navy blue border. Overall diameter is 2⅝ inches (6.67 cm).

§ 578.102 U.S. Civilian Marksmanship Program.

The Civilian Marksmanship Program (CMP) was created by the U.S. Congress. The original purpose was to provide civilians an opportunity to learn and practice marksmanship skills so they would be skilled marksmen if later called on to service the U.S. military. Over the years the emphasis of the program shifted to focus on youth development through marksmanship. From 1916 to 1996 the CMP was administered by the U.S. Army. The National Defense Authorization Act for Fiscal Year 1996 (Title 10) created the Corporation for the (CPRPFS) Promotion of Rifle Practice and Firearms Safety, Inc. to take over administration and promotion of the CMP. The CPRPFS is a tax exempt not-for-profit 501(c)(3) organization that derives its mission from public law. The address for the CMP headquarters is PO Box 576, Port Clinton, Ohio, 43452.

§ 578.103 President's Hundred Tab.

(a) The President's Hundred Tab is awarded to soldiers who qualify among the top scoring 100 competitors in the President's Match.

(b) Background. (1) The National Rifle Association's (NRA) President's Match was instituted at the NRA matches of 1878, as the American Military Rifle Championship Match. It was patterned after an event for British Volunteers called the Queen's Match, which the NRA of Great Britain had initiated in 1860. In 1884, the name was changed to the President's Match for the Military Rifle Championship of the United States. It was fired at Creedmor, New York until 1891. In 1895, it was reintroduced at Sea Girt, New Jersey.

(2) The tradition of making a letter from the President of the United States the first prize began in 1904 when President Theodore Roosevelt, at the conclusion of the President's Match, personally wrote a letter of congratulations to the winner, Private Howard Gensch of the 1st Regiment of Infantry of the New Jersey National Guard.

(3) It cannot be ascertained as to when the President's Match was discontinued; however, it is known that it was not fired during World Wars I and II. It appears to have disappeared during the 1930s and during the depression when lack of funds severely curtailed the holding of matches of importance.

(4) The President's Match was reinstated in 1957 at the National Matches as “The President's Hundred.” The top-scoring 100 competitors in the President's Match were singled out for special recognition in a retreat ceremony in which they passed in review before the winner and former winners of this historic match.

(5) On May 27, 1958, the NRA requested the Deputy Chief of Staff, G-1 approval of a tab for presentation to each member of the “President's Hundred.” The NRA's plan was to award the cloth tab together with a metal tab during the 1958 National Matches. The cloth tab was of high level interest and approved for wear on the Army uniform on March 3, 1958. The first awards were made at Camp Perry, Ohio, in early September 1958. The metal tab was never officially authorized for wear on the uniform by military personnel. However, the NRA issued the metal tab to military personnel for wear on the shooting jacket.

(c) Description. A full-color embroidered tab of yellow 4¼ inches (10.80 cm) in length and ⅝ inch (1.59 cm) in height, with the words “President's Hundred” centered in ¼ inch (.64 cm) high green letters.

§ 578.104 Identification Badges.

(a) Intent. Identification Badges are authorized to be worn as public evidence of deserved honor and distinction to denote service performed in specified assignments in the White House, in the Office of the Secretary of Defense; in the Organization of the Joint Chiefs of Staff, in the Office of the Secretary of the Army or as members of the General Staff; as members of the Guard, Tomb of the Unknown Soldier; as a Drill Sergeant; as a U.S. Army Recruiter, as an Army National Guard Recruiter, as a U.S. Army Reserve Recruiter; or as a Career Counselor.

(b) It should be noted that some of the identification badges are not Department of the Army badges. Criteria and eligibility is subject to change and individuals are advised to contact the badge proponent for additional information and guidance.

(c) Eligibility requirements for the Identification Badges are provided in §§ 578.105 through 578.116.

§ 578.105 Presidential Service Badge and Certificate.

(a) The Presidential Service Badge and the Presidential Service Certificate were established by Executive Order 11174, September 1, 1964 as amended by Executive Order 11407, April 23, 1968; Executive Order 11520, March 25, 1970; and Executive Order 12793, March 20, 1992. This award replaced the White House Service Badge and Certificate established by Executive Order 10879, June 1, 1960.

(b) The certificate is awarded, in the name of the President by the Secretary of the Army, to members of the Army who have been assigned to the White House Office; to military units and support facilities under the administration of the White House Military Office or to other direct support positions with the Executive Office of the President (EOP). The certificate will not be issued to any member who is issued a Vice Presidential Certificate or similar EOP Certificate, for the same period of service. Such assignment must be for a period of at least one year, subsequent to January 21, 1989.

(c) The badge is awarded to those members of the Armed Forces who have been granted the Certificate and is awarded in the same manner in which the certificate is given. Once the badge is awarded, it may be worn as a permanent part of the uniform.

(d) Only one certificate will be awarded to an individual during an administration. Only one badge will be awarded to an individual regardless of the number of certificates received.

(e) The Presidential Service Badge and Certificate may be awarded posthumously.

§ 578.106 Vice Presidential Service Badge and Certificate.

(a) The Vice Presidential Service Badge was established by Executive Order 11926, July 19, 1976.

(b) The badge is awarded upon recommendation of the Military Assistant to the Vice President, by the Secretary of the Army to U.S. Army personnel who have been assigned to duty in the Office of the Vice President for at least 1 year after December 19, 1974.

(c) The badge shall be accompanied by a certificate, which is awarded in the same manner in which the badge is given. Once the badge is awarded it may be worn as a permanent part of the uniform.

(d) Only one badge will be awarded to an individual during an administration. Only one badge will be awarded to an individual regardless of the number of certificates received.

(e) The Vice Presidential Service Badge and Certificate may be awarded posthumously.

§ 578.107 Office of the Secretary of Defense Identification Badge.

(a) The Office of the Secretary of Defense Identification Badge is authorized under 10 U.S.C., to provide a distinct identification of military staff members while assigned and, after reassignment, to indicate that the service member satisfactorily served on the Secretary of Defense's staff. The prescribing directive for this badge is DOD 1348.33-M, Manual of Military Decorations and Awards.

(b) Description. The badge, 2 inches in diameter, consists of an eagle with wings displayed horizontally grasping three crossed arrows all gold bearing on its breast a shield paleways of thirteen pieces argent and gules a chief azure, a gold annulet passing behind the wing tips bearing thirteen gold stars above the eagle and a wreath of laurel and olive in green enamel below the eagle, the whole superimposed on a silver sunburst of 33 rays.

§ 578.108 Joint Chiefs of Staff Identification Badge.

(a) A certificate of eligibility may be issued to military personnel who have been assigned to duty and have served not less than 1 year after January 14, 1961 in a position of responsibility under the direct cognizance of the Joint Chiefs of Staff. The individual must have served in a position which requires as a primary duty the creation, development, or coordination of policies, principles, or concepts pertaining to a primary function of the organization of the Joint Chiefs of Staff and must be approved for authorization to wear the badge by the Chairman, Joint Chiefs of Staff; the Director, Joint Staff; the head of a Directorate of the Joint Staff; or one of the subordinate agencies of the organization of the Joint Chiefs of Staff. The certificate of eligibility constitutes authority for wearing the badge as a permanent part of the uniform.

(b) Description. Within an oral silver metal wreath of laurel, 2¼ inches in height and 2 inches in width overall, the shield on the United States (the chief in blue enamel and the 13 stripes alternating white and red enamel) superimposed on four gold metal unsheathed swords, two in pale and two in saltire with points to chief, the points and pommels resting on the wreath, the blades and grips entwined with a gold metal continuous scroll surrounding the shield with the word JOINT at the top and the words CHIEFS OF STAFF at the bottom, all in blue enamel letters.

§ 578.109 Army Staff Identification Badge.

(a) The Army Staff Identification Badge (ASIB) and Army Staff Lapel Pin (ASLP) are neither awards nor decorations but are distinguished marks of service at HQDA. They are visible signs of professional growth associated with the important duties and responsibilities of the Army Secretariat and the Army Staff (ARSTAF). Issuance of the ASIB and the ASLP is not automatic, but is based on demonstrated outstanding performance of duty and approval by a principal HQDA official. Eligibility for the ASIB does not constitute eligibility for the ASLP; likewise, eligibility for the ASLP does not constitute eligibility for the ASIB.

(b) Description. The Coat of Arms of the United States in gold with the stripes of the shield to be enameled white and red and chief of the shield and the sky of the glory to be enameled blue, superimposed on a five-pointed black enameled star; in each reentrant angle of the star are three green enameled laurel leaves. The star is 3 inches in diameter for the Chief of Staff and former Chiefs of Staff and a 2 inches in diameter badge is authorized for all other personnel awarded the badge.

§ 578. 110 Guard, Tomb of the Unknown Soldier Identification Badge.

(a) Wear. (1) The Guard, Tomb of the Unknown Soldier Identification Badge will be authorized by the Commanding Officer, 3d U.S. Infantry Regiment (The Old Guard), for wear by each member of the Tomb of the Unknown Soldier who have met all specified criteria for earning the badge. Only soldiers serving in the following positions are authorized to earn the badge:

(i) Commander of the Guard (Platoon Leader).

(ii) Sergeant of the Guard (Platoon Sergeant).

(iii) Commander of the Relief.

(iv) Sentinels.

(2) Effective December 17, 1963 the Commanding Officer, 3d U.S. Infantry Regiment (The Old Guard), may authorize the wearing of the badge as a permanent part of the uniform for personnel who:

(i) Have served honorably for a minimum of 9 months, which need not be continuous, as a member of the Tomb of the Unknown Soldier.

(ii) Have met all specified criteria for earning the badge.

(iii) Have been recommended by the Commanding Officer, E Company, 3d Infantry Regiment (The Old Guard).

(3) If soldiers who have served honorable meet all specified criteria for earning the badge prior to serving 9 total months as a member of the Tomb of the Unknown Soldier and are recommended by the Commanding Officer, E Company (Honor Guard), 3d U.S. Infantry Regiment (The Old Guard), temporary wear of the badge may be authorized by the Commanding Officer, 3d U.S. Infantry Regiment (The Old Guard).

(4) Soldiers who are moved from authorized positions prior to completion of 9 total months may be considered for permanent award on a case-by-case basis by the Commanding Officer, 3d U.S. Infantry Regiment (The Old Guard).

(b) Authorization. (1) Authorization of the badge as a uniform item will be made by order of the 3d U.S. Infantry Regiment Commander citing this paragraph as authority. This order will constitute authority for individuals to wear the badge as a part of their military uniform. Original issue of the badge will be made by the Commanding Officer of the 3d U.S. Infantry Regiment (The Old Guard). Replacements will be purchased from approved commercial sources to ensure the quality of the badge.

(2) This award is retroactive to February 1, 1958 for personnel in the Active Army. This date reflects when the badge was first created and recognized by the Army for official wear. Former soldiers may apply to Commander, 3d U.S. Infantry Regiment (The Old Guard), Fort Myer, VA 22211-5020.

(c) Revocation. (1) When the Commander of The Old Guard becomes aware of information about a current or former member of the Tomb of the Unknown Soldier who was authorized permanent wear of the Tomb Identification Badge that suggests inappropriate conduct, including, but not limited to, acts of commission or omission for a member of that unit, or the intention to engage in inappropriate conduct, he will notify the Commander, E Company (Honor Guard), 3d U.S. Infantry Regiment (The Old Guard). The Commander, E Company (Honor Guard) will conduct a Commander's Inquiry to determine if the matter warrants further investigation, or if there is sufficient information to recommend to the Commanding Officer, 3d U.S. Infantry Regiment (The Old Guard) that the Tomb Identification Badge be revoked or that the soldier be reassigned, or both.

(2) Nothing stated in this section prevents the Regimental Commander from taking peremptory action deemed necessary or appropriate to protect the interests of the U.S. Army, the 3d U.S. Infantry Regiment (The Old Guard), or the soldiers under his command. Authority to revoke the badge remains with Commanding Officer, 3d U.S. Infantry Regiment (The Old Guard). Revocation will be announced in permanent orders.

(d) Reinstatement. Requests to have the badge reinstated will be directed to the current Commanding Officer, Headquarters, 3d U.S. Infantry Regiment (The Old Guard), Fort Myer, VA 22211-1199. Requests will be reviewed upon receipt of all information and forwarded to the reinstatement authority with a recommendation. Approval authority for reinstatement of the badge is the Commander, USA HRC (see § 578.3(c) for address).

(e) Description. A silver color metal badge 2 inches in width and 1 15/32 inches in height, consisting of an inverted open laurel wreath surmounted by a representation of the front elevation of the Tomb of the Unknown Soldier, the upper section containing the three figures of Peace, Victory, and Valor, the base bearing in two lines the words “HONOR GUARD”, all in low relief.

§ 578.111 Army ROTC Nurse Cadet Program Identification Badge.

This badge is authorized for issue to and wear by contracted ROTC cadets enrolled in a program leading to a baccalaureate degree in nursing. It was formerly referred to as the Army Student Nurse Program Identification Badge.

§ 578.112 Drill Sergeant Identification Badge.

(a) Eligibility. Successful completion of the Drill Sergeant course and assignment as a drill sergeant to a training command.

(b) Authorization. The Commandant of the Drill Sergeant School will authorize the permanent wear of the badge to eligible personnel by memorandum. Officers are authorized to wear this badge if it was permanently awarded to them while in an enlisted status.

(c) Description—(1) Metal. A gold plated metal and enamel insignia, 2 inches (5.08 cm) in width and 1 51/64 inches (4.56 cm) in height, consisting of a flaming torch above a breast plate and jupon in front of a rattlesnake on a green background, grasping in its mouth at upper right and with its tail at upper left, the ends of an encircling scroll inscribed “THIS WE'LL DEFEND” in black letters, between 13 black star, 7 on the left and 6 on the right.

(2) Embroidered. An embroidered insignia, as described above in subdued colors, except the size is 2¾ inches (6.99 cm) in width and 2½ inches (6.35 cm) in height. The insignia is on a olive drab square background measuring 3½ inches (8.89 cm) in width and height.

§ 578.113 U.S. Army Recruiter Identification Badge.

(a) The U.S. Army Basic Recruiter Badge is authorized for wear by military personnel assigned or attached to the U.S. Army Recruiting Command (USAREC) as designated by the CG, USAREC. One, two, or three gold achievement stars may be awarded to eligible personnel meeting the criteria established for each achievement star by the CG, USAREC. These stars will be affixed to the basic badge.

(b) The U.S. Army Gold Recruiter Badge is authorized for wear by eligible personnel meeting the criteria established by the CG, USAREC. One, two, or three sapphire achievement stars may be awarded to eligible personnel meeting the criteria established for each achievement star by the CG, USAREC. These stars will be affixed to the gold badge.

(c) Description. A silver or gold color metal device 2⅛ inches (5.4 cm) in height overall consisting of a circular band inscribed, between two narrow green enamel borders, with the words “U.S. ARMY” on the left and “RECRUITER” on the right, in silver letters, reading clockwise and at bottom center three five-pointed stars; perched upon the inside edge of the band at bottom center an eagle looking to its right its wings raised vertically and extended over the top of the band and supported between its wings diagonally from lower left to upper right a flaming torch with both ends extended outside the band.

§ 578.114 Career Counselor Badge.

(a) The Career Counselor Badge may be authorized for wear by enlisted personnel assigned to authorized duty positions which requires Primary Military Occupational Specialty (PMOS) 79S (Career Counselor). The award is retroactive to January 1, 1972.

(b) Description. An oxidized silver badge 1⅞ inches in height overall consisting of an eagle with raised and outstretched wings standing upon, at the point of the intersection, the shaft of a spear to the left and the barrel of a musket with fixed bayonet to the right, weapons terminated just below the point of crossing, and all enclosed by a horizontal oval-shaped frame, its lower half consisting of a scroll inscribed with the words “CAREER COUNSELOR” in raised letters, the upper half composed of two olive branches issuing from the ends of the scroll at either side and passing behind the eagle's wing tips, meeting at top center; all areas between the eagle, spear and musket and the frame are pierced.

§ 578.115 Army National Guard Recruiting and Retention Identification Badges.

The National Guard Bureau (NGB-ARP) is the proponent agency for the Army National Guard Recruiting and Retention Identification Badges. There are three degrees of badges that may be awarded; basic, senior, and master ARNG Recruiter Badges. See National Guard Regulation 672-2.

§ 578.116 U.S. Army Reserve Recruiter Identification Badge.

The U.S. Army Reserve Recruiter Badge no longer exists as a separate identification badge. All Regular Army and Reserve Component recruiters only wear the U.S. Army Recruiter Identification Badges authorized in § 578.109 of this part.

§ 578.117 Foreign and International Decorations and Awards to U.S. Army Personnel—General.

(a) Guidelines. The provisions for receipt and acceptance, or prohibition thereof, of foreign decorations and badges outlined in this chapter apply to—

(1) Active Army, Army National Guard, and U.S. Army Reserve soldiers to include retirees regardless of duty status.

(2) All civilian employees of DA including experts and consultants under contract to DA.

(3) All spouses, unless legally separated and family members of the personnel listed in paragraphs (a)(1) and (2) of this section.

(b) The provisions for receipt and acceptance, or prohibition thereof, of foreign decorations and badges outlined in this chapter do not apply when:

(1) A foreign decoration is awarded posthumously. Such decorations and accompanying documents will be forwarded to Commander, USA HRC, (see § 578.3(c) for address), for delivery to next of kin.

(2) The recipient of a decoration dies before approval of acceptance can be obtained.

(3) A foreign decoration was awarded for service while the recipient was a bona fide member of the Armed Forces of a friendly foreign nation, provided the decoration was made prior to employment of the recipient by the U.S. Government.

(4) A decoration for service in the Republic of Vietnam was accepted on or after March 1, 1961, but not later than March 28, 1973.

(c) Restriction. No person will request, solicit, or otherwise encourage the tender of a foreign decoration. Whenever possible, personnel are obligated to initially refuse acceptance of foreign decorations.

(d) Constitutional restriction. No person holding any office of profit or trust under the United States will, without the consent of the Congress, accept any present, emolument, office, or title of any kind whatsoever from any king, prince, or foreign state. (Constitution, Article. I, section. 9) This includes decorations and awards tendered by any official of a foreign government.

(e) Congressional authorization. 5 U.S.C. 7342 authorizes members of the Army to accept, retain, and wear foreign decorations tendered in recognition of active field service in time of combat operations or awarded for other outstanding or unusually meritorious performance, subject to the approval of the Secretary of the Army.

(f) Participation in ceremonies. Subject to the restriction in, an individual may participate in a ceremony and receive the tender of a foreign decoration. The receipt of the decoration will not constitute acceptance of the award by the recipient.

(g) Disciplinary action. The wearing of unauthorized awards, decorations, or other devices is a violation of the Uniform Code of Military Justice and may subject a soldier to appropriate disciplinary action.

§ 578.118 Individual foreign decorations.

Decorations received which have been tendered in recognition of active field service in connection with combat operations or which have been awarded for outstanding or unusually meritorious performance may be accepted and worn upon receiving the approval of HQ, USA HRC. In the absence of such approval, the decoration will become the property of the United States and will be deposited with HQ, USA HRC, for use or disposal.

§ 578.119 Foreign unit decorations.

(a) During the period of military operations against an armed enemy and for 1 year thereafter; or while engaged in military operations involving conflict with an opposing foreign force; or while serving with friendly foreign forces engaged in an armed conflict against an opposing armed force in which the United States is not a belligerent party, Army Component commanders, or major Army commanders are authorized to accept foreign unit decorations tendered to brigades, battalions, or smaller units under their command. HQ, USA HRC (AHRC-PDO-PA) will take final action on all tenders of foreign unit decorations to headquarters and headquarters companies of divisions and higher or comparable units. This authority will not be further delegated. Acceptance of foreign unit decorations will be reported to the CG, USA HRC for confirmation in DAGO. Confirmed foreign unit decorations are listed in DA Pamphlet 672-1 and DA Pamphlet 672-3.

(b) Foreign unit decorations may be accepted only if all the following conditions are met:

(1) The decoration is tendered by a friendly foreign nation for heroism or exceptionally meritorious service in direct support of military operations;

(2) The decoration is one that is conferred by the national government of the foreign country upon units of its own Armed Forces; and

(3) The unit is cited by name in orders of the national government of the foreign country.

(c) Foreign unit decorations will be neither recommended by nor sought by the Department of the Army. Solicitation of foreign unit decorations by individuals or units within the Army is prohibited. Acceptance of foreign unit decorations will be approved by CG, USA HRC, only when the award is proffered by the foreign government based on services performed and without solicitation.

(d) Display of foreign unit decorations. Awards of foreign unit decorations are evidenced by streamers, fourrageres, or lanyards attached to the pike or lance as a component part of organizational colors, distinguishing flags or guidons.

(e) The streamer will be of colors corresponding to the ribbon of the unit decoration with the name of the action or the area of operations embroidered thereon. A separate streamer will be furnished for each award. The medal will be attached only on ceremonial occasions.

(f) Additional foreign unit decorations which have been tendered and accepted but for which no streamer is authorized for unit colors and guidons are as follows:

(1) Citation in the Order of the Day of the Belgian Army;

(2) State of Vietnam Ribbon of Friendship;

(3) Netherlands Orange Lanyard;

(g) Emblems. (1) Normally when a unit is cited, only the organizational color, distinguishing flag, or guidon is decorated. Unless specifically authorized by orders of the foreign government and approved by CG, USA HRC, no emblem is issued but may be purchased for wear on the uniform. See AR 670-1 for information on wear of foreign unit awards.

(2) The only emblems so far authorized for wear on the uniform to indicate a foreign decoration received by a unit are the French and Belgian Fourrageres, the Netherlands Orange Lanyard, the Philippine Republic Presidential Unit Citation Badge, the Republic of Korea Presidential Unit Citation Badge, the Vietnam Presidential Unit Citation Badge, the Republic of Vietnam Gallantry Cross Unit Citation Badge, and the Republic of Vietnam Civil Actions Medal Unit Citation Badges. Only the French Fourragere is authorized for temporary wear.

(3) The following emblems are not sold by the Department of the Army, but may be purchased if desired from civilian dealers in military insignia and some Army Exchanges: Philippine Republic, Republic of Korea, and the Vietnam Presidential Unit Citations, the Republic of Vietnam Gallantry Cross, and the Republic of Vietnam Civil Actions Medal.

§ 578.120 Foreign badges.

(a) Eligibility requirements. Qualification and special skill badges may be accepted if awarded in recognition of meeting the criteria, as established by the foreign government concerned, for the specific award. Only those badges that are awarded in recognition of military activities and by the military department of the host country are authorized for acceptance and permanent wear. Badges that do not meet these criteria may be authorized for acceptance but not for wear, and will not be entered in the official military records of the recipient. Of particular importance are the criteria established by the military department of the host country; for example, if a particular badge is authorized for award only to enlisted personnel of host country then badge may be accepted and worn by U.S. Army enlisted personnel.

(b) Awarding authority. Commanders (overseas and CONUS) serving in the rank of brigadier general or higher and colonel level commanders who exercise general court-martial authority are delegated authority to approve the acceptance, retention, and permanent wear of foreign badges. This authority may be further delegated to commanders charged with custody of military personnel record files. The burden of proof rests on the individual soldier to produce valid justification, that is, orders, citations, or other original copies of the foreign elements that awarded them the badge. A list of approved badges are provided in Appendix D, AR 600-8-22 and the Army Awards Branch Web site: https://www.perscomonline.army.mil/tagd/awards/Appendix_D.doc. Request for accept and wear of any foreign badges not listed in Appendix D or the website will be forwarded to HQ, USA HRC (see § 578.3(c) for address).

(c) Other badges. Badges presented to Army personnel which do not fall under the category of qualification or special skill badges discussed in paragraph (a) of this section (honorary badges, identification devices, insignia) will be reported in accordance with AR 1-100, paragraph 6. Badges in these categories are considered gifts. They will not be authorized for wear nor entered in official military personnel records.

(d) Wear. AR 670-1 governs the manner of wear of foreign qualification and special skill badges.

§ 578.121 United Nations Service Medal.

(a) The United National Service Medal (UNSM) was established by United Nations General Assembly Resolution 483(V), December 12, 1950. Presidential acceptance for the United States Armed Forces was announced by the DOD on November 27, 1951.

(b) Qualifications. To qualify for award of the UNSM, individuals must meet one of the following:

(1) Members of the Armed Forces of the United States dispatched to Korea or adjacent areas for service on behalf of the United Nations in the action in Korea.

(2) Other personnel dispatched to Korea or adjacent areas as members of paramilitary and quasi-military units designated by the U.S. Government for service in support of United Nations action in Korea and certified by the United Nations Commander in Chief as having directly supported military operations there.

(3) Personnel awarded the Korean Service Medal automatically establish eligibility for the United Nations Service Medal.

(4) Service with a national contingent designated by the U.S. Government for service in support of the United Nations action in Korea and certified by the United Nations Commander in Chief as having directly supported military operations in Korea.

(c) Service requirements. Service will be for periods provided between June 27, 1950 and July 27, 1954, inclusive, under either of the following conditions:

(1) Within the territorial limits of Korea or the waters immediately adjacent thereto or in the air over Korea or over such waters.

(2) The service prescribed must have been performed while serving with any unit as provided in paragraphs (b)(1) and (2) of this section as specified below:

(i) While on an assignment to such unit for any period between the dates specified above.

(ii) While attached to such a unit for a period of 30 days consecutive or nonconsecutive, between the dates specified above.

(iii) While in active combat against the enemy under conditions other than those prescribed in paragraphs (b) and (c) of this section if a combat decoration has been awarded or an individual certificate testifying to such combat service has been furnished by the commander of an independent force or a division, ship, or air group, or comparable or higher unit.

(d) Exclusions. No personnel of the United Nations or of its specialized agencies or of any national government service other than as prescribed above and no International Red Cross personnel engaged for service under the United Nations Commander in Chief with any United Nations relief team in Korea will be eligible for award of the medal.

§ 578.122 Inter-American Defense Board Medal.

(a) The Inter-American Defense Board Medal was established by the Ninety-first Session of the Inter-American Defense Board on December 11, 1945 and authorized by Executive Order 11446, January 18, 1969.

(b) U.S. military personnel who have served on the Inter-American Defense Board for at least 1 year as chairman of the board, delegates, advisers, officers of the staff, officers of the secretariat, or officers of the Inter-American Defense College may wear the Inter-American Defense Board ribbon permanently.

(c) U.S. military personnel who have been awarded the Inter-American Defense Board Medal and ribbon may wear them when attending meetings, ceremonies, or other functions where Latin American members of the Board are present.

§ 578.123 Philippine Defense Ribbon.

The Philippine Defense Ribbon is awarded for service in the defense of the Philippines from December 8, 1941 to June 15, 1942, under either of the following conditions:

(a) Participation in any engagement against the enemy in Philippine territory, in Philippine waters, or in the air over the Philippines or over Philippine waters. An individual will be considered as having participated in an engagement if they meet one of the following:

(1) Was a member of the defense garrison of the Bataan Peninsula or of the fortified islands at the entrance to Manila Bay.

(2) Was a member of and present with a unit actually under enemy fire or air attack.

(3) Served on a ship that was under enemy fire or air attack.

(4) Was a crewmember or passenger in an airplane that was under enemy aerial or ground fire.

(b) Assigned or stationed in Philippine territory or in Philippine waters for not less than 30 days during the period.

(c) Individuals who meet conditions set forth in paragraphs (a) and (b) of this section are authorized to wear a bronze service star on the ribbon.

§ 578.124 Philippine Liberation Ribbon.

(a) The Philippine Liberation Ribbon is authorized by DA Circular 59, March 8, 1948.

(b) It is awarded for service in the liberation of the Philippines from October 17, 1944 to September 3, 1945, under any of the following conditions:

(1) Participated in the initial landing operations on Leyte or adjoining islands from October 17, 1944 to October 20, 1944. An individual will be considered as having participated in such operations if he landed on Leyte or adjoining islands, was on a ship in Philippine waters, or was a crewmember of an airplane, which flew over Philippine territory during the period.

(2) Participated in any engagement against the enemy during the campaign on Leyte and adjoining islands. An individual will be considered as having participated in combat if he meets any of the conditions set forth in Philippine Defense Ribbon § 578.123(a)(2) through (4).

(3) Participated in any engagement against the enemy on islands other than those included in paragraph (b)(2) of this section. An individual will be considered as having participated in combat if he or she meets any of the conditions set forth in Philippine Defense Ribbon § 578.123(a)(2) through (4).

(4) Served in the Philippine Islands or on ships in Philippine waters for not less than 30 days during the period.

(c) Bronze service stars. An individual who meets more than one of the conditions set forth in paragraph (a) of this section is authorized to wear a bronze service star on the ribbon for each additional condition under which he or she qualifies other than that under which he or she is eligible for the initial award of the ribbon.

§ 578.125 Philippine Independence Ribbon.

The Philippine Independence Ribbon is authorized by DA Circular 59, 1948. Any recipient of both the Philippine Defense and Philippine Liberation ribbons is eligible for award of the Philippine Independence Ribbon. United States Army personnel authorized to wear the Philippine Independence Ribbon under the established criteria, may continue to wear the ribbon, provided the authority for such wear was recorded before November 24, 1954.

§ 578.126 United Nations Medal.

(a) Authorized by the Secretary General of the United Nations and Executive Order 11139, January 7, 1964. U.S. service members who are or have been in the service of the United Nations in operations designated by the Secretary of Defense may accept the United Nations Medal (UNM) when awarded by the Chief of the United Nations Mission.

(b) Eligibility. The eligibility criteria for award of the UNM requires that an individual serve under the operational or tactical control of the United Nations and serve a minimum of 90 consecutive days in the service of the United Nations. The following United Nations missions/operations have been approved for acceptance and wear:

(1) United Nations Observation Group in Lebanon (UNOGIL);

(2) United Nations Truce Supervision Organization in Palestine (UNTSO);

(3) United Nations Military Observer Group in India and Pakistan (UNMOGIP);

(4) United Nations Security Forces, Hollandia (UNSFH);

(5) United Nations Transitional Authority in Cambodia (UNTAC);

(6) United Nations Advance Mission in Cambodia (UNAMIC);

(7) United Nations Protection Force in Yugoslavia (UNPROFOR);

(8) United Nations Mission for the Referendum in Western Sahara (MINURSO);

(9) United Nations Iraq/Kuwait Observation Mission (UNIKOM);

(10) United Nations Operations in Somalia (to include U.S. Quick Reaction Force members) (UNOSOM);

(11) United Nations Mission in Haiti (UNMIH);

(12) United Nations Medal Special Service (UNMSS).

(c) Wear. Each United Nations mission for which an UNM is awarded is commemorated by a suspension and service ribbon of unique colors and design. The ribbon and medallion combination take on the name of the specific operation for which the combination was created. For example, the operation in the Former Republic of Yugoslavia is the United Nations Protection Force (UNPROFOR), yielding the UNPROFOR Medal. Service members who are awarded an UNM may wear the first UNM with unique suspension and service ribbon for which they qualify. A bronze service star will denote subsequent awards of the UNM for service in a different United Nations mission. Only one United Nations ribbon is authorized for wear.

(d) Presentation. The Senior Representative of the Secretary-General who makes the award normally makes presentation of the UNM in the field. Approval authority to accept and wear the UNM to member of the Armed Forces of the United States is the Secretary of Defense. When presentation is not so accomplished, any person who believes he or she is eligible for award may submit to Commander, USA HRC, (see § 578.3(c) for address) and a request for such award with copy of any substantiating documents. Commander, AHRC will forward each such request through the Office of Internal Administration, Office of the Assistant Secretary of State for International Organization Affairs, to the United Nations for consideration.

(e) Description—(1) Medal. The medal is bronze, 1⅜ inches in diameter, with a top view of the globe enclosed at sides and bottom by a wreath and the letters “UN” at the top of the medal. On the reverse side is the inscription “IN THE SERVICE OF PEACE”. The United Nations Service Medal Korea is the same design, except the obverse does not include the letters “UN” and the medal has a hanger bar with the inscription “KOREA”. On the reverse side of the United Nations Service Medal Korea is the inscription “FOR SERVICE IN DEFENCE OF THE PRINCIPLES OF THE CHARTER OF THE UNITED NATIONS”.

(2) Ribbon. Each United Nations mission for which a UNM is awarded is commemorated by a suspension and service ribbon of unique colors and design. The ribbon and medallion combination take on the name of the specific operation for which the combination was created. For example, the operation in the Former Republic of Yugoslavia is the United Nations Protection Force (UNPROFOR), yielding the UNPROFOR Medal. Service members who are awarded a UNM may wear the first UNM with unique suspension and service ribbon for which they qualify. A bronze service star will be worn to denote subsequent awards of the UNM for service in a different United Nations mission. Only one United Nations ribbon is authorized for wear.

§ 578.127 North Atlantic Treaty Organization (NATO) Medal.

(a) The North Atlantic Treaty Organization (NATO) Medal is awarded by the Secretary-General of the North Atlantic Treaty Organization to military and civilian members of the Armed Forces of the United States who participate in NATO operations related to the former Republic of Yugoslavia. The Secretary of Defense authorized acceptance of the NATO Medal on November 14, 1995.

(b) Acceptance. Acceptance of the NATO Medal has been approved for U.S. military personnel who serve under NATO command or operational control in direct support of NATO operations in the former Republic of Yugoslavia, or as designated by the Supreme Allied Command, Europe (SACEUR), from July 1, 1992 to a date to be determined.

(c) Presentation. The NATO Medal will normally be presented by the Allied Command Europe headquarters exercising operational command or control over U.S. military units or individuals prior to their departure from service with NATO.

(d) Medal set. The medal set includes a ribbon clasp denoting the specific operation for which the award was made. U.S. service members are authorized to retain the ribbon clasp presented but may not wear the clasp. Only the basic medal and service ribbon are authorized for wear on the uniform.

(e) Subsequent awards. Subsequent awards (if approved by the Secretary of Defense) for service in a different NATO operation, U.S. military personnel will affix a bronze service star to the NATO Medal suspension ribbon and service ribbon.

(f) Precedence. The NATO Medal shall have the same precedence as the United Nations Medal, but will rank immediately below the United Nations Medal when the wearer has been awarded both medals.

(g) Description. The medal is bronze, 1⅜ inches in diameter, bearing on the obverse the NATO emblem (a four pointed star emitting a ray from each point superimposed on an annulet) enclosed in base by a wreath of olive. The reverse side has a band inscribed “NORTH ATLANTIC TREATY ORGANIZATION” at top and “ORGANISATION DU TRAITE DE L'ATLANTIQUE NORD” at the bottom. In the center is a sprig of olive between the inscription “IN SERVICE OF PEACE AND FREEDOM” above and “AU SERVICE DE LA PAIX ET DE LA LIBERTE” below. The ribbon is 1⅜ inches wide and consists of the following stripes: 5/32 inch Yale Blue 67176; ⅛ inch White 67101; 13/16 inch Yale Blue; ⅛ inch White; and 5/32 inch Yale Blue.

§ 578.128 Multinational Force and Observers Medal.

(a) The Multinational Force and Observers (MFO) Medal was established by the Director General, Multinational Force and Observers, March 24, 1982. Presidential acceptance for the United States Armed Forces and DOD civilian personnel is announced by DOD on July 28, 1982.

(b) Eligibility. To qualify for the award personnel must have served with the MFO at least ninety (90) cumulative days after August 3, 1981. Effective March 15, 1985, personnel must serve 6 months (170 days minimum) with the MFO to qualify for the award. Periods of service on behalf of the MFO outside of the Sinai, and periods of leave while a member is serving with the MFO, may be counted toward eligibility for the MFO medal. Qualifying time may be lost for disciplinary reasons.

(c) Awards. The Director General, MFO makes awards, or in his or her name by officials to whom he or she delegates awarding authority.

(d) Presentation. Presentations are usually to be made by personnel designated by the Director General, MFO. When presentation is not accomplished, any person with MFO service who believes he or she is eligible for the award may submit a request for the award to Commander, USA HRC, (see § 578.3(c) for address). This request must include complete details related to MFO duty, including geographical location and inclusive dates of service, and copies of all substantiating documents. Commanding General, USA HRC, will then forward each such request through the Office of Internal Administration, Office of the Assistant Secretary of State for International Organization Affairs, to the Multinational Force and Observers for consideration.

(e) Subsequent awards. An appropriate numeral starting with numeral 2 will indicate second and subsequent awards for each completed 6-month tour. If an individual has not completed a cumulative 6-month tour, he or she is not eligible for award of the MFO medal unless one of the following conditions exists:

(1) The award is to be made posthumously.

(2) The member is medically evacuated due to service-incurred injuries or serious illness.

(3) The member is withdrawn at the request of the parent Government for national service reasons under honorable conditions.

§ 578.129 Republic of Vietnam Campaign Medal.

(a) Criteria. The Republic of Vietnam Campaign Medal is awarded by the Government of the Republic of Vietnam to members of the United States Armed Forces and authorized by DOD 1348.33-M.

(b) Requirements. To qualify for award personnel must meet one of the following requirements:

(1) Have served in the Republic of Vietnam for 6 months during period specified in paragraph (c) of this section.

(2) Have served outside the geographical limits of the Republic of Vietnam and contributed direct combat support to the Republic of Vietnam and Armed Forces for 6 months. Such individuals must meet the criteria established for the Armed Forces Expeditionary Medal (Vietnam) or the Vietnam Service Medal, during the period of service required to qualify for the Republic of Vietnam Campaign Medal.

(3) Have served as in paragraph (b)(1) or (2) of this section for less than 6 months and have been one of the following:

(i) Wounded by hostile forces.

(ii) Captured by hostile forces, but later escaped, was rescued or released.

(iii) Killed in action or otherwise in line of duty.

(4) Personnel assigned in the Republic of Vietnam on January 28, 1973 must meet one of the following: (i) Served a minimum of 60 days in the Republic of Vietnam as of that date.

(ii) Completed a minimum of 60 days service in the Republic of Vietnam during the period from January 28, 1973 to March 28, 1973, inclusive.

(c) Eligibility for award under authority of this paragraph is limited to the period from March 1, 1961 to March 2, 1973, inclusive. Eligibility for acceptance of this award solely by virtue of service performed prior to March 1, 1961 or subsequent to March 1973 is governed by AR 600-8-22, paragraph 9-8.

(d) The Republic of Vietnam Campaign Medal with Device (1960) and the miniature medal are items of individual purchase.

§ 578.130 Kuwait Liberation Medal—Saudi Arabia.

(a) The Kuwait Liberation Medal is awarded by the Government of Saudi Arabia to members of the Armed Forces of the United States and authorized by DOD on January 3, 1992.

(b) It is awarded to members of the Armed Forces of the U.S. who participated in Operation DESERT STORM between January 17, 1991 and February 28, 1991 in one or more of the following areas: Persian Gulf; Red Sea; Gulf of Oman; that portion of the Arabian Sea that lies north of 10 degrees north latitude and west of 68 degrees east longitude; the Gulf of Aden; or the total land areas of Iraq, Kuwait, Saudi Arabia, Oman, Bahrain, Qatar, and the United Arab Emirates.

(c) To be eligible personnel must meet one of the following qualifications:

(1) Be attached to or regularly serving for one or more days with an organization participating in ground or shore operations.

(2) Be attached to or regularly serving for one or more days aboard a naval vessel directly supporting military operations.

(3) Actually participate as a crew member in one or more aerial flights supporting military operations in the areas designated above.

(4) Serve on temporary duty for 30 consecutive days during the period January 17, 1991 to February 28, 1991 under any of the criteria in paragraphs (b)(1) through (3) of this section. This time limit may be waived by HQ, USA HRC (AHRC-PDO-PA) for people participating in actual combat operations.

(d) The eligibility period and geographic boundaries were specified by the Government of Saudi Arabia and may not be waived.

(e) Posthumous award to the next of kin of any soldier who lost his or her life, while, or as a direct result of, participating in Operation DESERT STORM between January 17, 1991 and February 28, 1991, without regard to the length of such service, will be made by HQ, USA AHRC (AHRC-PDO-PA).

(f) The Kuwait Liberation Medal, ribbon, and miniature medal are items of individual purchase. The Army accomplished an initial issue to eligible personnel from a one-time stock provided by the Government of Saudi Arabia in 1992.

(g) Description. The medal is 1 25/32 inches in width and is described as follows: On a gold sunburst with stylized silver rays, a glob depicting the Arabian Peninsula encircled by a wreath of palm between a scroll in the base inscribed “Liberation of Kuwait” and at the top a palm tree issuing from two diagonally crossed sabers, all gold. The ribbon is 1⅜ inches wide and consists of the following stripes: 5/32 inch Old Glory Red 67156; 4/64 inch black 67138; 9/64 inch white stripe 67101; center ⅝ inch irish green 67189; 9/64 inch white stripe 67101; 5/64 inch black 67138; and 5/32 inch Old Glory Red.

§ 578.131 Kuwait Liberation Medal—Kuwait.

(a) The Kuwait Liberation Medal is awarded by the Government of Kuwait to members of the Armed Forces of the United States and authorized by the DOD on August 7, 1995.

(b) It is awarded to members of the Armed Forces of the U.S. who served in support of Operations DESERT SHIELD and DESERT STORM between August 2, 1990 and August 31, 1993 in one or more of the following areas: the Arabian Gulf; the Red Sea; the Gulf of Oman; that portion of the Arabian Sea that lies north of 10 degrees north latitude and west of 68 degrees east longitude; the Gulf of Aden; or the total land areas of Iraq, Kuwait, Saudi Arabia, Omar, Bahrain, Qatar, and the United Arab Emirates.

(c) To be eligible, personnel must meet one of the following qualifications:

(1) Be attached to or regularly serving for one or more days with an organization participating in ground and/or shore operations.

(2) Be attached to or regularly serving for one or more days aboard a naval vessel directly supporting military operations.

(3) Actually participate as a crew member in one or more aerial flights directly supporting military operations in the areas designated above.

(4) Serve on temporary duty for 30 consecutive days or 60 nonconsecutive days during the period August 2, 1990 to August 31, 1993 under any of the criteria in paragraphs (c)(1) through (3) of this section. This time limit may be waived by HQ, USA HRC (AHRC-PDO-PA) for soldiers participating in actual combat operations.

(d) The eligibility period and geographic boundaries were specified by the Government of Kuwait and may not be waived.

(e) Posthumous award to the next of kin of any soldier who lost his life, while, or as direct result of participating in Operations DESERT SHIELD/STORM between August 2, 1990 and August 31, 1993, without regard to the length of such service, will be made by HQ, USA HRC (AHRC-PDO-PA).

(f) The Government of Kuwait provided a one-time stock of the Kuwait Liberation Medal for initial issue to eligible personnel.

(g) Description. A bronze metal and enamel, 1 9/16 inches in diameter suspended from a bar by a wreath. A obverse bears the Coat of Arms of the State of Kuwait. The Coat of Arms consists of the shield of the flag design in color superimposed on a falcon with wings displayed. The falcon supports a disk containing a sailing ship with the full name of the State written at the top of the disk. At the top of the medal is the inscription “1991 Liberation Medal” in Arabic letters. The reverse side is the map of Kuwait on a rayed background. The ribbon is the pattern of the flag of the State of Kuwait and consists of three equal stripes 29/64 inch each of the following colors: old glory red (cable 67156), white (cable 67101), and irish green (cable 67189). A black trapezium is at top of the ribbon drape and service ribbon.

§ 578.132 Republic of Korea War Service Medal.

(a) The Republic of Korea War Service Medal (ROKWSM) was originally offered to the Armed Forces of the United States by the Ministry of Defense, Republic of Korea, on November 15, 1951. On 20 August 1999, the Assistant Secretary of Defense (Force Management & Policy) approved acceptance and wear of the medal for veterans of the Korean War.

(b) Criteria. It is awarded to members of the U.S. Armed Forces who served in Korea and adjacent waters between June 25, 1950 and July 27, 1953. The service prescribed must have been performed as follows:

(1) While on permanent assignment; or

(2) While on temporary duty within the territorial limits of Korea or on waters immediately adjacent thereto for 30 consecutive days or 60 nonconsecutive days; or

(3) While as crew members of aircraft, in aerial flight over Korea participating in actual combat operations or in support of combat operations.

(c) Supply of the medal. The Air Force is the Executive Agency for the ROKWSM. Therefore, requests for award of the medal should be forwarded to the following address: HQ, Air Force Personnel Center, DPPPRK, 550 C Street W, Suite 12, Randolph AFB, TX 78150-4612.

(d) Order of precedence. Order of precedence for non-U.S. service medals and ribbons is determined by date of approval. Accordingly, the ROKWSM will be worn after the Kuwait Liberation Medal—Government of Kuwait. For the majority of Korean War veterans, the medal will be worn after the United Nations Medal or the Republic of Vietnam Campaign Medal, if they served during the Vietnam Conflict era.

(e) Description. A gold six pointed star with rays, 37mm in diameter, superimposed by a white enameled star, 42mm in diameter, overall in center a green disc, 18mm in diameter, with the outline of the Vietnamese country with a red flame of three rays between North and South Vietnam. On the reverse of the medal is a circle with a designated band containing the word “CHIEN-DICH” (Campaign) at the top and “BOI-THINH” (Medal) at the bottom. Across the center of the circle is the word “VIET-NAM”. The ribbon is 1⅜ inches wide and consists of the following stripes: 1/16 inch gherkin green 67183; 3/16 inch white 67101; 5/16 inch gherkin green 67183; ¼ inch white 67101; 5/16 inch gherkin green 67183; 3/16 inch white 67101; 1/16 inch gherkin green 67183, and 3/16 inch white 67101.

§ 578.133 Certificates for decorations.

(a) Current issue. A certificate will be presented with each award of an authorized military decoration. In no case will a commander issue a certificate indicating award of a military decoration other than on the standard DA certificate for the awarded decoration. Awards certificates will be issued without reference to numbered oak leaf clusters.

(b) Completion. Each certificate for award of the Legion of Merit (LM), Meritorious Service Medal (MSM), Army Commendation Medal (ARCOM) and Army Achievement Medal (AAM) will be completed by the awarding commander and will bear his or her personal signature in the lower right corner. The Permanent Orders number and date are typed on the line on the left side of the LM, MSM, ARCOM, and AAM certificates. The grade, name, and branch of service, together with the place and dates of the act, achievement, or service of the recipient, will be inserted on the certificate in the appropriate spaces.

(c) Replacement of Award Certificates—(1) Veterans and retirees. Veterans and retirees awarded U.S. military decorations to whom an appropriate certificate has not been issued may apply for such certificate by writing to the appropriate office indicated in § 578.66.

(2) Active duty soldiers. Active duty soldiers may request replacement certificate through command channels to the headquarters currently having authority to award the decoration for which certificate is required. Each request should include a copy of the orders announcing the award. The replacement certificate will be annotated with the original order number (for example, Per Permanent Orders XX-XX, January 1, 2000).

§ 578.134 Certificate of Achievement.

(a) Commanders may recognize periods of faithful service, acts, or achievements which do not meet the standards required for decorations by issuing to individual U.S. military personnel a DA Form 2442 (Certificate of Achievement) or a Certificate of Achievement of local design.

(b) Certificates of Achievement will be issued under such regulations as the local commander may prescribe.

(c) If a locally designed Certificate of Achievement is printed for use according to this regulation, it may bear reproductions of insignia. In the interest of economy, the use of color will be held to a minimum.

(d) The citation on such certificates will not be worded so that the act of service performed appears to warrant the award of a decoration.

(e) No distinguishing device is authorized for wear to indicate the receipt of a Certificate of Achievement.

§ 578.135 Certificate of appreciation to employers.

(a) To improve employer acceptance of the concept of military leave for participation in Reserve Component training and to encourage employers to adopt liberal military leave policies, certificates of appreciation may be presented to employers who have wholeheartedly and consistently cooperated in granting military leave to employees.

(b) The Commanding Generals, TRADOC, FORSCOM, State adjutants general, Army Reserve General Officer Commands, Corps, and the U.S. Army Military District of Washington are authorized to make this award.

(c) Certificates will be presented by the awarding commander or by an authorized representative, as appropriate.

§ 578.136 Certificates for badges.

Commanders authorized to award badges may issue, simultaneously, appropriate certificates of achievement to persons under their command who have qualified for the respective badges. The certificate also may bear a citation which will follow closely the prescribed eligibility requirements for the respective badge.

§ 578.137 Cold War Recognition Certificate.

Public Law 105-85, Section 1084, established a Cold War Recognition Certificate to recognize all members of the Armed Forces and qualified Federal government civilian personnel who faithfully and honorably served the United States during the Cold War Era from September 2, 1945 to December 26, 1991. The Cold War Recognition System homepage at https://www.perscomonline.army.mil/tagd/coldwar/default.htm announces the program and provides instructions for individual requests.

[FR Doc. 06-2854 Filed 4-4-06; 8:45 am]

BILLING CODE 3710-08-P